DEPARTMENT OF HOMELAND SECURITY

Coast Guard

33 CFR Parts 148, 149, and 150

[USCG 1998-3884]

1625-AA20 (Formerly RIN 2115-AF63)

Deepwater Ports

AGENCY: Coast Guard, DHS.

ACTION: Final rule.

SUMMARY: This final rule supersedes the temporary interim rule that was published on January 6, 2004. The temporary interim rule revised 1975 regulations that implemented the Deepwater Port Act of 1974. It updated and streamlined those regulations in accordance with the 1996 Deepwater Port Modernization Act, and extended them to include the natural gas deepwater ports authorized by Congress in the Maritime Transportation Security Act of 2002. This final rule revises and finalizes the regulations issued in the temporary interim rule.

DATES: This rule is effective September 29, 2006.

ADDRESSES: Comments and material received from the public, as well as documents mentioned in this preamble as being available in the docket, are part of docket USCG-1998-3884 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call Kevin Tone, Deepwater Port Standards Division (G-PSO-5), U.S. Coast Guard, telephone 202-372-1441. If you have questions on viewing the docket, call Renee V. Wright, Program Manager, Docket Operations, telephone 202-493-0402.

SUPPLEMENTARY INFORMATION:

Table of Contents

Abbreviations and Acronyms

Regulatory History

Background and Purpose

Discussion of Comments and Changes

Regulatory Evaluation

Small Entities

Collection of Information

Federalism

Unfunded Mandates Reform Act

Taking of Private Property

Civil Justice Reform

Protection of Children

Indian Tribal Governments

Energy Effects

Technical Standards

Environment

List of Subjects

Abbreviations and Acronyms

ALJ Law Judge

ATBA Area to be Avoided

COTP Captain of the Port

CTS Cargo Transfer System

CE Certifying Entity

DPA Deepwater Port Act

DPMA Deepwater Port Modernization Act

EPIRB Emergency Position Indicating Radio Beacon

EPA Environmental Protection Agency

GGDWP Gulf Gateway Deepwater Port

IMO International Maritime Organization

LNG Liquefied Natural Gas

LNGRV Liquefied Natural Gas Regasification Vessel

LOOP Louisiana Offshore Oil Port

MARAD Maritime Administration

MTSA Maritime Transportation Security Act

MSDS Material Safety Data Sheet

MOA Memorandum of Agreement

MMS Minerals Management Service

NEPA National Environmental Policy Act

NOAA National Oceanic and Atmospheric Administration

NPDES National Pollutant Discharge Elimination System

NGTS Natural Gas Transfer System

NVIC Navigation and Vessel Inspection Circular

NAA No Anchoring Area

NAD 83 North American Datum of 1983

OCMI Officer in Charge of Marine Inspection

OTS Oil Transfer System

OCS Outer Continental Shelf

PIC Person in Charge (of Transfer)

PFD Personal Flotation Device

ROD Record of Decision

SEMP Safety and Environmental Management Program

SART Search and Rescue Transponder

SPM Single Point Mooring

STL Submerged Turret Loading (Buoy)

TIR Temporary Interim Rule

Regulatory History

This rulemaking began with publication of an advance notice of proposed rulemaking (ANPRM, 62 FR 45774, Aug. 29, 1997). The ANPRM was followed by a notice of proposed rulemaking (NPRM, 67 FR 37920, May 30, 2002). Both the ANPRM and NPRM confined their discussions to regulations for deepwater oil ports. In 2002, Congress authorized the issuance of a temporary interim rule (TIR) without prior public notice and comment, in order to extend deepwater port regulations to natural gas facilities. Our TIR (69 FR 724, Jan. 6, 2004) expires October 1, 2006, or upon replacement by a final rule, whichever comes first. We provided a 90-day public comment period following issuance of the TIR. Eight comments were received. No public meeting was requested and none was held. Two corrections were published to the TIR; the first on January 27, 2004 (69 FR 3836) and the second on August 30, 2004 (69 FR 52830).

Background and Purpose

Under existing statutes and interdepartmental agreements, the Coast Guard maintains regulations for the licensing, construction, and operation of deepwater ports. As defined in the Deepwater Port Act of 1974 (DPA), a deepwater port is a fixed or floating manmade structure other than a vessel, or a group of structures, located beyond State seaward boundaries and used or intended for use as a port or terminal for the transportation, storage, and further handling of oil or natural gas for transportation to any State. The Maritime Administration (MARAD) is responsible for issuing, revoking, and reinstating deepwater port licenses, but much of the processing required for each license application is conducted by the Coast Guard, with the cooperation of MARAD and several other Federal agencies.

The Coast Guard issued its first deepwater port regulations in 1975. Under the 1974 Deepwater Ports Act (DPA) scheme, deepwater ports could handle oil, but not natural gas. Only one deepwater oil port was built in the next three decades. To encourage greater use of deepwater ports, Congress passed a Deepwater Port Modernization Act (DPMA) in 1996. The DPMA sought to ensure fair treatment for deepwater ports by eliminating unnecessary regulation and promoting innovation, flexibility, and efficiency. We began this rulemaking in 1997 in order to implement the DPMA. We issued an NPRM in 2002. Among other proposals, the NPRM incorporated references to a 1999 NPRM for a related rulemaking (USCG-1998-3868, RIN 1625-AA18, formerly RIN 2115-AA18), dealing with Outer Continental Shelf (OCS) facilities.

Several months after we issued our NPRM, the Maritime Transportation Security Act (MTSA) of 2002 amended the DPA. After that, deepwater ports were authorized to transport natural gas as well as oil. The MTSA mandated the rapid promulgation of implementing regulations. Accordingly, we issued a temporary interim rule (TIR) in January 2004. The TIR updated the 1975 regulations in light of the 1999 OCS and 2002 deepwater port NPRMs, and public comments received on both those proposals, and also adapted the 1975 regulations to accommodate both natural gas and oil deepwater ports. To facilitate development of natural gas facilities, which employ a variety of designs, the TIR eliminated references to many specific industry standards in favor of imposing performance-based requirements. In issuing the TIR, we opened a new round of public comment.

On May 16, 2005, the Coast Guard issued Navigation and Vessel Inspection Circular No. 03-05 (NVIC 03-05; see notice of availability, 70 FR 33351, June 8, 2005). NVIC 03-05 provides nonbinding guidance to deepwater port license applicants and operators, to the Coast Guard, and to “certifying entities” that perform certification work on behalf of the Coast Guard. This guidance relates to the design, plan review, fabrication, installation, maintenance, and oversight of deepwater ports. NVIC 03-05 can be found in docket USCG-1998-3884 (see ADDRESSES).

Under the 2004 regulations, the Coast Guard has processed roughly a dozen applications for liquefied natural gas (LNG) deepwater ports, an impressive increase in interest compared to the three oil deepwater port applications processed, and two licensed, in the previous 30 years. Three applicants have been issued licenses by MARAD, and one LNG deepwater port is now operational. Each application involves several volumes of data and requires Federal agency processing, including the holding of public hearings and the preparation of an environmental impact statement. Under the strict timeline mandated by the DPA, all of that processing must be completed in about 11 months. Following the issuance of a license, additional Federal agency review is needed to make sure that the facility is developed, operated, and eventually decommissioned in accordance with its license and with applicable law, and that any necessary modifications receive proper approval. As a result, the Coast Guard and its Federal agency partners have acquired extensive practical experience with the workability of the 2004 regulations. Many of the changes in this final rule reflect that practical experience.

This final rule takes effect on publication, which is less than the thirty days ordinarily required by the Administrative Procedure Act. It has not been possible to complete the final rule earlier. Since the temporary interim rule expires on October 1, 2006, adhering to the thirty day rule would cause a temporary lapse in a regulatory scheme that will remain substantially unchanged since the temporary interim rule was adopted. This would jeopardize the Coast Guard's ability to process deepwater port license applications, which would be contrary to the public interest expressed through the DPA, DPMA, and MTSA. Therefore, the Coast Guard finds it impracticable, unnecessary, and contrary to the public interest to delay the effective date of this final rule, and finds good cause under the Administrative Procedure Act for the final rule to take effect upon publication.

Discussion of Comments and Changes

In the following pages, we discuss the public comments received on our 2004 TIR as well as other significant changes we are making to the regulatory text in this final rule. This discussion begins with a review of general comments and then moves sequentially through the three parts of Title 33, Code of Federal Regulations (parts 148, 149, and 150) that comprise the deepwater port regulations.

Some of the changes are made to align the requirements for plan submissions and specifications in 33 CFR part 149 with NVIC 03-05, to ensure consistency in the plan approval process.

Some changes are made in response to comments from the Minerals Management Service (MMS), which is not a public commenter but one of the Coast Guard's Federal agency partners in processing deepwater port applications. Because MMS comments appear in the public docket, we include them in this discussion as appropriate. Generally we have not explicitly incorporated MMS requirements, or those of any other Federal agency, in the final rule because we lack the authority to speak for them. However, we wish to emphasize that deepwater ports must comply with all applicable statutes and regulations, regardless of the agency responsible for their enforcement.

We thank all our commenters for their interest in this rulemaking.

Two commenters made recommendations on vessel routing measures in and around the Mississippi River, and on watchstanding conditions. While the suggestions may have merit, we did not incorporate them as they are outside the scope of this rulemaking.

§ 148.3: One commenter asked us to describe the duties and responsibilities of every Federal agency involved with deepwater ports. We have retained the very general overview that this section provides, and added a link to the interagency memorandum that outlines the roles and responsibilities of agencies cooperating with MARAD and the Coast Guard.

§ 148.5: “Adjacent coastal State”: We aligned this definition with the statutory definition from 33 U.S.C. 1502.

§ 148.5: “Affiliate”: One commenter requested that we remove “indirect” affiliates from the definition, on the grounds that it results in the inclusion of every affiliate regardless of the statutory 3% threshold. We are retaining the reference to “direct or indirect” ownership interests because it is similar to language that has appeared in our regulations since 1975, and mirrors the language of 33 U.S.C. 1504, which incorporates “any ownership interest in the applicant of greater than 3 per centum” into 33 U.S.C. 1502's statutory definition of an “affiliate.”

§ 148.5: “Applicant”: One commenter requested clarification of the word “person” in this definition. The word is defined later in this section and means an individual, a public or private corporation, a partnership or other association, or a government entity.

§ 148.5: “Approved”: One commenter requested that we add “or the Administrator of MARAD” to our definition. Our regulations refer to MARAD when it is necessary to do so. In this case, we refer only to Coast Guard approvals.

§ 148.5: “Area to be avoided” or “ ATBA”: At a commenter's suggestion, we are revising this definition to provide more information.

§ 148.5: “Certifying entity” or “CE”: We have added this definition due to substantive changes elsewhere in the deepwater port regulations.

§ 148.5: “Deepwater port”: We have declined one commenter's request to exclude structures or operations that, under certain circumstances, are also regulated by another Federal agency, because our definition closely follows statutory language in 33 U.S.C. 1502.

§ 148.5: “Marine site”: We are revising this definition by deleting “ships’ routes and anchorages,” in order to avoid an undue burden to OCS lease holders and non-deepwater port marine traffic.

§ 148.5: “Maritime Administration” or “MARAD”: We have revised this definition to refer specifically to the associate administrator currently responsible for deepwater port matters.

§ 148.5: “Metering platform”: At a commenter's suggestion, we revised this definition to clarify that these platforms measure, but do not necessarily control, the rate of transfer.

§ 148.5: “Natural gas liquids”: We are adding this definition in response to one commenter's suggestion.

§ 148.5: “Person in Charge (PIC)”: Due to common usage, we added a definition for a person in charge (of transfer), abbreviated as PIC, to distinguish it from other persons in charge (for example, of vessel operations, of maintenance, etc.), that are not abbreviated by PIC.

§ 148.5: “Routing systems”: At a commenter's suggestion, we are revising this definition to provide more information and to align terminology with international standards.

§ 148.5: “Safety zone”: At a commenter's suggestion, we are revising this definition to provide more information.

§ 148.5: “Survival craft”: We have revised this definition to align it with § 149.303.

§ 148.8: We added this section to describe how a certifying entity is designated and used to perform functions for which the Coast Guard is responsible.

Part 148, subpart B (§§ 148.100-148.125): One commenter asked us to cross-reference another agency's requirements in this subpart. An amendment is not needed, because the other agency will consider its own requirements in evaluating an application, and any necessary conditions can be included in the license itself.

§ 148.105(a): At a commenter's suggestion, we have revised paragraph (a)(5) to clarify the materiality standard. We also revised (a)(6) for clarity.

§ 148.105(d): We revised this section for clarity. No substantive change is intended.

§ 148.105(f): One commenter asked us to require applicants to state if the proposed deepwater port would have open or closed access. We have revised the section accordingly.

§ 148.105(g)(1): One commenter asked us to clarify that this provision applies only to those affiliates that have a direct ownership interest of greater than 3 percent or that have a direct contractual relationship with the deepwater port. We have amended the section accordingly.

§ 148.105(g)(2)(iii): One commenter requested that we add conditions or requirements for removing pipelines at decommissioning. We have revised the section to indicate that MARAD sets these conditions or requirements in the deepwater port license, and that only preliminary estimates need be included in the application.

§ 148.105(g)(5): One commenter recommended that applicants be required to report throughput of natural gas liquids as well as of oil and gas. We have added this requirement.

§ 148.105(k): At the suggestion of one commenter, we have revised this paragraph to require maps and diagrams to be certified by a professional surveyor.

§ 148.105(t), (v), and (w) (formerly (s), (u), and (v), respectively): One commenter pointed out that, as worded, these paragraphs may not provide adequate technical detail to guide applicants who must meet MMS requirements. For reasons already noted, we are retaining the current language, but emphasize that all applicants must meet any applicable statutory or regulatory requirements regardless of which agency enforces them.

§ 148.105(m) and (n): One commenter expressed concern that the 2-year limit for the use of existing data is unreasonable because older data has already been provided for some sites subject to leases granted by the MMS, and because nowhere else in the DPA is a 2-year limit requirement specified. We think raising the 2-year limit to 5 years reasonably addresses the commenter's concerns while ensuring that applications do not rely on obsolete data.

§ 148.105(m)(1)(i): We substituted “i.e.” with “for example”, for clarity.

§ 148.105(m)(1)(ii): One commenter recommended that we require applicants to specify distances from the deepwater port to OCS structures, and specify provisions for addressing casualties and emergency situations. Information regarding distances is required in the application, and the provisions for responses to emergencies are more appropriately addressed in the operations manual.

§ 148.105(p): We redesignated the existing paragraph as paragraph (p)(2), with minor revisions, and added new paragraph (p)(1), relating to information about the nationality of natural gas vessels servicing deepwater ports, to conform to section 304 of the 2006 Coast Guard authorization act.

§ 148.105(r): One commenter recommended that we add the word “dedicated” to fixed offshore components, to distinguish them from shared components. An example of this is a converted OCS platform with continuing OCS operations, co-located with a deepwater port. We have revised this section accordingly.

§ 148.105(s): We added this new paragraph at a commenter's suggestion, to deal with refurbished OCS facilities and co-located fixed offshore components.

§ 148.105(t) (formerly (s)): We added (t)(7), concerning information on a pipeline that will connect to the port, at the suggestion of one commenter. This commenter also asked us to add requirements for information on metering and sampling equipment, but that information is too detailed for the application phase and is more appropriately addressed after a license is issued.

§ 148.105(y): In reviewing past hazard analyses, we added this new paragraph to require an independent risk assessment. The risk assessment evaluates the probability and consequences of various potential accidental and intentional cargo release incidents. The site-specific requirements of the risk assessment will be dependent on many factors, including the proximity of the port to the general public, its potential for impact on the public, waterway traffic density, environmental conditions, and the current availability of LNG release data and modeling methods. To date, there has been no large-scale testing of LNG releases over water to validate the existing models. Therefore, all assessments and models should be appropriately conservative in their assumptions and conclusions.

§ 148.105(z) (formerly (x)): The MMS asked us to require more detailed technical information on environmental impacts and commingling issues. For the reasons already noted, we are retaining the current language, but emphasize that all applicants must meet any applicable statutory or regulatory requirements regardless of which agency enforces them.

§ 148.105(dd) (formerly (bb)): One commenter recommended that we require applicants to list all MMS permits and reviews. This section already requires the applicant to list all Federal permits and authorizations not otherwise specified in part 148.

§ 148.108: We revised this section for clarity, and in paragraph (c), at a commenter's suggestion, we lengthened what was formerly a 30-day time frame for requesting additional information. One commenter asked whether paragraph (d)(1) is limited to information that the Coast Guard needs. It is not. It is broad enough to cover any information that another agency involved in processing the application might need to fulfill that agency's obligations. For example, if a MMS-regulated facility could be affected by either the reuse of existing components or co-location with a deepwater port, the MMS could advise the Coast Guard and the applicant what data is required and whether the applicant must submit a revised Development Production Plan, or a Development Operations Coordinating Document, for a facility in the Gulf of Mexico.

§ 148.110: We made minor revisions for clarity.

§ 148.115(c): At the suggestion of one commenter, we revised this paragraph to make it clear that additional copies of the application may be requested in order to satisfy the requirements of other agencies involved in processing the application.

§ 148.125: We made minor revisions for clarity, and revised paragraph (c) to emphasize that, while payment of additional costs is due when those costs are assessed, payment must be made before a deepwater port begins operation.

§ 148.209: We made minor revisions for clarity. One commenter asked for a more comprehensive list of agencies involved in processing applications. This will vary depending on the location and specifics proposed for each port, but we have replaced a partial list of Federal agencies with a cross reference to our Interagency Memorandum of Understanding (MOU) for Processing Deepwater Port Applications.

§ 148.211(b): One commenter said that applicants should have to submit fully revised applications if changes become too voluminous. We agree, and added this paragraph accordingly.

§ 148.217(c): We revised this paragraph to clarify MARAD's role.

§ 148.221: We revised this section for clarity.

§§ 148.222, 148.227: We revised these sections to make it clear that they apply not only to the public hearing required by 33 U.S.C. 1504(g), but to any other public hearing or meeting that other applicable Federal statutes (for example, the National Environmental Policy Act) or regulations may require. Insofar as possible, we intend to employ similar procedures for hearings or meetings that applicable State or tribal law might require.

§ 148.276: At the suggestion of one commenter, we have revised this section to clarify that the statutory timeline governs MARAD's issuance of a record of decision, but not the actual issuance of a license.

§ 148.283: One commenter asked if this section addresses natural gas as well as oil deepwater ports. This section addresses any deepwater port.

Part 148, subpart D, §§ 148.300-148.320: One commenter recommended amending these sections that relate to licenses, and to permit levying additional license fees based on license conditions, amendments, transfers, and reinstatements. This is unnecessary because additional fees for such costs can be levied under section 148.125.

§ 148.305: At the suggestion of one commenter, we amended this section to clarify that the license conditions set by MARAD reflect the recommendations or requirements of all Federal agencies involved in processing an application.

§ 148.310: One commenter recommended terminating a license if port construction does not begin within 5 years, or if port operations are suspended for more than 2 years, arguing that this would prevent an ineffective licensee from indefinitely barring other activities in the vicinity. We have revised the section to make it clear that MARAD has the authority to set conditions of termination in the license.

§ 148.315: One commenter recommended imposing an inflation-adjustable fixed fee for amending, transferring or reinstating a license. Regulatory action is not needed because MARAD can address fees in setting license conditions.

§ 148.325: In response to a commenter's suggestion, we are adding this section concerning the decommissioning of a deepwater port. The same commenter also recommended adding a requirement for applicants to demonstrate the financial capacity to restore a deepwater port site after decommissioning. Regulatory action for the second request is not necessary because applicants are already required to estimate decommissioning costs under section 148.105(g)(2)(iii), and MARAD can address the applicant's financial capability to decommission the port as a condition of the license.

§ 148.400: One commenter recommended that we require the applicant to conduct a thorough OCS operations impact analysis, and include information on consultation with other Federal agencies. Regulatory action is not needed because the first concern is already addressed as part of any environmental assessment, while the second can be provided to applicants through interagency coordination.

§ 148.405(c)(3): At the suggestion of one commenter, we are requiring the applicant to specify the depth limit for sediment testing, in order to prevent incidents associated with potential shallow geological hazards.

§ 148.505: At MARAD's request we revised this section to require exemption applications to be sent to MARAD as well as the Coast Guard.

§ 148.605: One commenter noted the temporary interim rule's deletion of a specific reference to the lower liability cap approved in 1995 for the Louisiana Offshore Oil Port (LOOP; see 60 FR 39849, Aug. 4, 1995), and sought verification that this deletion was not intended to alter LOOP's liability cap. That is correct. The 1995 liability cap for LOOP remains in place. We have merely determined that specific caps for individual ports need not be included in the Code of Federal Regulations in order for them to be valid.

§ 148.700: One commenter implied that this section should provide more detail about an applicant's interaction with specific agencies. Regulatory action is not needed because this section provides only general information. Specific detail is communicated to each applicant in the normal course of the application process. See, for example, § 148.110, which provides for any person's right to confer with the Coast Guard about application requirements, and § 148.108, which provides for requesting the collection of additional information from an applicant.

§ 148.707: One commenter suggested making this section more explicit about the actual criteria the Coast Guard applies in its environmental analyses, and about the broad scope that an environmental analysis may cover. Regulatory action is not needed because this section provides only general information. Specific detail is communicated to each applicant and to the public in the course of an environmental analysis that meets all applicable statutory and regulatory requirements.

§ 148.710(a)(2): We clarified that the marine environment is the focus of this provision.

§ 148.710(b): We revised this paragraph in response to a commenter who pointed out that 33 U.S.C. 1504(i)(3) does not apply to natural gas deepwater ports.

§ 148.710(c): We are adding this paragraph in order to qualify the reference to “a single, detailed environmental impact statement or environmental assessment” in paragraph (b). Applicable regulations at 40 CFR 1502.9 permit the filing of supplemental environmental analyses in appropriate circumstances.

§ 148.715: At a commenter's suggestion, we revised this section by replacing “prevent or minimize” with language based on the discussion of mitigation in 40 CFR 1508.20.

§§ 148.720, 148.725: One commenter asked us to provide more information about other agencies' siting, design, construction, or operational criteria. Regulatory action is not needed because this section provides general information about Coast Guard implementation of applicable statutes. We partner with other agencies in processing each application, and they provide input based on the criteria under which they operate.

§ 148.730(a): One commenter said it was not clear that this paragraph applies to State agencies only in designated adjacent States. It does, and we have revised the paragraph accordingly.

§ 148.737: We made minor revisions at the suggestion of one commenter, and emphasized that the list is informational and not all-inclusive. Also, we deleted paragraph designations and former paragraph (b), which is redundant of § 148.710.

Part 149 (§§ 149.1-149.700): One commenter suggested an overall methodology for deepwater port design. Regulatory action is not needed because the current provisions of part 149 provide suitable flexibility and regulatory oversight.

§ 149.15: One commenter asked us to provide more detail with respect to alterations and modifications that could require another agency's approval. Regulatory action is not needed because license conditions and interagency agreements can provide adequately for the circumstances outlined by the commenter.

§ 149.110: One commenter asked us to specify emergency shut down and redundant protection measures under certain conditions. These measures can be addressed as part of the detailed, post-licensing design and engineering review and, once approved, described in the operations manual.

§ 149.305: We amended this section to better align it with § 149.304(a)(2), in response to one commenter who noted a possible conflict.

§ 149.403: We amended this section for clarification.

§ 149.415: We amended this section to clarify that the fire main systems must be constructed in accordance with 33 CFR 127.067 or comply with a national consensus standard.

§§ 149.416, 149.417 and 149.418: We removed these sections because they are redundant; the material discussed is adequately addressed in § 149.419. §§ 149.419, 149.420, 149.421, 149.422, 149.423 and 149.424 have been sequentially renumbered to align with the revised text.

§ 149.416 (formerly § 149.419): One commenter suggested that this section's requirement for compliance with 33 CFR 127.609 is incompatible with 33 CFR 149.418(a) and 46 CFR 108.425. Regulatory action is not needed because there is no conflict. 33 CFR 149.418(a) has been removed, and the industry standard referenced by the commenter applies to hoses for water systems, not dry chemical hoses.

§ 149.420 (formerly § 149.423): We added text to better define material construction of escape routes to provide adequate protection in the event of a fire.

§ 149.615: We updated this section to indicate that if the licensee uses a Coast Guard accepted Certifying Entity (CE), that the CE as well as the Coast Guard must be provided with all plans.

§ 149.620: One commenter asked us to require applicants to submit drawings to other agencies in appropriate circumstances. Regulatory action is not needed because the Coast Guard already makes drawings available to other agencies, when appropriate. A second commenter suggested that we should review and permit classification society guidelines. A similar suggestion was made with respect to § 149.625, and we believe the action we took in that section addresses the concern raised with respect to § 149.620.

§ 149.625: One commenter said this section should require deepwater port structures to conform to MMS regulations for OCS platforms. An amendment is not needed because the current regulations appropriately provide for design innovation while retaining the need for compliance with all applicable law. In response to another commenter's observation, we redesignated paragraph (b) to paragraph (c) and added a new paragraph (b) to indicate that the licensee must submit to Commandant (G-P) a design basis for approval of the proposed standards that will be used in the fabrication and construction of all systems and components. This process is covered in greater detail in NVIC 03-05.

§ 149.641(b): We revised this section for clarification.

§ 149.650: In response to a commenter's suggestion, we revised this section to remove the reference to the American Bureau of Shipping. The substance of the section is not affected.

§ 149.660: We revised this section for clarification.

§ 149.675: At a commenter's request, we revised this section to apply only to deepwater ports whose design warrants the use of such a system. This revision takes into account the innovative design of some deepwater ports, for which public address systems are unnecessary.

§ 149.691: At a commenter's suggestion, we revised this section to clarify that ports must either comply with 46 CFR 108.151, or follow an equivalent national consensus standard.

§ 149.697(c): One commenter asked if the decibel level determination referenced in this paragraph can be made instantaneously. It cannot. We revised the paragraph to make it clear that the determination must be made using the method described in paragraph (b).

§ 150.10: One commenter said that the port operations manual should include sections that deal with emergencies on ports that are co-located with MMS-regulated facilities. Necessary contingency measures will be addressed in the operations manual, but need not be detailed in regulatory text.

§ 150.15(l): One commenter recommended that we add requirements for normal pressure settings during transfer, as well as all relief valve settings and sensors. An amendment is not necessary because these specifics would be better addressed in the operations manual.

§ 150.15(n): We revised this paragraph by adding facility support services, and by clarifying that the listed equipment is only illustrative. The operations manual must include any key equipment that will need regular service or maintenance.

§ 150.15(o): We added this requirement for a waste management plan in response to a commenter's request.

§ 150.15(q)(formerly (p)): We added a requirement for procedures to notify nearby OCS facilities, at a commenter's suggestion.

§ 150.15(u): At a commenter's request, we added this requirement for emergency evacuation procedures comparable to 33 CFR 146.140(d).

§ 150.15(x)(formerly (v)): We revised this paragraph concerning security plans, for clarity.

§ 150.15(y): At a commenter's suggestion, we added language concerning special operations plans for contingency response in the event of an incident that might affect nearby OCS facilities. However, we emphasize that, like many lists in this subchapter, the list of special operations in this paragraph is merely illustrative. Depending on a proposed port's specific circumstances, other special operations plans could be required by this paragraph.

§ 150.15(aa)(formerly (y)): We revised this paragraph for clarity, and added a risk management plan option. Also, we responded to a commenter's statement that “periodic re-examination” should take place every five years in environmentally sensitive areas. National Oceanic and Atmospheric Administration (NOAA) Fisheries has previously applied the five-year standard in approving a deepwater port license application, and we are including it in this paragraph for all deepwater ports.

§ 150.20: We revised this section for clarity, and to address a commenter's request that additional copies be provided to other agencies as needed.

§ 150.50: One commenter asked us to require applicants to provide an oil spill response plan to the MMS in appropriate circumstances. Such plans must be included in the operations manual pursuant to § 150.15(y)(6) and will be distributed to other agencies pursuant to § 150.20.

§ 150.100: We revised the last sentence of this section for clarity. One commenter said that this section should describe another agency's authority to inspect a deepwater port under certain circumstances. An amendment is not needed because each operations manual must account for the circumstances under which specific agencies can inspect the deepwater port.

Part 150.105: We revised this part for clarification to indicate that, prior to implementing a self-inspection plan for a deepwater port, the operator must obtain Coast Guard acceptance to ensure quality assurance of the process.

Part 150, subpart D (§§ 150.300-150.385): One commenter asked us to provide more detail about safety zones, anchorage areas, and areas to be avoided. An amendment is not needed, because these sections merely require compliance with zones and areas that are established and described pursuant to other laws and regulations.

§ 150.380: We revised the table to further clarify vessel and OCS (OCS) facility operating conditions and restrictions, and to remove a reference to an obsolete section.

§ 150.435: One commenter asked us to add that under certain circumstances, deepwater port operations can be halted in order to ensure safety. An amendment is not needed because those circumstances would be evaluated as part of the deepwater port's risk assessment, and spelled out in its operations manual.

§ 150.440(d): An applicant inquired if the implementation of a suspension would be delayed while under appeal. It would not be, and we revised this paragraph to make that clear.

§ 150.445: We revised this section to clarify that a suspension order is in effect while an operator is preparing and submitting a petition to have the suspension lifted. The withdrawal of a suspension will not take effect until the District Commander has rendered a final decision.

§ 150.505(b): At the suggestion of one commenter, we revised this paragraph to eliminate a reference to an inspection certification, which is not required, and replace it with a reference to the self-inspection required by § 150.105. This commenter also suggested that the boat-release gear be examined every 30 months, but we think it is appropriate to retain the more flexible current regulatory language, which provides for inspections in accordance with manufacturer's recommendations.

§ 150.611: We corrected the reference to OSHA head-protection regulations.

§ 150.613(b): We removed an obsolete alternative deadline for completing the initial noise survey.

§ 150.625(c): We added the proviso that a material safety data sheet (MSDS) may be used for training personnel in the use of hazardous materials provided the employee acknowledges and demonstrates appropriate safety measures.

§ 150.812: We added this section at one commenter's suggestion that we provide more information on how the Coast Guard will follow up on a casualty report.

§ 150.815: One commenter pointed out that, in appropriate circumstances, casualty reports must also be submitted to other agencies. We revised this section accordingly. We also added a clarification that the testing required under paragraph (b) will be conducted in accordance with 33 CFR part 140.

§ 150.820: We added paragraph (d) in response to a commenter's suggestion.

§ 150.905: At a commenter's suggestion, we revised this section to provide more information.

§ 150.910: We revised this section for clarity and to indicate that mandatory prohibitions apply only in safety zones, not in areas to be avoided (ATBAs), which are recommendatory. One commenter noted that this section does not describe the circumstances under which existing legal agreements might call for installations, structures, or activities in the vicinity of the deepwater port, other than those directly associated with the deepwater port. An amendment is not needed because these circumstances would be evaluated as part of the deepwater port's risk assessment, and mitigating measures would be spelled out in the port's operations manual.

§ 150.915: We revised this informational section for clarity, and in response to a commenter's suggestions. The commenter asked us not to establish a safety zone without prior public notice and comment. We decline to make such a commitment because, under certain circumstances, the public health or safety needs may require emergency regulatory action. However, we deem it appropriate to elaborate here on the process for establishing safety zones, no anchoring areas (NAAs) and (ATBAs). The Coast Guard works with the Departments of Commerce, Defense, the Interior, and State to make sure their interests are taken into account in the creation of these zones. Further, before the U.S. Government proposes a NAA or ATBA to the International Maritime Organization (IMO) for approval, the Shipping Coordinating Committee of the Department of State is used to develop the U.S. Government position on the nature and scope of such measures. Because the Shipping Coordinating Committee is a Federal Advisory Committee Act (FACA) committee, its meetings are open to the public; a notice is put in the Federal Register, so all interested members of the public, all stakeholders, including environmental organizations, and any existing or prospective OCS leaseholders in the area have notice and an opportunity to present their views.

§ 150.940: We added this section in 2005, in response to a comment on the TIR, and will update it as new deepwater ports become operational. General definitions for various vessel routing measures have been added in § 148.5. More specific provisions will be included in each deepwater port's license and operations manual.

Regulatory Evaluation

This final rule is not a “significant regulatory action” under section 3(f) of Executive Order 12866, Regulatory Planning and Review, and does not require an assessment of potential costs and benefits under section 6(a)(3) of that Order. The Office of Management and Budget has not reviewed it under that Order. We expect the economic impact of this rule to be so minimal that a full Regulatory Evaluation is unnecessary.

The Coast Guard received no comments on the regulatory evaluation, which included the impact on small entities and the collection of information statement, and was published in the interim rule.

In this final rule, the Coast Guard is permanently adopting, with revisions, the regulations contained in the temporary interim rule we published at the beginning of 2004. The temporary interim rule updated the original 1975 regulations that applied only to deepwater ports that handle petroleum. It modernized and streamlined the regulations in accordance with the Deepwater Port Modernization Act of 1996, and also extended those regulations to apply to deepwater ports that handle natural gas, in accordance with the Maritime Transportation Security Act of 2002. The temporary interim rule expires on October 1, 2006, and must be replaced by a final rule on or before that date in order to continue the regulatory program introduced in 2004. The final rule also incorporates lessons learned from processing several deepwater port applications, and addresses public comments received in response to the temporary interim rule.

For the final rule, we updated the regulatory evaluation to include information on the additional deepwater port that has begun to operate.

We expect the costs of this final rule to have a nominal effect on the owners and operators of deepwater ports. Currently, there are two licensed and operating deepwater ports, the Louisiana Offshore Oil Port (LOOP) and the Excelerate Energy's Gulf Gateway deepwater port that receives LNG. LOOP represents industry standards for manned deepwater ports. Gulf Gateway is a small, unmanned submerged turret loading (STL) buoy that is in full compliance with this final rule.

In a report to the Secretary of Energy, the National Petroleum Council estimated that fewer than ten new LNG import terminals (onshore and deepwater) will be licensed and operating in 2025. We expect that the new deepwater ports will follow existing industry standards and, therefore, will incur, at most, the same costs as the existing compliant deepwater ports. We assume that no manned deepwater ports will be larger or more extensive than LOOP. We assume that unmanned deepwater ports will be roughly similar to Gulf Gateway. We also assume that the design and construction of new deepwater ports (manned or unmanned) will follow the industry standards.

The final rule is consistent with the industry's request to have its regulations aligned with the current industry standards and future OCS regulations. The benefits are the result of updating and removing unnecessary and obsolete regulations. The final rule incorporates current industry practices. As such, the industry will benefit, as this certainty eliminates the risk that industry will be liable for unexpected investments made necessary to comply with federal regulations. To the extent that revised regulations facilitate the development of new deepwater ports, the final rule also benefits the nation's overall economy, by making development of an adequate energy infrastructure more likely.

We do not expect that new collection of information burdens will be placed on the affected entities, because the industry is already compliant with safety, environmental, and training report activities. The reporting requirements established by current industry practice will aid its ability to enforce regulations, thereby promoting safety and security of life and property. Furthermore, by recording training, personnel and safety information, deepwater ports will increase their own safety and security level by improving accident readiness, noise level awareness, lifesaving equipment preparation and situational awareness.

Small Entities

Under the Regulatory Flexibility Act (5 U.S.C. 601-612), we have considered whether this final rule will have a significant economic impact on a substantial number of small entities. The term “small entities” comprises small businesses, not-for-profit organizations that are independently owned and operated and are not dominant in their fields, and government jurisdictions with populations of less than 50,000.

There are two entities that operate an existing deepwater port. LOOP is owned by a consortium of three multinational energy corporations and, therefore, LOOP does not qualify as a small entity. Gulf Gateway is wholly owned by Excelerate Energy, a private company. Excelerate Energy also does not qualify as a small entity. Given that investment in deepwater ports requires several hundred million dollars, we do not expect any licensee or operator of future deepwater ports to qualify as a small entity. No not-for-profit organizations are expected to be involved with deepwater ports. Finally, deepwater ports are by definition beyond the range of small government jurisdictions.

Therefore the Coast Guard certifies under 5 U.S.C. 605(b) that this final rule will not have a significant economic impact on a substantial number of small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them.

We have analyzed this rule under that Order and have determined that it does not have implications for federalism. This rule applies to deepwater ports only in waters beyond the territorial limits of the United States (33 U.S.C. 1501(a)(1)). As regulation of these deepwater ports is beyond State seaward boundaries, this rule will not preempt State law.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this final rule will not result in such an expenditure, we do discuss the effects of this rule elsewhere in this preamble.

Taking of Private Property

This final rule will not effect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and would not create an environmental risk to health or risk to safety that might disproportionately affect children.

Indian Tribal Governments

This final rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule requires compliance with numerous technical standards that have been set in regulations adopted by the Coast Guard and other Federal agencies. In all cases, those regulations either (1) specify the use of a voluntary consensus standard; (2) specify performance levels that may be met through the use of a voluntary consensus standard; (3) permit the use of equivalents, which may be derived from voluntary consensus standards; or (4) are subject to the exemption or adjustment provisions of Part 148, Subpart F, “Exemption from or Adjustments to Requirements in this Subchapter.”

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(a), (c), and (i) of the Instruction, and under section 6(b) of the “Appendix to National Environmental Policy Act: Coast Guard Procedures for Categorical Exclusions, Notice of Final Agency Policy,” (67 FR 48244, July 23, 2002) from further environmental documentation. The environmental impact associated with requiring additional equipment, training, safety inspections and recordkeeping under this rule will have an insignificant impact on the environment and will benefit the environment by requiring safe operations of deepwater ports. The environmental impact of each deepwater port applicant is assessed under the licensing process. A “Categorical Exclusion Determination” is available in the docket where indicated under ADDRESSES. A final “Environmental Analysis Check List” and a final “Categorical Exclusion Determination” are available in the docket where indicated under ADDRESSES.

List of Subjects

33 CFR Part 148

Administrative practice and procedure, Environmental protection, Harbors, Petroleum.

33 CFR Part 149

Fire prevention, Harbors, Marine safety, Navigation (water), Occupational safety and health, Oil pollution.

33 CFR Part 150

Harbors, Marine safety, Navigation (water), Occupational safety and health, Oil pollution, Reporting and recordkeeping requirements.

For the reasons discussed in the preamble, the Coast Guard revises 33 CFR Chapter I, Subchapter NN, as follows:

SUBCHAPTER NN—DEEPWATER PORTS

PART 148—DEEPWATER PORTS: GENERAL

Subpart A—General
Sec.
148.1 What is the purpose of this subchapter?
148.2 Who is responsible for implementing this subchapter?
148.3 What Federal agencies are responsible for implementing the Deepwater Port Act?
148.5 How are terms used in this subchapter defined?
148.8 How are certifying entities designated and used for purposes of this subchapter?
Subpart B—Application for a License
148.100 What is the purpose of this subpart?
148.105 What must I include in my application?
148.107 What additional information may be required?
148.108 What if a Federal or State agency or other interested party requests additional information?
148.110 How do I prepare my application?
148.115 How many copies of the application must I send and where must I send them?
148.125 What are the application fees?
Subpart C—Processing Applications
General
148.200 What is the purpose of this subpart?
148.205 How are documents related to the application maintained?
148.207 How and where may I view docketed documents?
148.209 How is the application processed?
148.211 What must I do if I need to change my application?
148.213 How do I withdraw my application?
148.215 What if a port has plans for a deep draft channel and harbor?
148.217 How can a State be designated as an adjacent coastal State?
148.221 How do I claim, or object to a claim, that required information is privileged?
Public Hearings or Meetings
148.222 When must public hearings or meetings be held?
148.227 How is a public hearing or meeting reported?
Formal Hearings
148.228 What if a formal evidentiary hearing is necessary?
148.230 How is notice of a formal hearing given?
148.232 What are the rules for a formal hearing?
148.234 What are the limits of an Administrative Law Judge's jurisdiction?
148.236 What authority does an Administrative Law Judge have?
148.238 Who are the parties to a formal hearing?
148.240 How does a State or a person intervene in a formal hearing?
148.242 How does a person who is not a party to a formal hearing present evidence at the hearing?
148.244 Who must represent the parties at a formal hearing?
148.246 When is a document considered filed and where should I file it?
148.248 What happens when a document does not contain all necessary information?
148.250 Who must be served before a document is filed?
148.252 What is the procedure for serving a subpoena?
148.254 How is a hearing transcript prepared?
148.256 What happens at the conclusion of a formal hearing?
Approval or Denial of the Application
148.276 When must the application be approved or denied?
148.277 How may Federal agencies and States participate in the application process?
148.279 What are the criteria for approval or denial of an application?
148.281 What happens when more than one application is submitted for a deepwater port in the same application area?
148.283 When is the application process stopped, before the application is approved or denied?
Subpart D—Licenses
148.300 What does this subpart concern?
148.305 What is included in a deepwater port license?
148.307 Who may consult with the Commandant (G-P) and the Maritime Administrator on developing the proposed conditions of a license?
148.310 How long does a license last?
148.315 How is a license amended, transferred, or reinstated?
148.320 How is a license enforced, suspended, or revoked?
148.325 How soon after port decommissioning must the licensee initiate removal?
Subpart E—Site Evaluation and Pre-Construction Testing
148.400 What does this subpart do?
148.405 What are the procedures for notifying the Commandant (G-P) of proposed site evaluation and pre-construction testing?
148.410 What are the conditions for conducting site evaluation and pre-construction testing?
148.415 When conducting site evaluation and pre-construction testing, what must be reported?
148.420 When may the Commandant (G-P) suspend or prohibit site evaluation or pre-construction testing?
Subpart F—Exemption From or Adjustments to Requirements in This Subchapter
148.500 What does this subpart do?
148.505 How do I apply for an exemption?
148.510 What happens when a petition for exemption involves the interests of an adjacent coastal State?
148.515 When is an exemption allowed?
148.600 What is the limit of financial liability?
148.605 How is the limit of liability determined?
Subpart G—Environmental Review Criteria for Deepwater Ports
148.700 How does the Deepwater Port Act interact with other Federal and State laws?
148.702 How were the environmental review criteria developed?
148.705 What is determined by the environmental evaluation?
148.707 What type of criteria will be used in an environmental review, and how will they be applied?
148.708 Must the applicant's proposal reflect potential regulations?
148.709 How are these criteria reviewed and revised?
148.710 What environmental conditions must be satisfied?
148.715 How is an environmental review conducted?
148.720 What are the siting criteria?
148.722 Should the construction plan incorporate best available technology and recommended industry practices?
148.725 What are the design, construction and operational criteria?
148.730 What are the land use and coastal zone management criteria?
148.735 What are other critical criteria that must be evaluated?
148.737 What environmental statutes must an applicant follow?

Authority: 33 U.S.C. 1504; Department of Homeland Security Delegation No. 0170.1 (75).

Subpart A—General

§ 148.1 What is the purpose of this subchapter?

This subchapter prescribes regulations for the licensing, construction, design, equipment, and operation of deepwater ports under the Deepwater Port Act of 1974, as amended (33 U.S.C. 1501-1524) (the Act).

§ 148.2 Who is responsible for implementing this subchapter?

Unless otherwise specified, the owner of a deepwater port must ensure that the requirements of this subchapter are carried out at that port.

§ 148.3 What Federal agencies are responsible for implementing the Deepwater Port Act?

(a) Under delegations from the Secretary of Homeland Security and the Secretary of Transportation, the Coast Guard and the Maritime Administration (MARAD) coordinate with each other in processing applications for the issuance, transfer, or amendment of a license for the construction and operation of a deepwater port.

(b) MARAD is responsible for issuing the Record of Decision to announce whether a license application is approved, approved with conditions, or denied, and for issuing, revoking, and reinstating deepwater port licenses. MARAD also has authority over the approval of fees charged by adjacent coastal States, and certain matters relating to international policy, civil actions, and suspension or termination of licenses.

(c) The Secretary of Transportation has delegated authority over pipeline matters to the Pipeline Hazardous Materials and Safety Administration.

(d) The Environmental Protection Agency (EPA), U.S. Army Corps of Engineers, Minerals Management Service (MMS) in the Department of Interior, and other Federal agencies are designated as cooperating agencies and support the Coast Guard and MARAD in the review and evaluation of deepwater port license applications. You can view the interagency memorandum of understanding (MOU) outlining the relative roles and responsibilities of these and other Federal agencies at: http://www.uscg.mil/hq/G-P/mso/docs/dwp_white_house_task_force_energy_streamlining.pdf.

§ 148.5 How are terms used in this subchapter defined?

As used in this subchapter:

Act means the Deepwater Port Act of 1974, 33 U.S.C. 1501 et seq., as amended.

Adjacent coastal State means any coastal State which:

(1) Would be directly connected by pipeline to a deepwater port, as proposed in an application;

(2) Would be located within 15 miles of any such proposed deepwater port; or

(3) Is designated as an adjacent coastal State by the Administrator of the Maritime Administration under 33 U.S.C. 1508(a)(2).

Affiliate means a person:

(1) That has a direct or indirect ownership interest of more than 3 percent in an applicant;

(2) That offers to finance, manage, construct, or operate the applicant's deepwater port to any significant degree;

(3) That owns or controls an applicant or an entity under paragraphs (1) or (2) of this definition; or

(4) That is owned or controlled by, or under common ownership with, an applicant or an entity under paragraphs (1), (2), or (3) of this definition.

Applicant means a person that is the owner of a proposed deepwater port and is applying for a license under this part for that port.

Application means an application submitted under this part for a license to own, construct, and operate a deepwater port.

Approval series means the first six digits of a number assigned by the Coast Guard to approved equipment. Where approval is based on a subpart of 46 CFR chapter I, subchapter Q, the approval series corresponds to the number of the subpart. A list of approved equipment, including all of the approval series, is available at: http://cgmix.uscg.mil/Equipment.

Approved means approved by the Commandant (G-P).

Area to be avoided or ATBA means a routing measure comprising an area within defined limits in which either navigation is particularly hazardous or it is exceptionally important to avoid casualties and should be avoided by all ships or certain classes of vessels. An ATBA may be either recommended (“recommendatory”) or mandatory. An ATBA is recommendatory when ships are advised to navigate with caution in light of specially hazardous conditions. An ATBA is mandatory when navigation is prohibited or subject to a competent authority's conditions. ATBAs for deepwater ports are recommendatory.

Barrel means 42 U.S. gallons (approximately 159 liters) at atmospheric pressure and 60 °F (approximately 15.56 °C).

Captain of the Port or COTP means a Coast Guard officer who commands a Captain of the Port zone described in part 3 of this chapter and who is immediately responsible for enforcing port safety and security and marine environmental protection regulations within that area.

Certified industrial hygienist means an industrial hygienist who is certified by the American Board of Industrial Hygiene.

Certified marine chemist means a marine chemist who is certified by the National Fire Protection Association.

Certifying entity or CE means any individual or organization, other than the operator, permitted by the Commandant (G-PSO) to act on behalf of the Coast Guard pursuant to section 148.8 of this subpart. The activities may include reviewing plans and calculations for construction of deepwater ports, conducting inspections, witnessing tests, and certifying systems and/or components associated with deepwater ports as safe and suitable for their intended purpose.

Citizen of the United States means:

(1) Any person who is a United States citizen by law, birth, or naturalization;

(2) Any State, State agency, or group of States; or

(3) Any corporation, partnership, or other association:

(i) That is organized under the laws of any State;

(ii) Whose president, chairman of the board of directors, and general partners or their equivalents, are persons described in paragraph (1) of this definition; and

(iii) That has no more of its directors who are not persons described in paragraph (1) of this definition than constitute a minority of the number required for a quorum to conduct the business of the board of directors.

Coastal environment means the coastal waters including the lands in and under those waters, internal waters, and the adjacent shorelines including waters in and under those shorelines. The term includes, but is not limited to:

(1) Transitional and intertidal areas, bays, lagoons, salt marshes, estuaries, and beaches;

(2) Fish, wildlife, and other living resources of those waters and lands; and

(3) The recreational and scenic values of those lands, waters, and resources.

Coastal State means a State of the United States in or bordering the Atlantic, Pacific, or Arctic Oceans or the Gulf of Mexico.

Commandant (G-P) means the Assistant Commandant for Prevention, or that individual's authorized representative, at Commandant (G-P), U.S. Coast Guard, 2100 Second Street, SW., Washington, DC 20593-0001.

Confined space means a space that may contain a dangerous atmosphere, including a space that:

(1) Has poor natural ventilation, such as a space with limited openings, for example a cofferdam or double bottom tank; or

(2) Is not designed for continuous occupancy by personnel.

Construction means supervising, inspecting, actual building, and all other activities incidental to the building, repairing, or expanding of a deepwater port or any of its components. The term includes, but is not limited to, fabrication, laying of pipe, pile driving, bulk heading, alterations, modifications, and additions to the deepwater port.

Control means the direct or indirect power to determine the policy, business practices, or decisionmaking process of another person, whether by stock or other ownership interest, by representation on a board of directors or similar body, by contract or other agreement with stockholders or others, or otherwise.

Crude oil means a mixture of hydrocarbons that exists in the liquid phase in natural underground reservoirs, and remains liquid at atmospheric pressure after passing through surface separating facilities, and includes:

(1) Liquids technically defined as crude oil;

(2) Small amounts of hydrocarbons that exist in the gaseous phase in natural underground reservoirs but are liquid at atmospheric pressure after being recovered from oil well (casing head) gas in lease separators; and

(3) Small amounts of non-hydrocarbons produced with the oil.

Dangerous atmosphere means an atmosphere that:

(1) May expose personnel to the risk of death, incapacitation, injury, or acute illness; or

(2) May impair ability to escape from the atmosphere unaided.

Deepwater port:

(1) Means any fixed or floating manmade structures other than a vessel, or any group of structures, located beyond State seaward boundaries that are used or are intended for use as a port or terminal for the transportation, storage, or further handling of oil or natural gas for transportation to any State, except as otherwise provided in the Deepwater Port Act of 1974, as amended, and for other uses not inconsistent with the purposes of the Deepwater Ports Act, including transportation of oil or natural gas from the United States' OCS;

(2) Includes all components and equipment, including pipelines, pumping stations, service platforms, buoys, mooring lines, and similar facilities, to the extent that they are located seaward of the high water mark;

(3) Includes, in the case of natural gas, all components and equipment, including pipelines, pumping or compressor stations, service platforms, buoys, mooring lines, and similar facilities which are proposed and/or approved for construction and operation as part of the deepwater port, to the extent that they are located seaward of the high water mark and do not include interconnecting facilities; and

(4) Shall be considered a “new source” for purposes of the Clean Air Act, 42 U.S.C. 7401 et seq., as amended, and the Federal Water Pollution Control Act, 33 U.S.C. 1251 et seq., as amended.

District commander means an officer who commands a Coast Guard district described in part 3 of this chapter, or that individual's authorized representative.

Emergency medical technician means a person trained and certified to appraise and initiate the administration of emergency care for victims of trauma or acute illness before or during transportation of the victims to a health care facility via ambulance, aircraft or vessel.

Engineering hydrographic survey means a detailed geological analysis of seabed soil samples performed to determine the physical composition, for example the mineral content, and structural integrity for the installation of offshore components and structures.

Governor means the governor of a State or the person designated by State law to exercise the powers granted to the governor under the Act.

Gross under keel clearance means the distance between the keel of a tanker and the ocean bottom when the tanker is moored or anchored in calm water free of wind, current, or tide conditions that would cause the tanker to move.

Hose string means the part of a single point mooring connection for oil or natural gas transfer made out of flexible hose of the floating or float/sink type that connects the tanker's manifold to the single point mooring.

Hot work means work that produces heat or fire, such as riveting, welding, burning, or other fire-or spark-producing operations.

Lease block means an area established either by the Secretary of the Interior under section 5 of the OCS Lands Act, 43 U.S.C. 1334, or by a State under section 3 of the Submerged Lands Act, 43 U.S.C. 1311.

License means a license issued under this part to own, construct, and operate a deepwater port.

Licensee means a citizen of the United States holding a valid license for the ownership, construction, and operation of a deepwater port that was issued, transferred, or renewed under this subchapter.

Marine environment includes:

(1) The coastal environment, waters of the contiguous zone, the Exclusive Economic Zone, and the high seas;

(2) Fish, wildlife, and other living resources of those waters; and

(3) The recreational and scenic values of those waters and resources.

Marine site means the area in which the deepwater port is located, including the safety zone and all areas seaward of the high water mark in which associated components and equipment of the deepwater port are located.

Maritime Administration or MARAD means the Administrator of the Maritime Administration or that person's designees, and includes the Associate Administrator, Port, Intermodal and Environmental Activities, Maritime Administration, or that individual's authorized representative, at 400 Seventh Street, SW., Washington, DC 20590, telephone 202-366-4721.

Metering platform means a manned or unmanned platform consisting of either a fixed or floating structure that serves as an interchange site for measuring the rate of transfer of natural gas from vessel to pipeline.

Natural gas means either natural gas, unmixed, or any mixture of natural or artificial gas, including compressed or liquefied natural gas.

Natural gas liquids means liquid hydrocarbons associated with or extracted from natural gas, for example ethane, propane and butane extracted from natural gas.

Net under keel clearance means the distance between the keel of a tanker and the ocean bottom when the tanker is underway, anchored, or moored, and subject to actual wind, waves, current, and tide motion.

No anchoring area or NAA means a routing measure comprising an area within defined limits where anchoring is hazardous or could result in unacceptable damage to the marine environment. Anchoring in a no anchoring area should be avoided by all vessels or certain classes of vessels, except in case of immediate danger to the vessel or the person on board.

Officer in Charge of Marine Inspection or OCMI means an individual who commands a marine inspection zone described in part 3 of this chapter, and who is immediately responsible for the performance of duties with respect to inspections, enforcement, and administration of regulations governing a deepwater port.

Offshore competent person means an individual trained and designated by his or her employer in matters relating to confined space pre-entry testing and certification at a deepwater port, prior to entry. An offshore competent person should demonstrate proficiency in the following criteria:

(1) Hazard description and recognition;

(2) Hazard evaluation and measurement;

(3) Hazard prevention;

(4) Control and elimination; and

(5) Practical application simulation.

Oil means petroleum, crude oil, and any substance refined from petroleum or crude oil.

Operator means the person who is licensed under 33 U.S.C. 1503 to own, construct, and operate a deepwater port, or that person's designee.

Person means an individual, a public or private corporation, a partnership or other association, or a government entity.

Person in Charge (PIC) means an individual designated as a person in charge of transfer operations under § 154.710 for oil facilities or § 127.301 for liquefied natural gas (LNG) facilities. Within this subchapter, other references to person in charge, without the use of the acronym PIC, will mean a person in charge of an operation other than transfer operations.

Personnel means individuals who are employed by licensees, operators, contractors, or subcontractors, and who are on a deepwater port because of their employment.

Pipeline end manifold means the pipeline end manifold at a single point mooring.

Platform means a fixed for floating structure that rests on or is embedded in the seabed or moored in place and that has floors or decks where an activity or specific function may be carried out.

Pumping platform complex means a platform or a series of interconnected platforms, exclusive of a deepwater port, consisting of one or more single point moorings or submerged turret loading buoys that can pump oil or natural gas and that has one or more of the following features or capabilities:

(1) Can handle the mooring and loading of small vessels;

(2) Has berthing and messing facilities; and

(3) Has a landing area for helicopters.

Reconnaissance hydrographic survey means a scientific study of fresh and saltwater bodies, currents and water content, cultural resources, seabed soils and subsea conditions, for example existing pipelines or subsea wells. A visual representation of the survey findings is normally depicted on a chart of the examined area.

Routing systems means any system of one or more vessel routes or routing measures aimed at reducing the risk of casualties. It includes traffic separation schemes, two-way routes, recommended tracks, areas to be avoided, no anchoring areas, inshore traffic zones, roundabouts, precautionary areas and deepwater routes.

Safety zone means a safety zone established around a deepwater port under part 150, subpart J, of this chapter. The safety zone may extend to a maximum distance of 500 meters (approximately 1,640 feet) around the facility, measured from each point on its outer edge or from its construction site, except as authorized by generally accepted international standards or as recommended by the International Maritime Organization. However, the zone may not interfere with the use of recognized sea lanes.

Single point mooring or SPM means an offshore berth that links an undersea pipeline to a moored tanker and allows for the transfer of oil or natural gas between the tanker and the pipeline.

Single point mooring oil transfer system or SPM-OTS means the part of the oil transfer system from the pipeline end manifold to the end of the hose string that connects to the tanker's manifold.

Single (or multiple) point mooring natural gas transfer system or SPM-NGTS (or MPM-NGTS) means the part of the natural gas transfer system from the pipeline end manifold to the end of the hose string that connects to the tanker's manifold.

State includes each State of the United States, the District of Columbia, the Commonwealth of Puerto Rico, and the territories and possessions of the United States.

Support vessel means a vessel working for a licensee at a deepwater port or cleared by a licensee to service a tanker calling at a deepwater port, and includes a:

(1) Tug;

(2) Line-handling boat;

(3) Crew boat;

(4) Supply vessel;

(5) Bunkering vessel;

(6) Barge; or

(7) Other similar vessel.

Survival craft means a craft described in § 149.303 of this subchapter.

Tanker means a vessel that calls at a deepwater port to unload oil or natural gas.

Vessel means every description of watercraft, including non-displacement craft e.g., wing-in-ground (WIG) craft, seaplanes) capable of being used, as a means of transportation on or through the water.

§ 148.8 How are certifying entities designated and used for purposes of this subchapter?

(a) Applicants and licensees may nominate a certifying entity (CE) for the performance of tasks for which the Coast Guard is responsible under this subchapter.

(b) Nominations may be made at any time after the Maritime Administration issues a record of decision approving the application, and must include the following information for each nominee:

(1) The specific functions or tasks to be performed by the nominee;

(2) Name and address;

(3) Size and type of organization or corporation;

(4) Previous experience as a CE, certified verification agent, or similar third-party representative;

(5) Experience in design, fabrication, or installation of fixed offshore oil and gas platforms, similar fixed, floating, or gravity-based structures and project-related structures, systems, and equipment;

(6) Technical capabilities, including professional certifications and organizational memberships of the nominee or the primary staff to be associated with its duties for the specific project;

(7) In-house availability of, or access to, appropriate technology such as computer modeling programs and hardware or testing materials and equipment;

(8) Ability to perform and effectively manage the duties for which it is nominated considering current resource availability;

(9) Previous experience with regulatory requirements and procedures;

(10) A statement signed by the nominee's chief officer or that person's designee that the nominee:

(i) Is not owned or controlled by the designer, manufacturer, or supplier of any equipment, material, system, or subsystem that would be the subject of the nominee's duties, or by any manufacturer of similar equipment or material; and that

(ii) The nominee will allow access to an official representative of the Coast Guard, upon request, to facilities or records that relate to its duties; and

(11) A list of documents and certifications to be furnished to the Coast Guard by the nominee.

(c) The Commandant (G-P) may accept or reject the nomination of a CE and will provide guidance and oversight to each CE. The Commandant (G-P) may terminate the acceptance of a CE at any time.

Subpart B—Application for a License

§ 148.100 What is the purpose of this subpart?

This subpart describes how to apply for a license to own, construct, and operate a deepwater port.

§ 148.105 What must I include in my application?

Your application must include the information required by this section.

(a) General. For each applicant, affiliate, and consultant:

(1) The name, address, telephone number, citizenship, and principal business activity of the applicant and its affiliates;

(2) The name, address, and principal business activity of each subsidiary, division of the applicant, or its affiliates that participated in the decision to apply for a license to build a deepwater port;

(3) A description of how each affiliate is associated with the applicant, and of the ownership interest each affiliate has in the applicant;

(4) A list of the applicant's corporate officers and directors, and each affiliate that participated in the decision to apply for a license;

(5) A statement for each applicant or affiliate, providing complete and detailed information on any civil or criminal legal proceeding during the preceding 5 years that relates to, or that could materially affect, information in the license application; and,

(6) A declaration by the applicant that neither the applicant nor its affiliate has engaged in any lobbying activities that are prohibited by 31 U.S.C. 1352 or any other applicable Federal anti-lobbying statute.

(b) Experience in matters relating to deepwater ports.

(1) A description of the applicant's, affiliate's, and consultant's experience in offshore operations, particularly operations involving the transfer and storage of liquid cargo, and the loading and unloading of vessels.

(2) For each affiliate that has a significant contract with the applicant for construction of the deepwater port, a description of that affiliate's experience in construction of marine terminal facilities, offshore structures, underwater pipelines, and seabed foundations; in addition to a description of other experiences that would bear on the affiliate's qualification to participate in the construction of a deepwater port.

(c) Engineering firms. For each engineering firm, if known, that will design the deepwater port or a portion of the port, the application must include the firm's:

(1) Name;

(2) Address;

(3) Citizenship;

(4) Telephone number; and

(5) Qualifications.

(d) Citizenship and operating authority. For each applicant or group of applicants, provide:

(1) An affidavit that the applicant is a citizen of the United States;

(2) For State agency applicants, the law authorizing the applicant to undertake the operations detailed in the application;

(3) For private corporation applicants, the current charter or certificate of incorporation and current by-laws; and affidavits of U.S. or foreign citizenship from the president, chairman of the board, and each director or their equivalents; for limited liability companies, the equivalent organizational documents, and affidavits from the members of the Board of Managers, and members; and

(4) For partnerships, including limited liability partnerships, or associations not formed or owned solely by individual citizens of the United States, the certificate of formation; the partnership agreement or articles of association; the current by-laws; the minutes of the first board meeting; and affidavits of U.S. or foreign citizenship from the president and each director, or their equivalents.

(e) Address for service of documents. The name and address of one individual who may be served with documents if a formal hearing is held concerning the application, and the name and address of one individual who may receive other documents.

(f) Location and use. The proposed location and capacity of the deepwater port, a general description of the anticipated use of the port, and whether access will be open or closed.

(g) Financial information.

(1) For the applicant, each affiliate with an ownership interest in the applicant of greater than 3 percent, and affiliates which have a direct contractual relationship with the deepwater port:

(i) Annual financial statements, audited by an independent certified public accountant, for the previous 3 years, including, but not limited to, an income statement, balance sheet, and cash flow statement with footnote disclosures prepared according to U.S. Generally Accepted Accounting Principles; provided, however, that the Commandant (G-P), in concurrence with MARAD, may waive this requirement upon finding:

(A) That the affiliate does not, in the normal course of business, produce audited statements; and

(B) That the affiliate is part of a larger corporate group whose audited statement provides sufficient information to support an adequate assessment of the affiliate's relationship with and impact on the applicant; and

(ii) Interim income statements and balance sheets for each quarter that ends at least 30 days before submission of the application, unless it is included in the most recent annual financial statement.

(2) An estimate of construction costs, including:

(i) A phase-by-phase breakdown of costs;

(ii) The estimated completion dates for each phase; and

(iii) A preliminary estimate of the cost of removing all of the deepwater port marine components, including pipelines that lie beneath the seabed. The operator of a deepwater port is responsible for the costs associated with removal of all port components. Should a license be granted, MARAD will require a bond, guarantee, or other financial instrument to cover the complete cost of decommissioning as a condition of the license.

(3) Annualized projections or estimates, along with the underlying assumptions, for the next 5 years and at reasonable intervals throughout the life of the deepwater port, of each of the following:

(i) Total oil or natural gas throughput, and subtotals showing throughput owned by the applicant and its affiliates and throughput owned by others;

(ii) Projected financial statements, including a balance sheet and income statement; and

(iii) Annual operating expenses, showing separately any payment made to an affiliate for any management duties carried out in connection with the operation of the deepwater port.

(4) A copy of all proposals or agreements concerning the management and financing of the deepwater port, including agreements relating to throughputs, capital contributions, loans, guarantees, commitments, charters, and leases.

(5) The throughput reports for the calendar year preceding the date of the application, for the applicant and each of the applicant's affiliates engaged in producing, refining, or marketing oil or natural gas and natural gas liquids, along with a copy of each existing or proposed throughput agreement. Each throughput report must list the throughput of the following products:

(i) Crude oil; and if crude oil is the only product the port is designed to transport, the throughput report may be limited to reporting crude oil;

(ii) Gasoline;

(iii) Jet aviation fuel;

(iv) Distillate fuel oils;

(v) Other refinery products;

(vi) Natural gas; and

(vii) Natural gas liquids.

(h) Construction contracts and construction-related studies.

(1) A copy of each contract that the applicant made for the construction of any component of the deepwater port or for the operation of the port.

(2) A listing and abstract of:

(i) All completed or ongoing studies on deepwater ports conducted by or for the applicant; and

(ii) All other construction-related studies used by the applicant.

(3) The identity of each contractor, if known, that will construct or install the deepwater port or a portion of the port, including each firm's:

(i) Name;

(ii) Address;

(iii) Citizenship;

(iv) Telephone number; and

(v) Qualifications.

(i) Compliance with Federal water pollution requirements.

(1) Evidence, to the extent available, that the requirements of section 401(a)(1) of the Federal Water Pollution Control Act Amendments of 1972, 33 U.S.C. 1341(a)(1), will be satisfied. If complete information is not available by the time MARAD must either approve or deny the application under 33 U.S.C. 1504(i)(1), the license for the deepwater port is conditioned upon the applicant demonstrating that the requirements of section 401(a)(1) of the Federal Water Pollution Control Act Amendments of 1972, 33 U.S.C. 1341(a)(1), will be satisfied.

(2) In cases where certification under 33 U.S.C. 1341(a)(1) must be obtained from the Environmental Protection Agency Administrator, the request for certification, and pertinent information, such as plume modeling, related to the certification.

(j) Coastal zone management. A request for each certification required by section 307 of the Coastal Zone Management Act of 1972, 16 U.S.C. 1456, as amended.

(k) Identification of lease block.

(1) Identification of each lease block where any part of the proposed deepwater port or its approaches is located. This identification must be made on official OCS leasing maps or protraction diagrams, where available. Each map and diagram must be certified by a professional surveyor. For each lease block, provide the following:

(i) A description of each pipeline, or other right-of-way crossing, in enough detail to allow plotting of the rights-of-way to the nearest one-tenth of a second in latitude and longitude; and

(ii) The identity of the lessee or grantee of each pipeline or other right-of-way.

(2) Detailed information concerning any interest that anyone, including the applicant, has in each block.

(3) Detailed information concerning the present and planned use of each block.

(l) Overall site plan. Single-line drawings showing the location and type of each component of the proposed deepwater port and its necessary facilities, including:

(1) Floating structures;

(2) Fixed structures;

(3) Aids to navigation;

(4) Manifold systems; and

(5) Onshore storage areas, pipelines, and refineries.

(m) Site plan for marine components. A site plan consisting of the following:

(1) The proposed size and location of all:

(i) Fixed and floating structures and associated components seaward of the high water mark, only if the proposal does not involve a connected action, for example, installation of new pipeline extending inshore of the state boundary line;

(ii) Recommended ships' routing measures and proposed vessel traffic patterns in the port area, including aids to navigation;

(iii) Recommended anchorage areas and, for support vessels, mooring areas; and

(2) A reconnaissance hydrographic survey of the proposed marine site. This survey should provide data on the water depth, prevailing currents, cultural resources, and a general characterization of the sea bottom. A requirement to submit an engineering hydrographic survey of the final marine site will be imposed as a condition in the license. The latter survey will require more extensive analysis of the soil, and detailed study to determine its physical composition, such as minerals, and if the sea bottom can support fixed components comprising a deepwater port. The applicant may submit existing data, gathered within the previous 5 years, but it must be supplemented by field data for the specific locations in which a high degree of variability exists.

(n) Soil data. An analysis of the general character and condition of the ocean bottom, sub-bottom, and upland soils throughout the marine site. The applicant may use existing data, so long as it was collected within the last 5 years and continues to provide accurate information about conditions throughout the site. If not, a new survey must be completed to provide supplemental data. The analysis must include an opinion by a registered professional engineer specializing in soil mechanics concerning:

(1) The suitability of the soil to accommodate the anticipated design load of each marine component that will be fixed to or supported on the ocean floor; and

(2) The stability of the seabed when exposed to environmental forces resulting from severe storms or lesser forces that occur over time, including any history of accretion or erosion of the coastline near the marine site.

(o) Archeological information. An analysis of the information from the reconnaissance hydrographic survey by a qualified underwater archeologist to determine the historical or other significance of the area where the site evaluation and pre-construction testing activities were conducted. The analysis must meet standards established by the Minerals Management Service for activities on the OCS, or an alternative standard that has been submitted to and approved by the Coast Guard. The survey must include the areas potentially affected by the deepwater port, or any other associated platforms, and its pipeline route(s).

(p) Vessel information.

(1) The nation of registry for, and the nationality or citizenship of, officers and crew serving on board vessels transporting natural gas that are reasonably anticipated to be servicing the deepwater port; and

(2) Description of the information that will be provided in the operations manual pertaining to vessel operations, vessel characteristics, and weather forecasting.

(q) Information on floating components.

(1) A description and preliminary design drawing of each floating component, including the hoses, anchoring or securing structure, and navigation lights if the component is a mooring buoy.

(2) The criteria, developed under part 149 of this chapter, to which each floating component will be designed and built.

(3) The design standards and codes to be used.

(4) The title of each recommended engineering practice that will be applied.

(5) A description of safety, firefighting, and pollution prevention equipment to be used on each floating component.

(6) A description of the lighting that will be used on floating hoses, for night detection.

(r) Information on dedicated fixed offshore components.

(1) A description and preliminary design drawing for each dedicated fixed offshore component.

(2) The design criteria, developed under part 149 of this chapter, to which each fixed offshore component will be designed and built.

(3) The design standards and codes to be used.

(4) The title of each recommended engineering practice to be followed.

(5) A description of the following equipment that will be installed:

(i) Navigational lighting;

(ii) Safety equipment;

(iii) Lifesaving equipment;

(iv) Firefighting equipment;

(v) Pollution prevention equipment, excluding response equipment which must be outlined in the facility response plan; and

(vi) Waste treatment equipment.

(6) A description and preliminary design drawing of the following:

(i) The cargo pumping equipment;

(ii) The cargo piping system;

(iii) The control and instrumentation system; and

(iv) Any associated equipment, including equipment for oil or natural gas throughput measuring, leak detection, emergency shutdown, and the alarm system.

(7) The personnel capacity of each deepwater port pumping platform complex.

(s) Refurbished OCS facilities and co-located fixed offshore components.

(1) A description and preliminary design drawing for each such facility or component.

(2) The design criteria, developed under part 149 of this chapter, to which each facility or component will be designed and built or modified;

(3) The design standards and codes to be used;

(4) The title of each recommended engineering practice to be followed;

(5) A description of the following equipment to be installed or refurbished:

(i) Navigational lighting;

(ii) Safety equipment;

(iii) Lifesaving equipment;

(iv) Firefighting equipment;

(v) Pollution prevention equipment, excluding response equipment which must be outlined in the facility response plan;

(vi) Waste treatment equipment; and

(vii) Cathodic protection.

(6) A description and preliminary design drawing of the following:

(i) The cargo pumping equipment;

(ii) The cargo piping system;

(iii) The control and instrumentation system; and

(iv) Any associated equipment, including equipment for oil or natural gas throughput measuring, leak detection, emergency shutdown, and the alarm system.

(7) The personnel capacity of each deepwater port pumping platform complex.

(t) Information on offshore pipelines.

(1) A description and preliminary design drawing of the marine pipeline, including:

(i) Size;

(ii) Throughput capacity;

(iii) Length;

(iv) Depth of cover; and

(v) Protective devices.

(2) The design criteria to which the marine pipeline will be designed and built.

(3) The design standards and codes to be used.

(4) The title of each recommended engineering practice to be followed.

(5) A description of the metering system that will measure flow rate.

(6) Information concerning all submerged or buried pipelines that will be crossed by the offshore pipeline, and how each crossing will be made.

(7) Information on the pipeline that will connect to the port, including a detailed analysis that shows throughput and capacity rates of all pipelines involved in the transport of product to shore.

(u) Information about onshore components. To the extent known by the applicant:

(1) A description of the location, capacity, and ownership of all planned and existing onshore pipelines, storage facilities, refineries, petrochemical facilities, and transshipment facilities that will be served by the deepwater port. Crude oil or natural gas gathering lines and lines wholly within a deepwater port must be included in data about onshore components only if specifically required. Entry points and major connections between lines and with bulk purchasers must be included.

(2) A chart showing the location of all planned and existing facilities that will be served by the port, including:

(i) Onshore pipelines;

(ii) Storage facilities;

(iii) Refineries;

(iv) Petrochemical facilities; and

(v) Transshipment facilities.

(3) A copy of all proposals or agreements with existing and proposed refineries that will receive oil transported through the deepwater port, the location and capacity of each such refinery, and the anticipated volume of such oil to be refined by each such refinery.

(v) Information on miscellaneous components.

(1) A description of each radio station or other communications facility to be used during construction and operation of the deepwater port and its proposed concept of operation.

(2) A description of the radar navigation system to be used in operation of the deepwater port outlined in the operations manual.

(3) A description of the method that will be used for bunkering vessels using the deepwater port.

(4) A brief description of the type, size, and number of vessels that will be used in bunkering, mooring, and servicing the vessels using the deepwater port.

(5) A description and location of the shore-based support facilities, if any, that will be provided for vessels that will be used in bunkering, mooring, and servicing the vessels using the deepwater port; or that serve as offices or facilities in support of the deepwater port operations.

(6) A copy of the actual radio station license, or, if not available, a copy of the application sent to the Federal Communications Commission, if available.

(w) Construction procedures. A description of the method and procedures to be used in constructing each component of the deepwater port, for example shoreside fabrication, assembly and support, including anticipated dates of completion for each specific component during each phase of construction.

(x) Operations manual. A draft of the operations manual for the proposed port, containing the information under § 150.15 of this chapter, must demonstrate the applicant's ability to operate the port safely and effectively. To the extent that circumstances are similar, this demonstration can be in the form of evidence appended to the draft operations manual of the applicant's participation in the safe and effective management or operation of other offshore facilities, for example, evidence of compliance with Mineral Management Service requirements for those facilities. If the information required for the manual is not available, state why it is not and when it will be available.

(y) Risk and consequence assessment. Data to support an independent, site-specific analysis to assess the risks and consequences of accidental and intentional events that compromise cargo containment. At minimum, potential events that result in liquefied natural gas or oil spill, vapor dispersion and/or fire will be analyzed. The Coast Guard will utilize validated models, for example computational fluid dynamics or an equivalent model. The applicant may consult with Commandant (G-P) to ensure that appropriate assessment procedures are used.

(z) Environmental evaluation. An analysis, sufficient to meet the requirements of the National Environmental Policy Act, and as outlined in subpart G of this part, of the potential impacts on the natural and human environments, including sufficient information that complies with all applicable Federal, tribal, and State requirements for the protection of the environment.

(aa) Aids to navigation.

(1) For each proposed aid to navigation, the proposed position of the aid, described by latitude and longitude coordinates to the nearest second or tenth of a second, as determined from the largest scale chart of the area in which the aid is to be located. Specify latitude and longitude to a level obtained by visual interpolation between the finest graduation of the latitude and longitude scales on the chart.

(2) For each proposed obstruction light and rotating lit beacon:

(i) Color;

(ii) Characteristic;

(iii) Effective intensity;

(iv) Height above water; and

(v) General description of the illumination apparatus.

(3) For each proposed sound signal on a structure, a general description of the apparatus.

(4) For each proposed buoy:

(i) Shape;

(ii) Color;

(iii) Number or letter;

(iv) Depth of water in which located; and

(v) General description of any light and/or sound signal apparatus on the buoy.

(5) For the proposed radar beacon, or RACON, height above water and a general description of the apparatus.

(bb) National Pollutant Discharge Elimination System (NPDES). A copy of the NPDES Application for Permit to Discharge Short Form D, for applying for a discharge permit from the Environmental Protection Agency (EPA) and any accompanying studies and analyses. If complete information is not available by the time MARAD must either approve or deny the application for a designated application area under 33 U.S.C. 1504(i)(1), the license for the deepwater port is conditioned upon the applicant receiving the required discharge permit from the EPA before the start of any discharge requiring such a permit. The issuance of the permit demonstrates that all potential water discharges have been satisfactorily analyzed and water quality control measures implemented to mitigate discharges to meet NPDES.

(cc) Structures' placement and the discharge of dredged or fill material. The information required to obtain a Department of the Army permit for placement of structures and the discharge of dredged or fill material.

(dd) Additional Federal authorizations. All other applications for Federal authorizations not listed elsewhere in this subpart that are required for ownership, construction, and operation of a deepwater port.

(ee) Sworn statement. A statement that the information in the application is true must be placed at the end of the application, sworn to before a notary public, and signed by a responsible applicant official.

§ 148.107 What additional information may be required?

(a) The Commandant (G-P), in coordination with MARAD, may require the applicant or the applicant's affiliates to file, as a supplement to the application, any analysis, explanation, or other information he or she deems necessary.

(b) The Commandant (G-P) may require the applicant or the applicant's affiliates to make available for Coast Guard examination, under oath or for interview, persons having, or believed to have, necessary information.

(c) The Commandant (G-P) may set a deadline for receiving the information.

(1) If the applicant states that the required information is not yet available but will be at a later date, the Commandant (G-P) may specify a later deadline.

(2) If a requirement is not met by a deadline fixed under this paragraph, the Commandant (G-P), in coordination with MARAD, may determine whether compliance with the requirement is important to processing the application within the time prescribed by the Act.

(3) If the requirement is important to processing the application within the time limit set by the Act, the Commandant (G-P) may recommend to the Maritime Administrator that he or she either not approve the application or suspend it indefinitely. The deadline for the Administrator's review under the Act is extended for a period of time equal to the time of the suspension.

§ 148.108 What if a Federal or State agency or other interested party requests additional information?

(a) Any Federal or State agency or other interested person may recommend that the applicant provide information that is not specified by this subchapter.

(b) Recommendations must state briefly why the information is needed.

(c) The Commandant (G-P) must receive the request prior to the closing dates for the comment periods for scoping, and the draft or final environmental impact statement or environmental assessment. MARAD will consider the request before making a final decision on whether or not to approve the license application.

(d) The Commandant (G-P) will consider whether:

(1) The information requested is essential for processing the license application; and

(2) The time and effort required by the applicant in gathering the information will result in an undue delay in the application process.

(e) The Commandant (G-P) may discuss the recommendation with the recommending person and the applicant prior to issuing a determination.

§ 148.110 How do I prepare my application?

(a) Any person may confer with the Commandant (G-P) concerning requirements contained in this rule for the preparation of an application or the requirements of this subchapter.

(b) The applicant may incorporate, by clear and specific reference in the application:

(1) Standard reference material that the applicant relied on that is readily available to Federal and State agencies;

(2) Current information contained in previous applications or reports that the applicant has submitted to the application staff; or

(3) Current information contained in a tariff, report, or other document previously filed for public record with the Surface Transportation Board or the Securities and Exchange Commission, if:

(i) A certified true and complete copy of the document is attached to each copy of the application as required by § 148.115(a);

(ii) The date of filing and the document number are on the cover of the document; and

(iii) Any verification or certification required for the original filing, other than from auditors or other independent persons, is dated no earlier than 30 days before the date of the application.

§ 148.115 How many copies of the application must I send and where must I send them?

Send the following copies of the application:

(a) Two printed copies and three electronic versions to the Commandant (G-PSO), U.S. Coast Guard, 2100 Second Street SW., Washington, DC 20593-0001.

(b) Two printed copies and two electronic versions to the MARAD Administrator, 400 7th Street SW., Washington, DC 20590.

(c) One copy to the U.S. Army Corps of Engineers District Office having jurisdiction over the proposed port. For the address, see http://www.usace.army.mil/.

(d) Additional printed and electronic copies for distribution to Federal, tribal, and State regulatory agencies involved in reviewing the application in accordance with the needs of each agency.

§ 148.125 What are the application fees?

(a) The applicant must submit a nonrefundable application fee of $350,000 with each application for a license. If additional information is necessary to make an application complete, no additional application fee is required.

(b) The costs incurred by the Federal Government in processing an application will be charged to the application fee until it is exhausted. If the fee is exhausted and the Federal Government incurs further processing costs, the applicant will be charged for the additional costs. The Commandant (G-P) will periodically advise the applicant of the status of expenses incurred during the application process.

(c) Additional costs attributable to processing a deepwater port license application and post-license activities, for example the engineering plan review or development of the final operations manual, are due when they are assessed, and must be paid by the applicant prior to commencing operation of the deepwater port.

(d) Application fees and additional costs assessed under this section must be made payable to the United States Treasury, and submitted to the Commandant (G-P).

Subpart C—Processing Applications

General

§ 148.200 What is the purpose of this subpart?

This subpart prescribes the requirements for processing an application for a deepwater port license.

It includes the procedures for:

(a) Maintaining the docket;

(b) Designating adjacent coastal states;

(c) Holding informal and formal public hearings; and

(d) Approving or denying an application.

§ 148.205 How are documents related to the application maintained?

(a) The Commandant (G-P) maintains the docket for each application.

(1) The docket contains a copy of all documents filed or issued as part of the application process.

(2) Recommendations submitted by Federal departments and agencies under 33 U.S.C. 1504(e)(2) are docketed when they are received.

(3) Copies of applicable National Environmental Policy Act documents prepared under 33 U.S.C. 1504(f) are docketed when they are sent to the Environmental Protection Agency.

(b) For a document designated as protected from disclosure under 33 U.S.C. 1513(b), the Commandant (G-P):

(1) Prevents the information in the document from being disclosed, unless the Commandant (G-P) states that the disclosure is not inconsistent with 33 U.S.C. 1513(b); and

(2) Keeps a record of all individuals who have a copy of the document.

§ 148.207 How and where may I view docketed documents?

(a) All material in a docket under § 148.205 is available to the public for inspection and copying at Commandant (G-P) at the address under “Commandant (G-P)” in § 148.5, except for:

(1) Contracts under 33 U.S.C. 1504(c)(2)(B) for the construction or operation of a deepwater port; and

(2) Material designated under paragraph (b) of this section as a trade secret, or commercial or financial information that is claimed to be privileged or confidential.

(b) A person submitting material that contains either a trade secret or commercial or financial information under paragraph (a)(2) of this section must designate those portions of the material that are privileged or confidential. Section 148.221 contains procedures for objecting to these claims.

(c) Docketed material for each deepwater port project is also available to the public electronically at the Department of Transportation Docket Management System Web site at http://www.dot.dms.gov. The projects are also listed by name and the assigned docket number at the G-PSO-5 Web site: http://www.uscg.mil/hq/g-m/mso/mso5.htm.

§ 148.209 How is the application processed?

The Commandant (G-P), in cooperation with the Maritime Administrator, processes each application and the Maritime Administration publishes the notice of application under 33 U.S.C. 1504(c) in the Federal Register. Upon publication of a notice of application, the Commandant (G-P) ensures delivery of copies of the application to:

(a) Each Federal agency with jurisdiction over any aspect of ownership, construction, or operation of deepwater ports. A complete listing of the Federal agencies involved with deepwater port licensing is outlined in the Deepwater Port Interagency MOU available at the following hyperlink: http://www.uscg.mil/hq/G-M/mso/docs/dwp_white_house_task_force_energy_streamlining.pdf.

(b) Each adjacent coastal State, including relevant State and tribal agencies in those States.

§ 148.211 What must I do if I need to change my application?

(a) If at any time before the Secretary approves or denies an application, the information in it changes or becomes incomplete, the applicant must promptly submit the changes or additional information in the manner set forth in § 148.115 of this part.

(b) The Coast Guard may determine that the change or required information is of such magnitude that it warrants submission of a complete revised application.

§ 148.213 How do I withdraw my application?

The applicant may withdraw an application at any time before the proceeding is terminated by delivering or mailing notice of withdrawal to the Commandant (G-P) for docketing.

§ 148.215 What if a port has plans for a deep draft channel and harbor?

(a) If a State port will be directly connected by pipeline to a proposed deepwater port, and has existing plans for a deep draft channel and harbor, a representative of the port may request a determination under 33 U.S.C. 1503(d).

(b) The request must be sent, in writing, to the Commandant (G-P) within 30 days after the date that the notice of application for the deepwater port is published in the Federal Register.

(c) The request must contain:

(1) A signature of the highest official of the port submitting the request;

(2) A copy of the existing plans for the construction of a deep draft channel and harbor;

(3) Certification that the port has an active study by the Secretary of the Army for the construction of a deep draft channel and harbor, or that the port has an application pending for a permit under 33 U.S.C. 403 for the construction;

(4) Any available documentation on:

(i) Initial costs, by phases if development is staged, for the proposed onshore project, including dredging, ship terminal, and attendant facilities;

(ii) Estimated annual operating expenses, by phases if development is staged, including labor, for 30 years for all elements of the project;

(iii) Estimated completion time for all elements of the project;

(iv) Estimated vessel traffic volume, and the volume and variety of the tonnage;

(v) Potential traffic congestion conditions in the port, and the port's ability to control vessel traffic as a result of the proposed dredging project;

(vi) Estimated economic benefits of the project, including:

(A) Economic contribution to the local and regional area;

(B) Induced industrial development;

(C) Increased employment; and

(D) Increases in tax revenues;

(vii) Environmental and social impacts of the project on the local and regional community; and

(viii) An estimate of the economic impact that the deepwater port license will have on the proposed project.

(d) A statement whether the port seeks a determination that the port best serves the national interest.

§ 148.217 How can a State be designated as an adjacent coastal State?

(a) Adjacent coastal States are named in the notice of application published in the Federal Register. However, a State not named as an adjacent coastal State in the notice may request to be designated as one if the environmental risks to it are equal to or greater than the risks posed to a State directly connected by pipeline to the proposed deepwater port.

(b) The request must:

(1) Be submitted in writing to the Commandant (G-P) within 14 days after the date of publication of the notice of application in the Federal Register;

(2) Be signed by the Governor of the State;

(3) List the facts and any available documentation or analyses concerning the risk of damage to the coastal environment of the State; and

(4) Explain why the State believes the risk of damage to its coastal environment is equal to or greater than the risk to a State connected by a pipeline to the proposed deepwater port.

(c) Upon receipt of a request, the Commandant (G-P) will send a copy of the State's request to the Administrator of the National Oceanic and Atmospheric Administration (NOAA) and ask for the Administrator's recommendations within an amount of time that will allow the Commandant (G-P) and the MARAD Administrator 45 days from receipt of the request to determine the matter.

(d) If after receiving NOAA's recommendations the Commandant (G-P), in concurrence with MARAD Administrator, determines that the State should be considered an adjacent coastal State, the Commandant (G-P), in concurrence with the MARAD Administrator, will so designate it. If the Commandant (G-P), in concurrence with the MARAD Administrator, denies the request, he or she will notify the requesting State's Governor of the denial.

§ 148.221 How do I claim, or object to a claim, that required information is privileged?

(a) Any person may claim that specific information required pursuant to this part should be withheld because it is privileged, and any person can object to that claim.

(b) Requests or objections must be submitted to the Commandant (G-P) in writing, with sufficient specificity to identify the information at issue, and to show why it should or should not be considered privileged.

(c) The Commandant (G-P) determines whether to grant or deny a claim of privilege.

(d) Submission of a claim stays any deadline for providing the information at issue, unless the claim is made pursuant to the protection for confidential information that is provided by 33 U.S.C. 1513(b), in which case deadlines are not stayed. The Commandant (G-P) may also determine that the information at issue is so material that processing of the application must be suspended pending the determination of the claim.

Public Hearings or Meetings

§ 148.222 When must public hearings or meetings be held?

(a) Before a license is issued, at least one public license hearing under 33 U.S.C. 1504(g) must be held in each adjacent coastal State. Other Federal statutes and regulations may impose additional requirements for public hearings or meetings, and if not otherwise prohibited, a hearing under this paragraph may be consolidated with any such additional hearing or meeting.

(b) The Commandant (G-P) or the MARAD Administrator will publish a notice of public hearings or meetings in the Federal Register, and will mail or deliver a copy of the notice to the applicant, to each adjacent coastal State, and to all who request a copy.

(c) Anyone may attend a public hearing or meeting and provide relevant oral or written information. The presiding officer may limit the time for providing oral information.

§ 148.227 How is a public hearing or meeting reported?

(a) After completion of a public hearing or meeting, the presiding officer forwards a report on the hearing or meeting to the Commandant (G-P) for docketing.

(b) The report must contain at least:

(1) An overview of the factual issues addressed;

(2) A transcript or recording of the hearing or meeting; and

(3) A copy of all material submitted to the presiding officer.

(c) During the hearing or meeting, the presiding officer announces the information that the report must contain.

Formal Hearings

§ 148.228 What if a formal evidentiary hearing is necessary?

(a) After all public meetings under § 148.222 of this part are concluded, the Commandant (G-PSO), in coordination with the MARAD Administrator, will consider whether there are one or more specific and material factual issues that may be resolved by a formal evidentiary hearing.

(b) If the Commandant (G-PSO), in coordination with the MARAD Administrator, determines that one or more issues under paragraph (a) of this section exist, the Coast Guard will hold at least one formal evidentiary hearing under 5 U.S.C. 554 in the District of Columbia.

(c) The Commandant (G-PSO) files a request for assignment of an administrative law judge (ALJ) with the ALJ Docketing Center. The Chief ALJ designates an ALJ or other person to conduct the hearing.

(d) The recommended findings and the record developed in a hearing under paragraph (b) of this section are considered by the MARAD Administrator in deciding whether to approve or deny a license.

§ 148.230 How is notice of a formal hearing given?

(a) The Commandant (G-P) publishes a notice of the hearing in the Federal Register and sends a notice of the hearing to the applicant, to each adjacent coastal State, and to each person who requests such a notice.

(b) The notice of the hearing includes the applicant's name, the name of the ALJ assigned to conduct the hearing, a list of the factual issues to be resolved, the address where documents are to be filed, and the address where a copy of the rules of practice, procedure, and evidence to be used at the hearing is available.

§ 148.232 What are the rules for a formal hearing?

(a) The Commandant (G-P) determines the rules for each formal hearing. Unless otherwise specified in this part, the Commandant (G-P) applies the rules of practice, procedure, and evidence in part 20 of this chapter.

(b) The Commandant (G-P) sends a written copy of the procedure to the applicant, each person intervening in the proceedings, and each person who requests a copy.

§ 148.234 What are the limits of an Administrative Law Judge (ALJ)'s jurisdiction?

(a) An ALJ's jurisdiction begins upon assignment to a proceeding.

(b) An ALJ's jurisdiction ends after the recommended findings are filed with the Commandant (G-P) or immediately after the ALJ issues a notice of withdrawal from the proceeding.

§ 148.236 What authority does an Administrative Law Judge (ALJ) have?

When assigned to a formal hearing, an ALJ may:

(a) Administer oaths and affirmations;

(b) Issue subpoenas;

(c) Issue rules of procedure for written evidence;

(d) Rule on offers of proof and receive evidence;

(e) Examine witnesses;

(f) Rule on motions of the parties;

(g) Suspend or bar an attorney from representing a person in the proceeding for unsuitable conduct;

(h) Exclude any person for disruptive behavior during the hearing;

(i) Set the hearing schedule;

(j) Certify questions to the Commandant (G-P);

(k) Proceed with a scheduled session of the hearing in the absence of a party who failed to appear;

(l) Extend or shorten a non-statutorily imposed deadline under this subpart within the 240-day time limit for the completion of public hearings in 33 U.S.C. 1504(g);

(m) Set deadlines not specified in this subpart or the Deepwater Ports Act; and

(n) Take any other action authorized by or consistent with this subpart, the Deepwater Ports Act, or 5 U.S.C. 551-559.

§ 148.238 Who are the parties to a formal hearing?

The parties to a formal hearing are:

(a) The applicant;

(b) The Commandant (G-P); and

(c) Any person intervening in the proceedings.

§ 148.240 How does a State or a person intervene in a formal hearing?

(a) Any person or adjacent coastal State may intervene in a formal hearing.

(b) A person must file a petition of intervention within 10 days of notice that the formal hearing is issued. The petition must:

(1) Be addressed to the Administrative Law Judge (ALJ) Docketing Center;

(2) Identify the issues and the petitioner's interest in those issues; and

(3) Designate the name and address of a person who can be served if the petition is granted.

(c) An adjacent coastal State need only file a notice of intervention with the ALJ Docketing Center.

(d) The ALJ has the authority to limit the scope and period of intervention during the proceeding.

(e) If the ALJ denies a petition of intervention, the petitioner may file a notice of appeal with the ALJ Docketing Center within 7 days of the denial.

(1) A brief may be submitted with the notice of appeal.

(2) Parties who wish to file a brief in support of or against the notice of appeal may do so within 7 days of filing the notice.

(f) The Commandant (G-P) will rule on the appeal. The ALJ does not have to delay the proceedings for intervention appeals.

§ 148.242 How does a person who is not a party to a formal hearing present evidence at the hearing?

(a) A person who is not a party to a formal hearing may present evidence at the hearing if he or she sends a petition to present evidence to the ALJ Docketing Center before the beginning of the formal hearing. The petition must describe the evidence that the person will present and show its relevance to the issues listed in the notice of formal hearing.

(b) If a petition is granted, the ruling will specify which evidence is approved to be presented at the hearing.

§ 148.244 Who must represent the parties at a formal hearing?

(a) All organizations that are parties to the proceeding must be represented by an attorney. Individuals may represent themselves.

(b) Any attorney representing a party to the proceeding must file a notice of appearance according to § 20.301(b) of this chapter.

(c) Each attorney must be in good standing and licensed to practice before a court of the United States or the highest court of any State, territory, or possession of the United States.

§ 148.246 When is a document considered filed and where should I file it?

(a) If a document to be filed is submitted by mail, it is considered filed on the date it is postmarked. If a document is submitted by hand delivery or electronically, it is considered filed on the date received by the clerk.

(b) File all documents and other materials related to an administrative proceeding at the U.S. Coast Guard Administrative Law Center, Attention: Hearing Docket Clerk, room 412, 40 South Gay Street, Baltimore, MD, 21201-4022.

§ 148.248 What happens when a document does not contain all necessary information?

Any document that does not satisfy the requirements in §§ 20.303 and 20.304 of this chapter will be returned to the person who submitted it with a statement of the reasons for denial.

§ 148.250 Who must be served before a document is filed?

Before a document may be filed by any party, it first must be served upon:

(a) All other parties; and

(b) The Commandant (G-P).

§ 148.252 What is the procedure for serving a subpoena?

(a) A party may submit a request for a subpoena to the Administrative Law Judge (ALJ). The request must show the relevance and scope of the evidence sought.

(b) Requests should be submitted sufficiently in advance of the hearing so that exhibits and witnesses can be included in the lists required by § 20.601 of this chapter, but may be submitted later and before the end of the hearing, if good cause is shown for the late submission.

(c) A request for a subpoena must be submitted to the ALJ.

(d) A proposed subpoena, such as the form in http://cgweb.comdt.uscg.mil/g-cj/subpoena.doc, must be submitted with the request. If you do not use this form, the proposed subpoena must contain:

(1) The docket number of the proceedings;

(2) The captions “Department of Homeland Security,” “Coast Guard,” and “Licensing of deepwater port for coastal waters off (insert name of the coastal State closest to the proposed deepwater port and the docket number of the proceeding)”;

(3) The name and the address of the office of the ALJ;

(4) For a subpoena giving testimony, a statement commanding the person to whom the subpoena is directed to attend the formal hearing and give testimony;

(5) For a subpoena producing documentary evidence, a statement commanding the person to produce designated documents, books, papers, or other tangible things at a designated time or place; and

(6) An explanation of the procedure in § 20.309(d) of this chapter and paragraph (h) of this section for quashing a subpoena.

(e) The procedure for serving a subpoena must follow Rule 45 of the Federal Rules of Civil Procedure, unless the ALJ authorizes another procedure.

(f) The witness fees for a subpoenaed witness are the same as the fees for witnesses subpoenaed in U.S. District Courts. The person requesting the subpoena must pay these fees.

(g) When serving a subpoena, a party must include witness fees in the form of a check to the individual or organization for one day plus mileage, or, in the case of a government-issued subpoena, a form SF-1157 so a witness may receive fees and mileage reimbursement.

(h) Any person served with a subpoena has 10 days from the time of service to move to quash the subpoena.

(i) If a person does not comply with a subpoena, the ALJ decides whether judicial enforcement of the subpoena is necessary. If the ALJ decides it is, the Commandant (G-P) reviews this decision.

§ 148.254 How is a hearing transcript prepared?

(a) Under the supervision of the Administrative Law Judge (ALJ), the reporter prepares a verbatim transcript of the hearing. Nothing may be deleted from the transcript, unless ordered by the ALJ and noted in the transcript.

(b) After a formal hearing is completed, the ALJ certifies and forwards the record, including the transcript, to the clerk to be placed into the docket.

(c) At any time within the 20 days after the record is docketed, the ALJ may make corrections to the certified transcript. When corrections are filed, they are attached as appendices.

(d) Any motion to correct the record must be submitted within 10 days after the record is docketed.

§ 148.256 What happens at the conclusion of a formal hearing?

After closing the record of a formal hearing, the Administrative Law Judge (ALJ) prepares a recommended finding on the issues that were the subject of the hearing. The ALJ submits that finding to the Commandant (G-P).

Approval or Denial of the Application

§ 148.276 When must the application be approved or denied?

(a) In 33 U.S.C. 1504, the Deepwater Port Act provides strict timelines for action on a license application, which, if closely observed, can lead to action in just under 1 year. The Coast Guard, in concurrence with MARAD, can suspend the process if an applicant fails to provide timely information or requests additional time to comply with a request.

(b) The Coast Guard must conduct public hearings in each adjacent Coastal State within 240 days of publishing the notice of receipt of a deepwater port license application.

(c) MARAD issues a record of decision (ROD) approving or denying a license application within 90 days after the final public hearing. Actual issuance of a license may not take place until certain conditions imposed by the ROD have been met. Those conditions may include how the applicant must address design, construction, installation, testing, operations, and decommissioning of the port, or meet the requirements of other agencies.

§ 148.277 How may Federal agencies and States participate in the application process?

(a) Under § 148.209, Federal agencies and adjacent coastal States are sent copies of the application. The agencies and States are encouraged to begin submitting their comments at that time.

(b) To be considered, comments from Federal agencies and adjacent coastal States must be received by the Commandant (G-P) within 45 days after the close of the public hearing period specified in § 148.276(b). Separate comment periods will apply to the review of documents created during the National Environmental Policy Act process. Both the Commandant (G-P) and MARAD review the comments received.

(c) Comments should identify problems, if any, and suggest possible solutions.

§ 148.279 What are the criteria for approval or denial of an application?

The criteria for approving or denying a license application appear in 33 U.S.C. 1503.

§ 148.281 What happens when more than one application is submitted for a deepwater port in the same application area?

(a) When more than one application is submitted for a deepwater port in the same application area under 33 U.S.C. 1504(d), only one application is approved. Except as provided in paragraph (b) of this section, applicants receive priority in the following order:

(1) An adjacent coastal State or combination of States, political subdivision of the State, or an agency or instrumentality, including a wholly owned corporation of the State;

(2) A person that is:

(i) Not engaged in producing, refining, or marketing oil;

(ii) Not an affiliate of a person engaged in producing, refining, or marketing oil; or

(iii) Not an affiliate of a person engaged in producing, refining, or marketing oil; and then

(3) Any other applicant.

(b) MARAD may also approve one of the proposed deepwater ports if it determines that that port will best serve the national interest. In making this determination, MARAD considers:

(1) The degree to which each deepwater port will affect the environment, as determined under the review criteria in subpart G to this part;

(2) The differences between the anticipated completion dates of the deepwater ports; and

(3) The differences in costs for construction and operation of the ports that would be passed on to consumers of oil.

(c) This section does not apply to applications for natural gas deepwater ports.

§ 148.283 When is the application process stopped before the application is approved or denied?

The Commandant (G-P) recommends to MARAD that the application process be suspended before the application is approved or denied if:

(a) All applications are withdrawn before MARAD approves one of them; or

(b) There is only one application; it is incomplete, and the applicant does not respond to a request by the Commandant (G-P) for further information, as per § 148.107.

Subpart D—Licenses

§ 148.300 What does this subpart concern?

This subpart concerns the license for a deepwater port and the procedures for transferring, amending, suspending, reinstating, revoking, and enforcing a license.

§ 148.305 What is included in a deepwater port license?

A deepwater port license contains information about the licensee and the port, and any conditions of its own or of another agency that may be described by MARAD in the license. Licenses are issued in conformance with the Deepwater Ports Act of 1974, as amended, and with rules and policies of MARAD that implement that Act.

§ 148.307 Who may consult with the Commandant (G-P) and the MARAD Administrator on developing the proposed conditions of a license?

Federal agencies, the adjacent coastal States, and the owner of the deepwater port may consult with the Commandant (G-P) and the MARAD Administrator on the conditions of the license being developed under 33 U.S.C. 1503(e).

§ 148.310 How long does a license last?

Each license remains in effect indefinitely subject to the following:

(a) If it is suspended or revoked by MARAD;

(b) If it is surrendered by the owner; or

(c) As otherwise provided by condition of the license.

§ 148.315 How is a license amended, transferred, or reinstated?

(a) MARAD may amend, transfer, or reinstate a license if it finds that the amendment, transfer, or reinstatement is consistent with the requirements of the Act and this subchapter.

(b) The owner must submit a request for an amendment, transfer, or reinstatement to the Commandant (G-P) or the MARAD Administrator.

§ 148.320 How is a license enforced, suspended, or revoked?

MARAD may enforce, suspend, or revoke a license under 33 U.S.C. 1507(c).

§ 148.325 How soon after port decommissioning must the licensee initiate removal?

Within 2 years of port decommissioning, the licensee must initiate removal procedures. The Commandant (G-P) will advise and coordinate with appropriate Federal agencies and the States concerning activities covered by this section.

Subpart E—Site Evaluation and Pre-Construction Testing

§ 148.400 What does this subpart do?

(a) This subpart prescribes requirements under 33 U.S.C. 1504(b) for the activities that are involved in site evaluation and pre-construction testing at potential locations for deepwater ports and that may:

(1) Adversely affect the environment;

(2) Interfere with authorized uses of the OCS; or

(3) Pose a threat to human health and welfare.

(b) For the purpose of this subpart, “site evaluation and pre-construction testing” means studies performed at potential deepwater port locations, including:

(1) Preliminary studies to determine the feasibility of a site;

(2) Detailed studies of the topographic and geologic structure of the ocean bottom to determine its ability to support offshore structures and other equipment; and

(3) Studies done for the preparation of the environmental analysis required under § 148.105.

§ 148.405 What are the procedures for notifying the Commandant (G-P) of proposed site evaluation and pre-construction testing?

(a) Any person who wants to conduct site evaluation and pre-construction testing at a potential site for a deepwater port must submit a written notice to the Commandant (G-P) at least 30 days before the beginning of the evaluation or testing. The Commandant (G-P) advises and coordinates with appropriate Federal agencies and the States concerning activities covered by this subpart.

(b) The written notice must include the following:

(1) The names of all parties participating in the site evaluation and pre-construction testing;

(2) The type of activities and the way they will be conducted;

(3) Charts showing where the activities will be conducted and the locations of all offshore structures, including pipelines and cables, in or near the proposed area;

(4) The specific purpose for the activities;

(5) The dates when the activities will begin and end;

(6) The available data on the environmental consequences of the activities;

(7) A preliminary report, based on existing data, of the historical and archeological significance of the area where the proposed activities are to take place. The report must include contacts made with any appropriate State liaison officers for historic preservation; and

(8) Additional information, if necessary, in individual cases.

(c) For the following activities, the notice only needs the information required in paragraphs (b)(1), (b)(2), and (b)(5) of this section, as well as a general indication of the proposed location and purpose of the activities, including:

(1) Gravity and magneto-metric measurements;

(2) Bottom and sub-bottom acoustic profiling, within specified limits, without the use of explosives;

(3) Sediment sampling of a limited nature using either core or grab samplers, and the specified diameter and depth to which the sampling would penetrate if geological profiles indicate no discontinuities that may have archeological significance;

(4) Water and biotic sampling if the sampling does not adversely affect shellfish beds, marine mammals, or an endangered species, or if the sampling is permitted by another Federal agency;

(5) Meteorological measurements, including the setting of instruments;

(6) Hydrographic and oceanographic measurements, including the setting of instruments; and

(7) Small diameter core sampling to determine foundation conditions.

(d) A separate written notice is required for each site.

§ 148.410 What are the conditions for conducting site evaluation and pre-construction testing?

(a) No person may conduct site evaluation and pre-construction testing unless it complies with this subpart and other applicable laws.

(b) Measures must be taken to prevent or minimize the effect of activities under § 148.400(a).

§ 148.415 When conducting site evaluation and pre-construction testing, what must be reported?

(a) When conducting site evaluation or pre-construction testing, the following must be immediately reported by any means to the Commandant (G-P):

(1) Any evidence of objects of cultural, historical, or archeological significance;

(2) Any adverse effect on the environment;

(3) Any interference with authorized uses of the OCS;

(4) Any threat to human health and welfare; and

(5) Any adverse effect on an object of cultural, historical, or archeological significance.

(b) Within 120 days after the site evaluation or pre-construction testing, a final written report must be submitted to the Commandant (G-P) that contains:

(1) A narrative description of the activities performed;

(2) A chart, map, or plat of the area where the activities occurred;

(3) The dates when the activities were performed;

(4) Information on the adverse effects of items reported under paragraph (a) of this section;

(5) Data on the historical or archeological significance of the area where the activities were conducted, including a report by an underwater archeologist; and

(6) Any additional information required by the Commandant (G-P) on a case-by-case basis.

§ 148.420 When may the Commandant (G-P) suspend or prohibit site evaluation or pre-construction testing?

(a) The Commandant (G-P) may order, either in writing or orally, with written confirmation, the prohibition or immediate suspension of any activity related to site evaluation or pre-construction testing when the activity threatens to harm:

(1) Human life;

(2) Biota;

(3) Property;

(4) Cultural resources;

(5) Any valuable mineral deposits; or

(6) The environment.

(b) The Commandant (G-P) will consult with the applicant on measures to remove the cause for suspension.

(c) The Commandant (G-P) may lift a suspension after the applicant assures the Commandant (G-P) that the activity will no longer cause the threat on which the suspension was based.

Subpart F—Exemption From or Adjustments to Requirements in This Subchapter

§ 148.500 What does this subpart do?

This subpart provides procedures for requesting an exemption from a requirement in this subchapter. The Commandant (G-P) and MARAD coordinate in evaluating requests for exemption from the requirements in this subchapter.

§ 148.505 How do I apply for an exemption?

(a) Any person required to comply with a requirement in this subchapter may submit a petition for exemption from that requirement.

(b) The petition must be submitted in writing to the Commandant (G-P) and the MARAD Administrator.

(c) The Commandant (G-P) may require the petition to provide an alternative to the requirement.

§ 148.510 What happens when a petition for exemption involves the interests of an adjacent coastal State?

If the petition for exemption concerns an adjacent coastal State, the Commandant (G-P) forwards the petition to the Governor of the State for the Governor's recommendation.

§ 148.515 When is an exemption allowed?

The Commandant (G-P) may recommend that MARAD allow an exemption if he or she determines that:

(a) Compliance with the requirement would be contrary to public interest;

(b) Compliance with the requirement would not enhance safety or the health of the environment;

(c) Compliance with the requirement is not practical because of local conditions or because the materials or personnel needed for compliance are unavailable;

(d) National security or national economy justifies a departure from the rules; or

(e) The alternative, if any, proposed in the petition would:

(1) Ensure comparable or greater safety, protection of the environment, and quality of deepwater port construction, maintenance, and operation; and

(2) Be consistent with recognized principles of international law.

§ 148.600 What is the limit of financial liability?

The financial limit for liability for deepwater ports is set in accordance with 33 U.S.C. 2704.

§ 148.605 How is the limit of liability determined?

(a) The Coast Guard may lower the $350,000,000 limit of liability for deepwater ports set by 33 U.S.C. 2704(a)(4), pursuant to paragraph (d) of that section, particularly for natural gas deepwater ports that will store or use oil in much smaller amounts than an oil deepwater port.

(b) Requests to adjust the limit of liability for a deepwater port must be submitted to the Commandant (G-P). Adjustments are established by a rulemaking with public notice and comment that may take place concurrently with the processing of the deepwater port license application.

Subpart G—Environmental Review Criteria for Deepwater Ports

§ 148.700 How does the Deepwater Port Act interact with other Federal and State laws?

(a) Nothing in this subpart supersedes any Federal, tribal, or State requirements for the protection of the environment.

(b) The applicant must prepare and submit applications to each respective agency that requires a permit or license to operate the port.

(c) A list of Federal and State agencies that require certification includes, but is not limited to:

(1) The Environmental Protection Agency, for Clean Air Act and Clean Water Act permits;

(2) The Pipeline and Hazardous Materials Safety Administration, Office of Pipeline Safety; and

(3) The Mineral Management Service (MMS); or

(4) Both the Office of Pipeline Safety and MMS for pipeline approvals, and the appropriate State environmental agency or permitting agency.

§ 148.702 How were the environmental review criteria developed?

Under 33 U.S.C. 1505, the Commandant (G-P) must establish environmental review criteria for use in evaluating a proposed deepwater port. In developing these criteria, the Coast Guard considers the requirements for compliance with Federal and State mandates for the protection of the environment contained in, but not limited to, such guidance as published by:

(a) The Council on Environmental Quality in 40 CFR parts 1500-1508;

(b) Department of Homeland Security Directive 5100.1, Environmental Planning Program; and

(c) The Coast Guard in Commandant Instruction M16475.1D, National Environmental Policy Act Implementing Procedures and Policy for Considering Environmental Impacts.

§ 148.705 What is determined by the environmental evaluation?

(a) The environmental criteria to be used in evaluating a license application are established by general consensus of expertise, scientific opinion, public interest, and institutional requirements, such as laws and regulations established for the protection of the environment. Criteria that may be established in future environmental regulations or other requirements to protect the environment will also be used.

(b) The environmental criteria to be used in evaluating a license application are applied to all relevant aspects of:

(1) The fabrication, construction, operation, and decommissioning phases of a deepwater port;

(2) The operations of the vessels that serve the port;

(3) The port's servicing and support activities;

(4) Shore-based construction and fabrication sites;

(5) Shoreside supporting facilities, if appropriate, for the proposed location; and

(6) The No Action alternative and other reasonable alternatives.

(c) The criteria are also applied in a manner that takes into account the cumulative effects of other reasonably foreseeable actions as outlined in § 148.707.

§ 148.707 What type of criteria will be used in an environmental review and how will they be applied?

(a) The license application will be reviewed for the deepwater port's effects on the environment and for the environment's effects on the port and any of its shoreside support facilities.

(b) The environmental evaluation will be applied to the phases of construction, operation, and decommissioning of the proposed location, and at least one alternative site. The evaluation will determine:

(1) The effect on the environment, including but not limited to:

(i) Impacts on endangered species;

(ii) Essential fish habitat;

(iii) Marine sanctuaries;

(iv) Archaeological, cultural and historic sites;

(v) Water and air;

(vi) Coastal zone management;

(vii) Coastal barrier resources; and

(viii) Wetlands and flood plains.

(2) The effect on oceanographic currents and wave patterns;

(3) The potential risks to a deepwater port from waves, winds, weather, and geological conditions, and the steps that can be taken to protect against or minimize these dangers; and

(4) The effect on human health and welfare, including socioeconomic impacts, environmental justice and protection of children from environmental health and safety risks.

§ 148.708 Must the applicant's proposal reflect potential regulations?

Although a regulation is of no effect until it has been officially promulgated, to minimize the subsequent impact that potential regulations may have on a licensee, an applicant can and should reflect reasonably foreseeable environmental regulations in planning, operating, and decommissioning a deepwater port.

§ 148.709 How are these criteria reviewed and revised?

The Commandant (G-P) periodically reviews and may revise these criteria. Reviews and revisions are conducted in accordance with § 148.700 of this subpart. The criteria established are consistent with the National Environmental Policy Act.

§ 148.710 What environmental conditions must be satisfied?

(a) MARAD may issue a license to construct a deepwater port under the Act, with or without conditions, if certain specified conditions are met. The relevant environmental considerations include, but are not limited to, the following:

(1) Construction and operation of the deepwater port that will be in the national interest and consistent with national security and other national policy goals and objectives, including energy sufficiency, environmental quality, protection from the threat of terrorist attack and other subversive activity against persons and property on the port and the vessels and crews calling at the port; and

(2) Under the environmental review criteria in § 148.707 of this subpart, the applicant has demonstrated that the deepwater port will be fabricated, constructed, operated, and decommissioned using the best available technology to prevent or minimize adverse impacts on the marine environment (33 U.S.C. 1503(c)(3), 1504(f) and 1505(a)(1)).

(b) Under 33 U.S.C. 1504(f), these criteria must be considered in the preparation of a single detailed environmental impact statement or environmental assessment for all timely applications covering a single application area. Additionally, 33 U.S.C. 1504(i)(3) specifies that if more than one application is submitted for an “application area,” as defined in 33 U.S.C. 1504(d)(2), the criteria must be used, among other factors, in determining whether any one proposed deepwater port for oil clearly best serves the national interest.

(c) In accordance with 40 CFR 1502.9, the Commandant (G-P) will prepare a supplement to a final environmental impact statement if there is significant new information or circumstances relevant to environmental concerns and bearing on the deepwater port and related activities affecting its location site, construction, operation or decommissioning.

§ 148.715 How is an environmental review conducted?

The environmental review of a proposed deepwater port and reasonable alternatives consists of Federal, tribal, State, and public review of the following two parts:

(a) An evaluation of the proposal's completeness of environmental information and quality of assessment, probable environmental impacts, and identification of procedures or technology that might mitigate probable adverse environmental impacts through avoiding, minimizing, rectifying, reducing, eliminating, or compensating for those impacts; and

(b) An evaluation of the effort made under the proposal to mitigate its probable environmental impacts. This evaluation will assess the applicant's consideration of the criteria in §§ 148.720 through 148.740 of this subpart.

§ 148.720 What are the siting criteria?

In accordance with § 148.715(b), the proposed and alternative sites for the deepwater port will be evaluated on the basis of how well each:

(a) Optimizes location to prevent or minimize detrimental environmental effects;

(b) Minimizes the space needed for safe and efficient operation;

(c) Locates offshore components in areas with stable sea bottom characteristics;

(d) Locates onshore components where stable foundations can be developed;

(e) Minimizes the potential for interference with its safe operation from existing offshore structures and activities;

(f) Minimizes the danger posed to safe navigation by surrounding water depths and currents;

(g) Avoids extensive dredging or removal of natural obstacles such as reefs;

(h) Minimizes the danger to the port, its components, and tankers calling at the port from storms, earthquakes, or other natural hazards;

(i) Maximizes the permitted use of existing work areas, facilities, and access routes;

(j) Minimizes the environmental impact of temporary work areas, facilities, and access routes;

(k) Maximizes the distance between the port, its components, and critical habitats including commercial and sport fisheries, threatened or endangered species habitats, wetlands, flood plains, coastal resources, marine management areas, and essential fish habitats;

(l) Minimizes the displacement of existing or potential mining, oil, or gas exploration and production or transportation uses;

(m) Takes advantage of areas already allocated for similar use, without overusing such areas;

(n) Avoids permanent interference with natural processes or features that are important to natural currents and wave patterns; and

(o) Avoids dredging in areas where sediments contain high levels of heavy metals, biocides, oil or other pollutants or hazardous materials, and in areas designated wetlands or other protected coastal resources.

§ 148.722 Should the construction plan incorporate best available technology and recommended industry practices?

Each applicant must submit a proposed construction plan. It must incorporate best available technology and recommended industry practices as directed in § 148.730.

§ 148.725 What are the design, construction and operational criteria?

In accordance with § 148.720(b), the deepwater port proposal and reasonable alternatives will be evaluated on the basis of how well they:

(a) Reflect the use of best available technology in design, construction procedures, operations, and decommissioning;

(b) Include safeguards, backup systems, procedures, and response plans to minimize the possibility and consequences of pollution incidents such as spills and discharges, while permitting safe operation with appropriate safety margins under maximum operating loads and the most adverse operating conditions;

(c) Provide for safe, legal, and environmentally sound waste disposal, resource recovery, affected area reclamation, and enhanced use of spoil and waste;

(d) Avoid permanent interference with natural processes or features that are important to natural currents and wave patterns;

(e) Avoid groundwater drawdown or saltwater intrusion, and minimizes mixing salt, fresh, and brackish waters;

(f) Avoid disrupting natural sheet flow, water flow, and drainage patterns or systems;

(g) Avoid interference with biotic populations, especially breeding habitats or migration routes;

(h) Maximize use of existing facilities;

(i) Provide personnel trained in oil spill prevention at critical locations identified in the accident analysis;

(j) Provide personnel trained in oil spill mitigation; and

(k) Plan for safe and effective removal of the deepwater port in the event of its decommissioning.

§ 148.730 What are the land use and coastal zone management criteria?

In accordance with § 148.715(b), the deepwater port proposal and reasonable alternatives will be evaluated on the basis of how well they:

(a) Accord with existing and planned land use, including management of the coastal region, for which purpose the proposal must be accompanied by a consistency determination from appropriate State agencies for any designated adjacent coastal State;

(b) Adhere to proposed local and State master plans;

(c) Minimize the need for special exceptions, zoning variances, or non-conforming uses;

(d) Plan flood plain uses in ways that will minimize wetlands loss, flood damage, the need for federally-funded flood protection or flood relief, or any decrease in the public value of the flood plain as an environmental resource; and

(e) Avoid permanent alteration or harm to wetlands, and take positive steps to minimize adverse effects on wetlands.

§ 148.735 What are other critical criteria that must be evaluated?

In accordance with § 148.715(b), the deepwater port proposal and reasonable alternatives will be evaluated on the basis of how well they:

(a) Avoid detrimental effects on human health and safety;

(b) Pose no compromise to national security;

(c) Account for the historic, archeological, and cultural significance of the area, including any potential requirements for historical preservation;

(d) Minimize harmful impacts to minorities and children; and

(e) Plan for serious consideration of the proposal that offers the least potential for environmental harm to the region, or potential mitigation actions, when conflict exists between two or more proposed uses for a site.

§ 148.737 What environmental statutes must an applicant follow?

In constructing and operating a deepwater port, the port must comply with all applicable Federal, State, and tribal environmental statutes. For the purposes of information, a list of Federal environmental statutes and Executive Orders (E.O.s) that may apply includes but is not limited to: Abandoned Shipwreck Act (ASA), 43 U.S.C. 2102, et. seq.; American Indian Religious Freedom Act (AIRFA), 42 U.S.C. 1996, et. seq.; Antiquities Act, 16 U.S.C. 433, et. seq.; Archeological and Historic Preservation Act (AHPA), 16 U.S.C. 469; Archeological Resources Protection Act (AHPA), 16 U.S.C. 470 aa-ll, et. seq.; Architectural Barriers Act, 42 U.S.C. 4151, et. seq.; Clean Air Act (CAA), Pub. L. 95-95, 42 U.S.C. 7401, et. seq.; Clean Water Act of 1977 (CWA), Pub. L. 95-217, 33 U.S.C. 1251, et. seq.; Coastal Barrier Resources Act (CBRA), Pub. L. 97-348, 16 U.S.C. 3510, et. seq.; Coastal Zone Management Act (CZMA), Pub. L. 92-583, 16 U.S.C. 1451, et. seq.; Community Environmental Response Facilitation Act (CERFA), 42 U.S.C. 9620, et. seq.; Comprehensive Environmental Response, Compensation, and Liability Act of 1980 (CERCLA), also commonly referred to as Superfund, Pub. L. 96-510, 26 U.S.C. 4611, et. seq.; Consultation and Coordination With Indian Tribal Governments, E.O. 13175, 65 FR 67249; Coral Reef Protection, E.O. 13089, 63 FR 32701; Department of Transportation Act, Section 4(f), Pub. L. 89-670, 49 U.S.C. 303, Section 4(f), et. seq.; Emergency Planning and Community Right-to-Know Act, 42 U.S.C. 11001-11050, et. seq.; Endangered Species Act of 1973 (ESA), Pub. L. 93-205, 16 U.S.C. 1531, et. seq.; Energy Efficiency and Water Conservation at Federal Facilities, E.O. 12902, 59 FR 11463; Environmental Effects Abroad of Major Federal Agencies, E.O. 12114, 44 FR 1957; Environmental Quality Improvement Act, Pub. L. 98-581, 42 U.S.C. 4371, et. seq.; Farmlands Protection Policy Act, Pub. L. 97-98, 7 U.S.C. 4201, et. seq.; Federal Actions to Address Environmental Justice in Minority Populations and Low-Income Populations, E.O. 12898, 59 FR 7629; Federal Compliance with Pollution Control Standards, E.O. 12088, 43 FR 47707; Federal Insecticide, Fungicide, and Rodenticide Act, Pub. L. 86-139, 7 U.S.C. 135, et. seq.; Federal Records Act (FRA), 44 U.S.C. 2101-3324, et. seq.; Federalism, E.O. 13083, Fish and Wildlife Act of 1956, Pub. L. 85-888, 16 U.S.C. 742, et. seq.; Fish and Wildlife Coordination Act, (Pub. L. 85-624, 16 U.S.C. 661, et. seq.; Fisheries Conservation and Recovery Act of 1976, Pub. L. 94-265, 16 U.S.C. 1801, et. seq.; Flood Disaster Protection Act, 42 U.S.C. 4001, et. seq.; Flood Plain Management and Protection, E.O. 11988, 42 FR 26951; Greening the Government Through Leadership in Environmental Management, E.O. 13148, 65 FR 24595; 63 FR 49643; Historic Sites Act, 16 U.S.C. 46, et. seq.; Indian Sacred Sites, E.O. 13007, 61 FR 26771; Intergovernmental Review of Federal Programs E.O. 12372, 47 FR 30959; Invasive Species, E.O. 13112, 64 FR 6183; Locating Federal Facilities on Historic Properties in our Nation's Central Cities, E.O. 13006, 61 FR 26071; Magnuson-Stevens Fishery Conservation and Management Act as amended through October 11, 1996, 16 U.S.C. 1801, et. seq.; Marine Mammal Protection Act of 1972 (MMPA), Pub. L. 92-522, 16 U.S.C. 1361; Marine Protected Areas, E.O. 13158, 65 FR 24909; Marine Protection, Research, and Sanctuaries Act of 1972, Pub. L. 92-532, 16 U.S.C. 1431, et. seq. and 33 U.S.C. U.S.C. 1401, et. seq.; Migratory Bird Treaty Act, 16 U.S.C. 703-712, et. seq.; National Environmental Policy Act of 1969 (NEPA), Pub. L. 91-190, 42 U.S.C. 4321, et. seq.; National Historic Preservation Act of 1996 (NHPA), Pub. L. 89-665, 16 U.S.C. 470, et. seq.; Native American Graves Protection and Repatriation Act (NAGPRA), 25 U.S.C. 3001, et. seq.; Noise Control Act of 1972, Pub. L. 92-574, 42 U.S.C. 4901, et. seq.; Pollution Prevention Act of 1990 (PPA), 42 U.S.C. 13101-13109, et. seq.; Protection and Enhancement of Cultural Environmental Quality, E.O. 11593, 36 FR 8921; Protection and Enhancement of Environmental Quality, E.O. 11514, 35 FR 4247; Protection of Children from Environmental Health and Safety Risks, E.O. 13045, 62 FR 19885; Protection of Wetlands, E.O. 11990, 42 FR 26961; Recreational Fisheries, E.O. 12962, 60 FR 307695; Resource Conservation and Recovery Act of 1976 (RCRA), Pub. L. 94-580, 42 U.S.C. 6901, et. seq.; Responsibilities of Federal Agencies to Protect Migratory Birds, E.O. 13186, 66 FR 3853; Safe Drinking Water Act (SDWA), Pub. L. 93-523, 42, U.S.C. 201, et. seq.; Toxic Substances Control Act (TSCA), 7 U.S.C. 136, et. seq.; and Wild and Scenic Rivers Act, Pub. L. 90-542, 16 U.S.C. 1271, et. seq.

PART 149—DEEPWATER PORTS: DESIGN, CONSTRUCTION, AND EQUIPMENT

Subpart A—General
Sec.
149.1 What does this part do?
149.5 What definitions apply to this part?
149.10 Where can I obtain a list of Coast Guard-approved equipment?
149.15 What is the process for submitting alterations and modifications affecting the design and construction of a deepwater port?
Subpart B—Pollution Prevention Equipment
149.100 What does this subpart do?
149.103 What are the requirements for discharge containment and removal material and equipment?
149.105 What are the requirements for the overflow and relief valves?
149.110 What are the requirements for pipeline end manifold shutoff valves?
149.115 What are the requirements for blank flange and shutoff valves?
149.120 What are the requirements for manually operated shutoff valves?
149.125 What are the requirements for the malfunction detection system?
149.130 What are the requirements for the cargo transfer system alarm?
149.135 What should be marked on the cargo transfer system alarm switch?
149.140 What communications equipment must be on a deepwater port?
149.145 What are the requirements for curbs, gutters, drains, and reservoirs?
Subpart C—Lifesaving Equipment
149.300 What does this subpart do?
Manned Deepwater Port Requirements
149.301 What are the requirements for lifesaving equipment?
149.302 What are the requirements when lifesaving equipment is repaired or replaced?
149.303 What survival craft and rescue boats may be used on a manned deepwater port?
149.304 What type and how many survival craft and rescue boats must a manned deepwater port have?
149.305 What are the survival craft requirements for temporary personnel?
149.306 What are the requirements for lifeboats?
149.307 What are the requirements for free-fall lifeboats?
149.308 What are the requirements for liferafts?
149.309 What are the requirements for marine evacuation systems?
149.310 What are muster and embarkation requirements for survival crafts?
149.311 What are the launching and recovery requirements for lifeboats?
149.312 What are the launching equipment requirements for inflatable liferafts?
149.313 How must survival craft be arranged?
149.314 What are the approval and stowage requirements for rescue boats?
149.315 What embarkation, launching, and recovery arrangements must rescue boats meet?
149.316 What are the requirements for lifejackets?
149.317 How and where must lifejackets be stowed?
149.318 Must every person on the port have a lifejacket?
149.319 What additional lifejackets must I have?
149.320 What are the requirements for ring life buoys?
149.321 How many ring life buoys must be on each deepwater port?
149.322 Where must ring life buoys be located and how must they be stowed?
149.323 What are the requirements for first aid kits?
149.324 What are the requirements for litters?
149.325 What emergency communications equipment must be on a manned deepwater port?
149.326 What are the immersion suit requirements?
149.327 What are the approval requirements for work vests and anti-exposure (deck) suits?
149.328 How must work vests and anti-exposure (deck) suits be stowed?
149.329 How must work vests and deck suits be marked?
149.330 When may a work vest or deck suit be substituted for a lifejacket?
149.331 What are the requirements for hybrid personal flotation devices?
149.332 What are the requirements for inflatable lifejackets?
149.333 What are the marking requirements for lifesaving equipment?
Unmanned Deepwater Port Requirements
149.334 Who must ensure compliance with the requirements for unmanned deepwater ports?
149.335 When are people prohibited from being on an unmanned deepwater port?
149.336 What are the requirements for lifejackets?
149.337 What are the requirements for ring life buoys?
149.338 What are the requirements for immersion suits?
149.339 What is the requirement for previously approved lifesaving equipment on a deepwater port?
149.340 What are the requirements for lifesaving equipment that is not required by this subchapter?
Subpart D—Firefighting and Fire-Protection Equipment
149.400 What does this subpart apply to?
149.401 What are the general requirements for firefighting and fire protection equipment?
149.402 What firefighting and fire protection equipment must be approved by the Coast Guard?
149.403 How may I request the use of alternate firefighting and fire prevention equipment or procedures?
Firefighting Requirements
149.404 Can I use firefighting equipment that has no Coast Guard standards?
149.405 How are fire extinguishers classified?
149.406 What are the approval requirements for a fire extinguisher?
149.407 Must fire extinguishers be on the deepwater port at all times?
149.408 What are the maintenance requirements for fire extinguishers?
149.409 How many fire extinguishers are needed?
149.410 Where must portable and semi-portable fire extinguishers be located?
149.411 What are the requirements for firemen's outfits?
149.412 How many fire axes are needed?
149.413 On a manned deepwater port, what spaces require a fixed fire extinguishing system?
149.414 What are the requirements for a fire detection and alarm system?
149.415 What are the requirements for a fire main system on a manned deepwater port?
149.416 What are the requirements for a dry chemical fire suppression system?
149.417 What firefighting equipment must a helicopter landing deck on a manned deepwater port have?
149.418 What fire-protection system must a helicopter fueling facility have?
149.419 Can the water supply for the helicopter deck fire protection system be part of a fire water system?
149.420 What are the fire protection requirements for escape routes?
149.421 What is the requirement for a previously approved fire detection and alarm system on a deepwater port?
Subpart E—Aids to Navigation
General
149.500 What does this subpart do?
149.505 What are the general requirements for aids to navigation?
149.510 How do I get permission to establish an aid to navigation?
Lights
149.520 What kind of lights are required?
Lights on Platforms
149.535 What are the requirements for rotating beacons on platforms?
Lights on Single Point Moorings
149.540 What are the requirements for obstruction lights on an single point mooring?
Lights on Floating Hose Strings
149.550 What are the requirements for lights on a floating hose string?
Lights on Buoys Used to Define Traffic Lanes
149.560 How must buoys used to define traffic lanes be marked and lighted?
149.565 What are the required characteristics and intensity of lights on buoys used to define traffic lanes?
Miscellaneous
149.570 How is a platform, single point mooring, or submerged turret loading identified?
149.575 How must objects protruding from the water, other than platforms and single point moorings, be marked?
149.580 What are the requirements for a radar beacon?
149.585 What are the requirements for sound signals?
Subpart F—Design and Equipment
General
149.600 What does this subpart do?
149.610 What must the District Commander be notified of and when?
149.615 What construction drawings and specifications are required?
149.620 What happens when the Commandant (G-P) reviews and evaluates the construction drawings and specifications?
149.625 What are the design standards?
Structural Fire Protection
149.640 What are the requirements for fire protection systems?
149.641 What are the structural fire protection requirements for accommodation spaces and modules?
Single Point Moorings
149.650 What are the requirements for single point moorings and their attached hoses?
Helicopter Fueling Facilities
149.655 What are the requirements for helicopter fueling facilities?
Emergency Power
149.660 What are the requirements for emergency power?
General Alarm System
149.665 What are the requirements for a general alarm system?
149.670 What are the requirements for marking a general alarm system?
Public Address System
149.675 What are the requirements for the public address system?
Medical Treatment Rooms
149.680 What are the requirements for medical treatment rooms?
149.685 May a medical treatment room be used for other purposes?
Miscellaneous
149.690 What are the requirements for means of escape, personnel landings, guardrails, similar devices, and for noise limits?
Means of Escape
149.691 What means of escape are required?
149.692 Where must they be located?
Personnel Landings
149.693 What are the requirements for personnel landings on manned deepwater ports?
Guardrails and Similar Devices
149.694 What are the requirements for catwalks, floors, and openings?
149.695 What are the requirements for stairways?
149.696 What are the requirements for a helicopter landing deck safety net?
Noise Limits
149.697 What are the requirements for a noise level survey?
Portable Lights
149.700 What kind of portable lights may be used on a deepwater port?

Authority: 33 U.S.C. 1504; Department of Homeland Security Delegation No. 0170.1 (75).

Subpart A—General

§ 149.1 What does this part do?

This part provides requirements for the design and construction of deepwater ports. It also provides the requirements for equipment for deepwater ports.

§ 149.5 What definitions apply to this part?

Definitions applicable to this part appear in 33 CFR 148.5. In addition, the following terms are used in this part and have the indicated meanings:

Accommodation module means a module with one or more accommodation spaces that is individually contracted and may be used for one or more facilities.

Major conversion means a conversion, as determined by the Commandant (G-P), that substantially changes the dimensions of a facility, substantially changes the water depth capability of a fixed facility, substantially changes the carrying capacity of a floating facility, substantially changes the processing equipment, changes the type of a facility, substantially prolongs the life of a facility, or otherwise so changes the facility that it is essentially a new facility.

Service space means a space used for a galley, a pantry containing cooking appliances, a storeroom, or a workshop other than those in industrial areas, and trunks to those spaces.

Sleeping space means a space provided with bunks for sleeping.

§ 149.10 Where can I obtain a list of Coast Guard-approved equipment?

Where equipment in this subchapter must be of an approved type, the equipment must be specifically approved by the Commandant (G-P) and the Marine Safety Center. A list of approved equipment, including all of the approval series, is available at: http://cgmix.uscg.mil/Equipment.

§ 149.15 What is the process for submitting alterations and modifications affecting the design and construction of a deepwater port?

(a) Alterations and modifications affecting the design and construction of a deepwater port must be submitted to the Commandant (G-P) for review and approval if:

(1) A license has not yet been issued; or,

(2) A license has been issued but the port has not commenced operations; or,

(3) The alteration and modification are deemed a major conversion; or,

(4) The alteration or modification substantially changes the manner in which the port operates or is not in accordance with a condition of the license.

(b) All other alterations and modifications to the deepwater port must be submitted to the Officer in Charge of Marine Inspection (OCMI) for review and approval.

(c) Approval for alterations and modifications proposed after a license has been issued will be contingent upon whether the proposed changes will affect the way the port operates, or any conditions imposed in the license.

(d) The licensee is not authorized to proceed with alterations prior to approval from the Commandant (G-P) for the conditions outlined in paragraph (a) and approval by the cognizant OCMI as required in paragraph (b) of this section.

(e) The Commandant (G-P), during the review and approval process of a proposed alteration or modification, may consult with the Marine Safety Center and cooperating Federal agencies possessing relevant technical expertise.

Subpart B—Pollution Prevention Equipment

§ 149.100 What does this subpart do?

This subpart provides requirements for pollution equipment on deepwater ports.

§ 149.103 What are the requirements for discharge containment and removal material and equipment?

(a) Each deepwater port must have a facility response plan that meets the requirements outlined in subpart F, part 154, of this chapter, and be approved by the cognizant Captain of the Port.

(b) The facility response plan must identify adequate spill containment and removal equipment for port-specific spill scenarios.

(c) Response equipment and material must be pre-positioned for ready access and use on board the deepwater port.

§ 149.105 What are the requirements for the overflow and relief valves?

(a) Each oil and natural gas transfer system (OTS/NGTS) must include a relief valve that, when activated, prevents pressure on any component of the OTS/NGTS from exceeding its maximum rated pressure.

(b) The transfer system overflow or relief valve must not allow a discharge into the sea.

§ 149.110 What are the requirements for pipeline end manifold shutoff valves?

Each pipeline end manifold must have a shutoff valve capable of operating both manually and from the pumping platform complex.

§ 149.115 What are the requirements for blank flange and shutoff valves?

Each floating hose string must have a blank flange and a shutoff valve at the vessel's manifold end.

§ 149.120 What are the requirements for manually operated shutoff valves?

Each oil and natural gas transfer line passing through a single point mooring buoy system must have a manual shutoff valve.

§ 149.125 What are the requirements for the malfunction detection system?

(a) Each oil and natural gas system, between a pumping platform complex and the shore, must have a system that can detect and locate leaks and other malfunctions, particularly in high-risk areas.

(b) The marine transfer area on an oil deepwater port must be equipped with a monitoring system in accordance with § 154.525 of this chapter.

(c) A natural gas deepwater port must be equipped with gas detection equipment adequate for the type of transfer system, including storage and regasification, used. The Commandant (G-P) will evaluate proposed leak-detection systems for natural gas on an individual basis.

§ 149.130 What are the requirements for the cargo transfer system alarm?

(a) Each cargo transfer system must have an alarm to signal a malfunction or failure in the system.

(b) The alarm must sound automatically in the control room and:

(1) Be capable of being activated at the pumping platform complex;

(2) Have a signal audible in all areas of the pumping platform complex, except in areas under paragraph (b)(3) of this section;

(3) Have a high intensity flashing light in areas of high ambient noise levels where hearing protection is required under § 150.615 of this chapter; and

(4) Be distinguishable from the general alarm.

(c) Tankers calling on unmanned deepwater ports must be equipped with a transfer system alarm described in this section.

§ 149.135 What should be marked on the cargo transfer system alarm switch?

Each switch for activating an alarm, and each audio or visual device for signaling an alarm, must be identified by the words “Oil Transfer Alarm” or “Natural Gas Transfer Alarm” in red letters at least 1 inch high on a yellow background.

§ 149.140 What communications equipment must be on a deepwater port?

(a) Each deepwater port must have the following communications equipment:

(1) A system for continuous two-way voice communication among the deepwater port, the tankers, the support vessels, and other vessels operating at the port. The system must be usable and effective in all phases of a transfer and in all conditions of weather at the port;

(2) A means to indicate the need to use the communication system required by this section, even if the means is the communication system itself; and

(3) Equipment that, for each portable means of communication used to meet the requirements of this section, is:

(i) Certified under 46 CFR 111.105-11 to be operated in Group D, Class 1, Division 1 Atmosphere; and,

(ii) Permanently marked with the certification required in paragraph (a)(3)(i) of this section. As an alternative to this marking requirement, a document certifying that the portable radio devices in use are in compliance with this section may be kept at the deepwater port.

(b) The communication system of the tank ship mooring at an unmanned port will be deemed the primary means of communicating with support vessels, shore side, etc.

§ 149.145 What are the requirements for curbs, gutters, drains, and reservoirs?

Each pumping platform complex must have enough curbs, gutters, drains, and reservoirs to collect, in the reservoirs, all oil and contaminants not authorized for discharge into the ocean according to the port's National Pollution Discharge Elimination System permit.

Subpart C—Lifesaving Equipment

§ 149.300 What does this subpart do?

This subpart provides requirements for lifesaving equipment on deepwater ports.

Manned Deepwater Port Requirements

§ 149.301 What are the requirements for lifesaving equipment?

(a) Each deepwater port on which at least one person occupies an accommodation space for more than 30 consecutive days in any successive 12-month period must comply with the requirements for lifesaving equipment in this subpart.

(b) Each deepwater port, not under paragraph (a) of this section, must comply with the requirements for lifesaving equipment for unmanned deepwater ports in this subpart.

§ 149.302 What are the requirements when lifesaving equipment is repaired or replaced?

When lifesaving equipment is replaced, or when the deepwater port undergoes a repair, alteration, or modification that involves replacing or adding to the lifesaving equipment, the new lifesaving equipment must meet the requirements of this subpart.

§ 149.303 What survival craft and rescue boats may be used on a manned deepwater port?

(a) Each survival craft on a manned deepwater port must be one of the following:

(1) A lifeboat meeting the requirements of § 149.306 of this subpart; or

(2) A liferaft meeting the requirements of § 149.308 of this subpart.

(b) Each rescue boat on a manned deepwater port must be a rescue boat meeting the requirements of § 149.314 of this subpart.

§ 149.304 What type and how many survival craft and rescue boats must a manned deepwater port have?

(a) Except as specified under § 149.305 of this subpart, each manned deepwater port must have at least the type and number of survival craft and the number of rescue boats indicated for the deepwater port in paragraphs (a)(1) through (a)(5) of this section.

(1) For a deepwater port with 30 or fewer persons on board:

(i) One or more lifeboats with a total capacity of 100 percent of the personnel on board;

(ii) One or more liferafts with a total capacity of 100 percent of the personnel on board; and

(iii) One rescue boat, except that the rescue boat is not required for deepwater ports with eight or fewer persons on board.

(2) For a deepwater port with 31 or more persons on board:

(i) At least two lifeboats with a total capacity of 100 percent of the personnel on board;

(ii) One or more liferafts with a total capacity so that, if the survival craft at any one location are rendered unusable, there will be craft remaining with a total capacity of 100 percent of the personnel on board; and

(iii) One rescue boat.

(3) Lifeboats may be substituted for liferafts.

(4) Capacity refers to the total number of persons on the deepwater port at any one time, not including temporary personnel. Temporary personnel include: contract workers, official visitors, and any other persons who are not permanent employees. See § 149.305 of this subpart for additional survival craft requirements when temporary personnel are on board.

(5) The required lifeboats may be used as rescue boats if the lifeboats also meet the requirements for rescue boats in § 149.314 of this subpart.

(b) Deepwater ports consisting of novel structures or a combination of fixed and/or floating structures may require additional survival craft as deemed necessary by the Commandant (G-P). In these cases, the type and number of survival craft must be specified in the operations manual.

§ 149.305 What are the survival craft requirements for temporary personnel?

(a) When temporary personnel are on board a manned deepwater port and the complement exceeds the capacity of the survival craft required under § 149.304 of this subpart, the port must have additional liferafts to ensure that the total capacity of the survival craft is not less than 150 percent of the personnel on board at any time.

(b) The liferafts required in paragraph (a) of this section need not meet the launching requirements of paragraph (b) to § 149.308 of this subpart, but must comply with the stowage requirements of 46 CFR 108.530(c).

§ 149.306 What are the requirements for lifeboats?

(a) Lifeboats must be:

(1) Totally enclosed, fire-protected, and approved under approval series 160.135; and

(2) If the hull or canopy is of aluminum, it must be protected in its stowage position by a water spray system meeting the requirements of 46 CFR 34.25.

(b) Each lifeboat must have at least the provisions and survival equipment required by 46 CFR 108.575(b).

(c) Except for boathooks, the equipment under paragraph (b) of this section must be securely stowed in the lifeboat.

(d) Each lifeboat must have a list of the equipment it is required to carry under paragraph (c) of this section. The list must be posted in the lifeboat.

(e) The manufacturer's instructions for maintenance and repair of the lifeboat, required under § 150.502(a) of this chapter, must be in the lifeboat or on the deepwater port.

§ 149.307 What are the requirements for free-fall lifeboats?

All free-fall lifeboats must be approved under approval series 160.135.

§ 149.308 What are the requirements for liferafts?

(a) Each liferaft must be an inflatable liferaft approved under approval series 160.151, or a rigid liferaft approved under approval series 160.118.

(b) Except as under § 149.305(b) of this subpart, each inflatable or rigid liferaft, boarded from a deck that is more than 4.5 meters (14.75 feet) above the water, must be davit-launched or served by a marine evacuation system complying with § 149.309 to this subpart.

§ 149.309 What are the requirements for marine evacuation systems?

All marine evacuation systems must be approved under approval series 160.175 and comply with the launching arrangement requirements for mobile offshore drilling units in 46 CFR 108.545.

§ 149.310 What are the muster and embarkation requirements for survival craft?

Muster and embarkation arrangements for survival craft must comply with 46 CFR 108.540.

§ 149.311 What are the launching and recovery requirements for lifeboats?

(a) Each lifeboat launched by falls must have a launching and recovery system that complies with 46 CFR 108.555.

(b) Each free-fall lifeboat must have a launching and recovery system that complies with 46 CFR 108.557.

§ 149.312 What are the launching equipment requirements for inflatable liferafts?

(a) Each inflatable liferaft not intended for davit launching must be capable of rapid deployment.

(b) Each liferaft capable of being launched by a davit must have the following launching equipment at each launching station:

(1) A launching device approved under approval series 160.163; and

(2) A mechanical disengaging apparatus approved under approval series 160.170.

(c) The launching equipment must be operable, both from within the liferaft and from the deepwater port.

(d) Winch controls must be located so that the operator can observe the liferaft launching.

(e) The launching equipment must be arranged so that a loaded liferaft does not have to be lifted before it is lowered.

(f) Not more than two liferafts may be launched from the same set of launching equipment.

§ 149.313 How must survival craft be arranged?

The operator must arrange survival craft so that they meet the requirements of 46 CFR 108.525 (a) and § 108.530 and:

(a) Are readily accessible in an emergency;

(b) Are accessible for inspection, maintenance, and testing;

(c) Are in locations clear of overboard discharge piping or openings, and obstructions below; and

(d) Are located so that survival craft with an aggregate capacity to accommodate 100% of the total number of persons authorized to be berthed are readily accessible from the personnel berthing area.

§ 149.314 What are the approval and stowage requirements for rescue boats?

(a) Rescue boats must be approved under approval series 160.156. A lifeboat is acceptable as a rescue boat if it also meets the requirements for a rescue boat under approval series 160.156.

(b) The stowage of rescue boats must comply with 46 CFR 108.565.

§ 149.315 What embarkation, launching, and recovery arrangements must rescue boats meet?

(a) Each rescue boat must be capable of being launched in a current of up to 5 knots. A painter may be used to meet this requirement.

(b) Each rescue boat embarkation and launching arrangement must permit the rescue boat to be boarded and launched in the shortest possible time.

(c) If the rescue boat is one of the deepwater port's survival craft, then the rescue boat must comply with the muster and embarkation arrangement requirements of § 149.310.

(d) The rescue boat must comply with the embarkation arrangement requirements of 46 CFR 108.555.

(e) If the launching arrangement uses a single fall, the rescue boat may have an automatic disengaging apparatus, approved under approval series 160.170, instead of a lifeboat release mechanism.

(f) The rescue boat must be capable of being recovered rapidly when loaded with its full complement of persons and equipment. If a lifeboat is being used as a rescue boat, rapid recovery must be possible when loaded with its lifeboat equipment and a rescue boat's complement of at least six persons.

(g) Each rescue boat launching appliance must be fitted with a powered winch motor.

(h) Each rescue boat launching appliance must be capable of hoisting the rescue boat, when loaded with its full complement of persons and equipment, at a rate of not less than 59 feet per minute.

(i) The operator may use an onboard crane to launch a rescue boat if the crane's launching system meets the requirements of this section.

§ 149.316 What are the requirements for lifejackets?

(a) Each lifejacket must be approved under approval series 160.002, 160.005, 160.055, 160.077, or 160.176.

(b) Each lifejacket must have a light approved under approval series 161.012. Each light must be securely attached to the front shoulder area of the lifejacket.

(c) Each lifejacket must have a whistle permanently attached by a cord.

(d) Each lifejacket must be fitted with Type I retroreflective material, approved under approval series 164.018.

§ 149.317 How and where must lifejackets be stowed?

(a) The operator must ensure that lifejackets are stowed in readily accessible places in or adjacent to accommodation spaces.

(b) Lifejacket stowage containers and the spaces housing the containers must not be capable of being locked.

(c) The operator must mark each lifejacket container or lifejacket stowage location with the word “LIFEJACKETS” in block letters, and the quantity, identity, and size of the lifejackets stowed inside the container or at the location.

§ 149.318 Must every person on the port have a lifejacket?

The operator must provide a lifejacket that complies with § 149.316 of this subpart for each person on a manned deepwater port.

§ 149.319 What additional lifejackets must I have?

For each person on duty in a location where the lifejacket required by § 149.317 of this subpart is not readily accessible, an additional lifejacket must be stowed so as to be readily accessible to that location.

§ 149.320 What are the requirements for ring life buoys?

(a) Ring life buoys must be approved under approval series 160.050 or 160.150, for SOLAS-approved equipment.

(b) Each ring life buoy must have a floating electric water light approved under approval series 161.010. The operator must ensure that the light to the ring life buoy is attached by a lanyard of 12-thread manila, or a synthetic rope of equivalent strength, not less than 3 feet nor more than 6 feet in length. The light must be mounted on a bracket near the ring life buoy so that, when the ring life buoy is cast loose, the light will be pulled free of the bracket.

(c) To each ring life buoy, there must be attached a buoyant line of 100 feet in length, with a breaking strength of at least 5 kilonewtons force. The end of the line must not be secured to the deepwater port.

(d) Each ring life buoy must be marked with Type II retroreflective material, approved under approval series 164.018.

§ 149.321 How many ring life buoys must be on each deepwater port?

There must be at least four approved ring life buoys on each manned deepwater port.

§ 149.322 Where must ring life buoys be located and how must they be stowed?

(a) The operator must locate one ring life buoy on each side of the port and one near each external stairway leading to the water. One buoy per side may be used to satisfy both these requirements.

(b) Each ring life buoy must be stowed on or in a rack that is readily accessible in an emergency. The ring life buoy must not be permanently secured in any way to the rack or the deepwater port.

§ 149.323 What are the requirements for first aid kits?

(a) Each manned deepwater port must have an industrial first aid kit, approved by an appropriate organization, such as the American Red Cross, for the maximum number of persons on the deepwater port.

(b) The first aid kit must be maintained in a space designated as a medical treatment room or, if there is no medical treatment room, under the custody of the person in charge.

(c) The operator must ensure that each first aid kit is accompanied by a copy of either the Department of Health and Human Services Publication No. (PHS) 84-2024, “The Ship's Medicine Chest and Medical Aid at Sea,” available from the Superintendent of Documents, U.S. Government Printing Office, Washington, DC 20402, or the “American Red Cross First Aid and Safety Handbook,” available from Little Brown and Company, 3 Center Plaza, Boston, MA 02018.

§ 149.324 What are the requirements for litters?

Each manned deepwater port must have at least one Stokes or other suitable litter, capable of safely hoisting an injured person. The litter must be readily accessible in an emergency.

§ 149.325 What emergency communications equipment must be on a manned deepwater port?

Each manned deepwater port must have a radio, telephone, or other means of emergency communication with the shore, vessels, and facilities in the vicinity in the event the primary communications system outlined in § 149.140 fails. This communication equipment must have an emergency power source.

§ 149.326 What are the immersion suit requirements?

Each manned deepwater port located north of 32 degrees North latitude must comply with the immersion suit requirements in 46 CFR 108.580.

§ 149.327 What are the approval requirements for work vests and anti-exposure (deck) suits?

All work vests and anti-exposure (deck) suits on a manned deepwater port must be of a buoyant type approved under:

(a) Approval series 160.053 as a work vest;

(b) Approval series 160.053 or 160.153 as an anti-exposure suit; or

(c) Approval series 160.077 as a commercial hybrid personal flotation device.

§ 149.328 How must work vests and anti-exposure (deck) suits be stowed?

All work vests and deck suits must be stowed separately from lifejackets and in a location that is not easily confused with a storage area for lifejackets.

§ 149.329 How must work vests and deck suits be marked?

All work vests and deck suits must be fitted with Type I retroreflective material, approved under approval series 164.018.

§ 149.330 When may a work vest or deck suit be substituted for a lifejacket?

(a) A work vest or deck suit meeting the requirements of § 149.326 of this subpart may be used instead of a lifejacket when personnel are working near or over water.

(b) Work vests or deck suits may not be substituted for any portion of the number of approved lifejackets required on the deepwater port or attending vessel for use during drills and emergencies.

§ 149.331 What are the requirements for hybrid personal flotation devices?

(a) The operator must ensure that the use and stowage of all commercial hybrid personal flotation devices (PFDs) used as work vests comply with the procedures required for them in 46 CFR 160.077-29, and all limitations, if any, marked on them.

(b) All commercial hybrid PFDs on the deepwater port must be of the same or similar design and must have the same method of operation.

§ 149.332 What are the requirements for inflatable lifejackets?

(a) Each inflatable lifejacket must be approved under approval series 160.176.

(b) All inflatable lifejackets on a deepwater port must:

(1) Be used and stowed according to the procedures contained in the manual required for them under 46 CFR 160.176-21;

(2) Be marked with all limitations, if any; and

(3) Be of the same or similar design and have the same method of operation.

§ 149.333 What are the marking requirements for lifesaving equipment?

(a) Each lifeboat, rigid liferaft, and survival capsule must be marked on two opposite outboard sides with the name, number, or other inscription identifying the deepwater port on which it is placed, and the number of persons permitted on the craft. Each paddle or oar for these crafts must also be marked with an inscription identifying the deepwater port. The letters and numbers must be at least 100 millimeters (3.94 inches) high on a contrasting background.

(b) Each inflatable liferaft must be marked to meet 46 CFR 160.151-33, and, after each servicing, marked to meet 46 CFR 160.151-57(m).

(c) Each lifejacket and ring life buoy must be conspicuously marked with the name, number, or other inscription identifying the deepwater port on which it is placed. The letters and numbers must be at least 1.5 inches (38 mm) high on a contrasting background. Lifejackets and ring life buoys that accompany mobile crews to unmanned deepwater ports may be marked with the operator's name and field designation.

Unmanned Deepwater Port Requirements

§ 149.334 Who must ensure compliance with the requirements for unmanned deepwater ports?

The owner or operator of an unmanned deepwater port must ensure that applicable requirements are complied with on that deepwater port.

§ 149.335 When are people prohibited from being on an unmanned deepwater port?

No person may be on an unmanned deepwater port unless all requirements of this part are met.

§ 149.336 What are the requirements for lifejackets?

(a) Except as under paragraph (b) of this section, each unmanned deepwater port must have at least one lifejacket complying with § 149.316 of this subpart for each person on the deepwater port. The lifejackets need to be available for use on the port only when persons are onboard.

(b) During helicopter visits, personnel who have aircraft type of lifejackets may use them as an alternative to the requirements of paragraph (a) of this section.

§ 149.337 What are the requirements for ring life buoys?

(a) Each unmanned deepwater port must have at least one ring life buoy complying with § 149.320 to this subpart.

(b) If there is no space on the deepwater port for the ring life buoys, they must be on a manned vessel located alongside of the deepwater port while the persons are on the port.

§ 149.338 What are the requirements for immersion suits?

(a) Each unmanned deepwater port located north of 32 degrees North latitude must comply with the immersion suit requirements applicable to mobile offshore drilling units under 46 CFR 108.580, and immersion suits must be approved under approval series 160.171. Except as under paragraph (b) of this section, the immersion suits need be on the deepwater port only when persons are on board.

(b) If an attending vessel is moored to the unmanned deepwater port, the suits may be stowed on the vessel, instead of on the deepwater port.

§ 149.339 What is the requirement for previously approved lifesaving equipment on a deepwater port?

Lifesaving equipment such as lifeboats, liferafts, and PFDs on a deepwater port on January 1, 2004, need not meet the requirements of this subpart until the equipment needs replacing, provided it is periodically tested and maintained and in good operational condition.

§ 149.340 What are the requirements for lifesaving equipment that is not required by this subchapter?

Each item of lifesaving equipment on a deepwater port that is not required by this subchapter must be approved by the Commandant (G-P).

Subpart D—Firefighting and Fire Protection Equipment

§ 149.400 What does this subpart apply to?

This subpart applies to all deepwater ports except unmanned ports consisting of a submerged turret loading or comparable configuration in which cargo transfer operations are conducted solely aboard the tank vessel by the vessel crew.

§ 149.401 What are the general requirements for firefighting and fire protection equipment?

Each deepwater port must comply with the requirements for firefighting and fire protection equipment in this subpart.

§ 149.402 What firefighting and fire protection equipment must be approved by the Coast Guard?

Except as permitted under § 149.403, § 149.415(c) or (d), § 149.419(a)(1), or § 149.420, all required firefighting and fire protection equipment on a deepwater port must be approved by the Commandant (G-PSE). Firefighting and fire protection equipment that supplements required equipment must also be approved by the Commandant (G-PSE), unless approval by the Officer in Charge of Marine Inspection (OCMI) is requested and granted pursuant to § 149.403 of this subpart.

§ 149.403 How may I request the use of alternate or supplemental firefighting and fire prevention equipment or procedures?

(a) The operator may request the use of alternate or supplemental equipment or procedures than those required in this subchapter.

(b) Upon request, the OCMI may allow the use of alternate equipment or procedures if the alternatives will:

(1) Accomplish the purposes for the requirement; and

(2) Provide a degree of safety equivalent to or greater than that provided by the requirement.

(c) The OCMI may require that the requesting party:

(1) Explain why applying the requirement would be unreasonable or impracticable; or

(2) Submit engineering calculations, tests, or other data to demonstrate how the requested alternative would comply with paragraph (b) of this section.

(d) The OCMI may determine, on a case-by-case basis, that the Commandant (G-PSE) must approve the use of the alternate equipment or procedure.

Firefighting Requirements

§ 149.404 Can I use firefighting equipment that has no Coast Guard standards?

A deepwater port may use firefighting equipment for which there is no Coast Guard standard as supplemental equipment, pursuant to § 149.403, if the equipment does not endanger the port or the persons aboard it in any way. This equipment must be listed and labeled by a nationally recognized testing laboratory, as that term is defined in 29 CFR 1910.7, and it must be maintained in good working condition.

§ 149.405 How are fire extinguishers classified?

(a) Portable and semi-portable extinguishers on a manned deepwater port must be classified using the Coast Guard's marine rating system of a combination letter-and-number symbol in which the letter indicates the type of fire that the extinguisher is designed to extinguish, and the number indicates the relative size of the extinguisher.

(b) The letter designations are as follows:

(1) “A” for fires of ordinary combustible materials where the quenching and cooling effects of water, or solutions containing large percentages of water, are of primary importance;

(2) “B” for fires of flammable liquids, greases, or other thick flammable substances where a blanketing effect is essential; and

(3) “C” for fires in electrical equipment where the use of a non-conducting extinguishing agent is of primary importance.

(c) The number designations for size range from “I” for the smallest extinguisher to “V” for the largest. Sizes I and II are portable extinguishers. Sizes III, IV, and V are semi-portable extinguishers that must be fitted with suitable hose and nozzle, or other practicable means, so that all portions of the space concerned may be covered. Examples of size graduations for some of the typical portable and semi-portable extinguishers are set forth in table 149.405.

Table 149.405.—Portable and Semi-Portable Extinguishers
Classification type-size | Foam liters (gallons) | Carbon dioxide kilograms (pounds) | Dry chemical kilograms (pounds)
A-II | 9.5 (2.5) |  | ¹ 2.25 (5)
B-II | 9.5 (2.5) | 6.7 (15) | 4.5 (10)
C-II |  | 6.7 (15) | 4.5 (10)
B-IV | 7.6 (20) | 22.5 (50) | 13.5 (30)
B-V | 15.2 (40) | ² 45 (100) | ² 22.5 (50)
Notes:
¹ Must be specifically approved as a type “A,” “B,” or “C” extinguisher.
² For outside use, double the quantity of agent that must be carried.

§ 149.406 What are the approval requirements for a fire extinguisher?

All portable and semi-portable fire extinguishers must be of an approved type under 46 CFR part 162, subparts 162.028 and 162.039, respectively.

§ 149.407 Must fire extinguishers be on the deepwater port at all times?

(a) The fire extinguishers required by § 149.409 of this subpart must be on all manned deepwater ports at all times.

(b) The fire extinguishers required by § 149.409 of this part need be on unmanned deepwater ports only when personnel are working on the deepwater port during cargo transfer operations, or performing maintenance duties.

§ 149.408 What are the maintenance requirements for fire extinguishers?

All fire extinguishers must be maintained in good working order and serviced annually in accordance with 46 CFR 107.235.

§ 149.409 How many fire extinguishers are needed?

Each particular location must have the number of fire extinguishers required by table 149.409.

Table 149.409.—Portable and Semi-Portable Extinguishers, Minimum Quantity and Location
Space | Classification | Minimum quantity and location
(a) Safety Areas:
(1) Communicating corridors | A-II | One in each main corridor or stairway not more than 150 feet apart.
(2) Radio room | C-II | One outside or near each radio room exit.
(b) Accommodation Spaces:
(1) Sleeping quarters | A-II | One in each sleeping space that fits more than four persons.
(c) Service Spaces:
(1) Galleys | B-II or CII | One for each 2,500 square feet or fraction thereof, for hazards involved.
(2) Storerooms | A-II | One for each 2,500 square feet or fraction thereof, located near each exit, either inside or outside the space.
(3) Paint room | B-II | One outside each paint room exit.
(d) Machinery Spaces:
(1) Gas-fired boilers | B-II OR C-II | Two.
(2) Gas-fired boilers | B-V | One.¹
(3) Oil-fired boilers | B-II | Two.
(4) Oil-fired boilers | B-V | Two.¹
(5) Internal combustion or gas turbine engines | B-II | One for each engine.²
(6) Open electric motors and generators | C-II | One for each of two motors or generators.³
(e) Helicopter Areas:
(1) Helicopter landing decks | B-V | One at each access route.
(2) Helicopter fueling facility | B-V | One at each fuel transfer facility.⁴
¹ Not required if a fixed system is installed.
² If the engine is installed on a weather deck or is open to the atmosphere at all times, one B-II may be used for every three engines.
³ Small electrical appliances, such as fans, are exempt.
⁴ Not required if a fixed foam system is installed in accordance with 46 CFR 108.489.

§ 149.410 Where must portable and semi-portable fire extinguishers be located?

All portable and semi-portable fire extinguishers described in table 149.409 must be located in the open so as to be readily seen.

§ 149.411 What are the requirements for firemen's outfits?

(a) Each manned deepwater port with nine or more persons must have at least two firemen's outfits complying with 46 CFR 108.497.

(b) The person in charge of safety must ensure that:

(1) At least two people trained in the use of firemen's outfits are on the deepwater port at all times;

(2) Each fireman's outfit and its spare equipment are stowed together in a readily accessible container or locker. No more than one outfit shall be stowed in the same container or locker. The two containers or lockers must be located in separate areas to ensure that at least one is available at all times in the event of a fire; and

(3) Firemen's outfits are not used for any purpose other than firefighting.

§ 149.412 How many fire axes are needed?

Each manned deepwater port must have at least two fire axes as required by 46 CFR 108.499.

§ 149.413 On a manned deepwater port, what spaces require a fixed fire extinguishing system?

The manned deepwater port spaces or systems listed in paragraphs (a) through (c) of this section must be protected by an approved fixed gaseous or other approved fixed-type extinguishing system.

(a) Paint lockers with a carrying capacity of more than 200 cubic feet, and similar spaces containing flammable liquids.

(b) Galley ranges or deep fat fryers.

(c) Each enclosed space containing internal combustion or gas turbine machinery with an aggregate power of more than 1,000 B.H.P., and any associated fuel oil units, purifiers, valves, or manifolds.

§ 149.414 What are the requirements for a fire detection and alarm system?

(a) All accommodation and service spaces on a manned deepwater port, and all spaces or systems on a manned or unmanned deepwater port for processing, storing, transferring, or regasifying liquefied natural gas, must have an automatic fire detection and alarm system that:

(1) Either complies with 46 CFR 108.405 or

(2) Is designed and installed in compliance with a national consensus standard, as that term is defined in 29 CFR 1910.2, for fire detection and fire alarm systems, and that complies with standards set by a nationally recognized testing laboratory, as that term is defined in 29 CFR 1910.7, for such systems or hardware.

(b) Sleeping quarters must be fitted with smoke detectors that have local alarms and that may or may not be connected to the central alarm panel.

(c) Each fire detection and fire alarm system must have both a visual alarm and an audible alarm at a normally manned area.

(d) Each fire detection and fire alarm system must be divided into zones to limit the area covered by a particular alarm signal.

§ 149.415 What are the requirements for a fire main system on a manned deepwater port?

(a) Each pumping platform complex must have a fixed fire main system. The system must either:

(1) Comply with 46 CFR 108.415 through 108.429 and 33 CFR 127.607 if it is a natural gas deepwater port; or

(2) Comply with a national consensus standard, as that term is defined in 29 CFR 1910.2, for such systems and hardware, and comply with the standards set by a nationally recognized testing laboratory, as that term is defined in 29 CFR 1910.7, for such systems and hardware.

(b) If the fire main system meets the requirements outlined in paragraph (a)(2) of this section, it must provide, at a minimum, protection to:

(1) Accommodation spaces;

(2) Accommodation modules;

(3) Control spaces; and

(4) Other areas frequented by port personnel.

(c) The hose system must be capable of reaching all parts of these spaces without difficulty.

(d) Under paragraph (a)(2) of this section, the fire main system may be part of a fire water system in accordance with 30 CFR 250.803.

(e) A fire main system for a natural gas deepwater port must also comply with 33 CFR 127.607.

§ 149.416 What are the requirements for a dry chemical fire suppression system?

Each natural gas deepwater port must be equipped with a dry chemical system that meets the requirements of § 127.609 of this chapter.

§ 149.417 What firefighting equipment must a helicopter landing deck on a manned deepwater port have?

Each helicopter landing deck on a manned deepwater port must have the following:

(a) A fire hydrant and hose located near each stairway to the landing deck. If the landing deck has more than two stairways, only two stairways need to have a fire hydrant and hose. The fire hydrants must be part of the fire main system; and

(b) Portable fire extinguishers in the quantity and location as required in table 149.409.

§ 149.418 What fire protection system must a helicopter fueling facility have?

In addition to the portable fire extinguishers required under table 149.409, each helicopter fueling facility must have a fire protection system complying with 46 CFR 108.489.

§ 149.419 Can the water supply for the helicopter deck fire protection system be part of a fire water system?

(a) The water supply for the helicopter deck fire protection system required under § 149.420 or § 149.421 may be part of:

(1) The fire water system, installed in accordance with Mineral Management Service regulations under 30 CFR 250.803; or

(2) The fire main system under § 149.415.

(b) If the water supply for the helicopter deck fire protection system is part of an independent accommodation fire main system, the piping design and hardware must be compatible with the system and must comply with the requirements for fire mains in 46 CFR 108.415 through 108.429.

§ 149.420 What are the fire protection requirements for escape routes?

At least one escape route from an accommodation space or module to a survival craft or other means of evacuation must provide adequate protection. Separation of the escape route from the cargo area by steel construction, in accordance with 46 CFR 108.133, or equivalent protection is considered adequate protection for personnel escaping from fires and explosions. Additional requirements for escape routes are in subpart F of this part.

§ 149.421 What is the requirement for a previously approved fire detection and alarm system on a deepwater port?

An existing fire detection and alarm system on a deepwater port need not meet the requirements in this subpart until the system needs replacing, provided it is periodically tested and maintained in good operational condition.

Subpart E—Aids to Navigation

General

§ 149.500 What does this subpart do?

This subpart provides requirements for aids to navigation on deepwater ports.

§ 149.505 What are the general requirements for aids to navigation?

The following requirements apply to navigation aids under this subpart:

(a) Section 66.01-5 of this chapter, on application to establish, maintain, discontinue, change, or transfer ownership of an aid, except as under § 149.510;

(b) Section 66.01-25(a) and (c) of this chapter, on discontinuing or removing an aid. For the purposes of § 66.01-25(a) and (c) of this chapter, navigation aids at a deepwater port are considered Class I aids under § 66.01-15 of this chapter;

(c) Section 66.01-50 of this chapter, on protection of an aid from interference and obstruction; and

(d) Section 66.01-55 of this chapter, on transfer of ownership of an aid.

§ 149.510 How do I get permission to establish an aid to navigation?

(a) To establish a navigation aid on a deepwater port, the licensee must submit an application under § 66.01-5 of this chapter, except that the application must be sent to the Commandant (G-P).

(b) At least 180 days before the installation of any structure at the site of a deepwater port, the licensee must submit an application for obstruction lights and other private navigation aids for the particular construction site.

(c) At least 180 days before beginning cargo transfer operations or changing the mooring facilities at the deepwater port, the licensee must submit an application for private aids to navigation.

Lights

§ 149.520 What kind of lights are required?

All deepwater ports must meet the general requirements for obstruction lights in part 67 of this chapter.

Lights on Platforms

§ 149.535 What are the requirements for rotating beacons on platforms?

In addition to obstruction lights, the tallest platform of a deepwater port must have a lit rotating beacon that distinguishes the deepwater port from other surrounding offshore structures. The beacon must:

(a) Have an effective intensity of at least 15,000 candela;

(b) Flash at least once every 20 seconds;

(c) Provide a white light signal;

(d) Operate in wind speeds of up to 100 knots at a rotation rate that is within 6 percent of the operating speed displayed on the beacon;

(e) Have one or more leveling indicators permanently attached to the light, each with an accuracy of ±0.25 ° or better; and

(f) Be located:

(1) At least 60 feet (about 18.3 meters) above mean high water;

(2) Where the structure of the platform, or equipment mounted on the platform, does not obstruct the light in any direction; and

(3) So that it is visible all around the horizon.

Lights on Single Point Moorings

§ 149.540 What are the requirements for obstruction lights on a single point mooring?

(a) The lights for a single point mooring must meet the requirements for obstruction lights in part 67 of this chapter, except that the lights must be located at least 10 feet (3 meters) above mean high water.

(b) A submerged turret loading (STL) deepwater port is not required to meet the requirements for obstruction lights, provided it maintains at least a five-foot (1.5 meters) clearance beneath the net under keel clearance at the mean low water condition for all vessels transiting the area.

(c) An STL deepwater port that utilizes a marker buoy must be lighted in accordance with paragraph (a) of this section.

Lights on Floating Hose Strings

§ 149.550 What are the requirements for lights on a floating hose string?

Hose strings that are floating or supported on trestles must display the following lights at night and during periods of restricted visibility:

(a) One row of yellow lights that must be:

(1) Flashing 50 to 70 times per minute;

(2) Visible all around the horizon;

(3) Visible for at least 2 miles (3.7 km) on a clear, dark night;

(4) Not less than 1 or more than 3.5 meters (3 to 11.5 feet) above the water;

(5) Approximately equally spaced;

(6) Not more than 10 meters (32.8 feet) apart where the hose string crosses a navigable channel; and

(7) Where the hose string does not cross a navigable channel, there must be a sufficient number to clearly show the hose string's length and course.

(b) Two red lights at each end of the hose string, including the ends in a channel where the hose string is separated to allow vessels to pass, whether open or closed. The lights must be:

(1) Visible all around the horizon;

(2) Visible for at least 2 miles (3.7 km) on a clear, dark night; and

(3) One meter (3 feet) apart in a vertical line with the lower light at the same height above the water as the flashing yellow light.

Lights on Buoys Used To Define Traffic Lanes

§ 149.560 How must buoys used to define traffic lanes be marked and lighted?

(a) Each buoy that is used to define the lateral boundaries of a traffic lane at a deepwater port must meet § 62.25 of this chapter.

(b) The buoy must have an omni-directional light located at least 8 feet above the water.

(c) The buoy light must be located so that the structure of the buoy, or any other device mounted on the buoy, does not obstruct the light in any direction.

§ 149.565 What are the required characteristics and intensity of lights on buoys used to define traffic lanes?

(a) The buoy's light color that defines the lateral boundaries of a traffic lane must comply with the buoy color schemes in § 62.25 of this chapter.

(b) The buoy light may be fixed or flashing. If it is flashing, it must flash at intervals of not more than 6 seconds.

(c) Buoy lights must have an effective intensity of at least 25 candela.

Miscellaneous

§ 149.570 How is a platform, single point mooring, or submerged turret loading identified?

(a) Each platform, single point mooring, or submerged turret loading (STL) that protrudes above the water or is marked by a buoy must display the name of the deepwater port and the name or number identifying the structure, so that the information is visible:

(1) From the water at all angles of approach to the structure; and

(2) From aircraft on approach to the structure if the structure is equipped with a helicopter pad.

(b) The information required in paragraph (a) of this section must be displayed in numbers and letters that are:

(1) At least 12 inches high;

(2) In vertical block style; and

(3) Displayed against a contrasting background.

(c) If an STL protrudes from the water, it must be properly illuminated in accordance with § 149.540.

§ 149.575 How must objects protruding from the water, other than platforms and single point moorings, be marked?

(a) Each object protruding from the water that is within 100 yards of a platform or single point mooring (SPM) must be marked with white reflective tape.

(b) Each object protruding from the water that is more than 100 yards from a platform or SPM must meet the obstruction lighting requirements in this subpart for a platform.

§ 149.580 What are the requirements for a radar beacon?

(a) A radar beacon (RACON) must be located on the tallest platform of a pumping platform complex or other fixed structure of the deepwater port.

(b) The RACON must be an FCC-accepted RACON or a similar type.

(c) The RACON must transmit:

(1) In both 2900-3100 MHz and 9300-9500 MHz frequency bands; or

(2) If installed before July 8, 1991, in the 9320-9500 MHz frequency band; and

(3) Transmit a signal of at least 250 milliwatts radiated power that is omni-directional and polarized in the horizontal plane;

(4) Transmit a two-element or more Morse code character, the length of which does not exceed 25 percent of the radar range expected to be used by vessels operating in the area;

(5) If of the frequency agile type, be programmed so that it will respond at least 40 percent of the time, but not more than 90 percent of the time, with a response-time duration of at least 24 seconds; and

(6) Be located at a minimum height of 15 feet above the highest deck of the platform and where the structure of the platform, or equipment mounted on the platform, does not obstruct the signal propagation in any direction.

§ 149.585 What are the requirements for sound signals?

(a) Each pumping platform complex must have a sound signal, approved under subpart 67.10 of this chapter, that has a 2-mile (3-kilometer) range. A list of Coast Guard-approved sound signals is available from any District Commander.

(b) Each sound signal must be:

(1) Located at least 10 feet, but not more than 150 feet, above mean high water; and

(2) Located where the structure of the platform, or equipment mounted on it, does not obstruct the sound of the signal in any direction.

Subpart F—Design and Equipment

General

§ 149.600 What does this subpart do?

This subpart provides general requirements for equipment and design on deepwater ports.

§ 149.610 What must the District Commander be notified of and when?

The District Commander must be notified of the following:

When— | The District Commander must be notified—
(a) Construction of a pipeline, platform, or single point mooring (SPM) is planned | At least 30 days before construction begins.
(b) Construction of a pipeline, platform, or SPM begins | Within 24 hours, from the date construction begins, that the lights and sound signals are in use at the construction site.
(c) A light or sound signal is changed during construction | Within 24 hours of the change.
(d) Lights or sound signals used during construction of a platform, buoy, or SPM are replaced by permanent fixtures to meet the requirements of this part | Within 24 hours of replacement.
(e) The first cargo transfer operation begins | At least 60 days before the operation.

§ 149.615 What construction drawings and specifications are required?

(a) To show compliance with the Act and this subchapter, the licensee must submit to the Commandant (G-P) or accepted Certifying Entity (CE) at least three copies of:

(1) Each construction drawing and specification; and

(2) Each revision to a drawing and specification.

(b) Each drawing, specification, and revision under paragraph (a) of this section must bear the seal, or a facsimile imprint of the seal, of the registered professional engineer responsible for the accuracy and adequacy of the material.

(c) Each drawing must identify the baseline design standard used as the basis for design.

§ 149.620 What happens when the Commandant (G-P) reviews and evaluates the construction drawings and specifications?

(a) The Commandant (G-P) may concurrently review and evaluate construction drawings and specifications with the Marine Safety Center and other Federal agencies having technical expertise, such as the Pipeline and Hazardous Materials Safety Administration and the Federal Energy Regulatory Commission, in order to ensure compliance with the Act and this subchapter.

(b) Construction may not begin until the drawings and specifications are approved by the Commandant (G-P).

(c) Once construction begins, the Coast Guard periodically inspects the construction site to ensure that the construction complies with the drawings and specifications approved under paragraph (b) of this section.

(d) When construction is complete, the licensee must submit two complete sets of as-built drawings and specifications to the Commandant (G-P).

§ 149.625 What are the design standards?

(a) Each component, except for those specifically addressed elsewhere in this subpart (for example, single point moorings, hoses, and aids to navigation buoys), must be designed to withstand at least the combined wind, wave, and current forces of the most severe storm that can be expected to occur at the deepwater port in any 100-year period. Component design must meet a recognized industry standard and be appropriate for the protection of human life from death or serious injury, both on the port and on vessels calling on or servicing the port, and for the protection of the environment.

(b) The applicant or licensee will be required to submit to the Commandant (G-P) a design basis for approval containing all proposed standards to be used in the fabrication and construction of port components.

(c) Heliports on floating deepwater ports must be designed in compliance with the regulations at 46 CFR part 108.

Structural Fire Protection

§ 149.640 What are the requirements for fire protection systems?

Manned deepwater ports built after January 1, 2004, and manned deepwater ports that undergo major conversions must comply with the requirements for structural fire protection outlined in this subpart.

§ 149.641 What are the structural fire protection requirements for accommodation spaces and modules?

(a) Accommodation spaces and modules must be designed, located, and constructed so as to minimize the effects of flame, excess heat, or blast effects caused by fires and explosions; and to provide safe refuge from fires and explosions for personnel for the minimum time needed to evacuate the space.

(b) This requirement may be met by complying with 46 CFR 108.131 through 108.147, provided that:

(1) The exterior boundaries of superstructures and deckhouses enclosing these spaces and modules, including any overhanging deck that supports these spaces and modules, are constructed to the A-60 standard defined in 46 CFR 108.131(b)(2) for any portion that faces and is within 100 feet of the hydrocarbon source (e.g., LNG flanges, send out line, etc.); and

(2) The ventilation system has both a means of shutting down the system and an alarm at a manned location that sounds when any hazardous or toxic substance enters the system.

(c) As an alternative to paragraph (b) of this section, the requirement imposed by this section may be met by complying with a national consensus standard, as that term is defined in 29 CFR 1910.2, for the structural fire protection of accommodation spaces and modules, and that complies with the standards set by a nationally recognized testing laboratory, as that term is defined by 29 CFR 1910.7, for such protection, provided that:

(1) All such spaces and modules on manned ports are provided with automatic fire detection and alarm systems. The alarm system must signal a normally manned area both visually and audibly, and be divided into zones to limit the area covered by a particular alarm signal;

(2) Sleeping quarters are fitted with smoke detectors that have local alarms that may or may not be connected with the central alarm panel; and

(3) Independent fire walls are constructed and installed so as to be of size and orientation sufficient to protect the exterior surfaces of the spaces or modules from extreme radiant heat flux levels, and provide the A-60 standard defined in 46 CFR 108.131(b)(2).

Single Point Moorings

§ 149.650 What are the requirements for single point moorings and their attached hoses?

Each single point mooring and its attached hose must be designed for the protection of the environment and for durability under combined wind, wave, and current forces of the most severe storm that can be expected to occur at the port in any 100-year period. The appropriateness of a design may be shown by its compliance with standards generally used within the offshore industry that are at least equivalent, in protecting the environment, to the standards in use on January 1, 2003, by any recognized classification society as defined in 46 CFR 8.100.

Helicopter Fueling Facilities

§ 149.655 What are the requirements for helicopter fueling facilities?

Helicopter fueling facilities must comply with 46 CFR 108.489 or an equivalent standard.

Emergency Power

§ 149.660 What are the requirements for emergency power?

(a) Each pumping platform complex must have emergency power equipment including power source, associated transforming equipment, and switchboard to provide power to simultaneously operate all of the following for a continuous period of 18 hours:

(1) Emergency lighting circuits;

(2) Aids to navigation equipment;

(3) Communications equipment;

(4) Radar equipment;

(5) Alarm systems;

(6) Electrically operated fire pumps; and

(7) Other electrical equipment identified as emergency equipment in the operations manual for the deepwater port.

(b) The equipment required by paragraph (a) of this section must:

(1) All be located in the same space; and

(2) Contain only machinery and equipment for the supply of emergency power (in other words, no oil or natural gas transfer pumping equipment) in accordance with 46 CFR 112.05.

General Alarm System

§ 149.665 What are the requirements for a general alarm system?

Each pumping platform complex must have a general alarm system that:

(a) Is capable of being manually activated by using alarm boxes;

(b) Is audible in all parts of the pumping platform complex, except in areas of high ambient noise levels where hearing protection is required under § 150.613 of this chapter; and

(c) Has a high intensity flashing light in areas where hearing protection is used.

§ 149.670 What are the requirements for marking a general alarm system?

Each of the following must be marked with the words “General Alarm” in yellow letters at least 1 inch high on a red background:

(a) Each general alarm box; and

(b) Each audio or visual device described under § 149.665 for signaling the general alarm.

Public Address System

§ 149.675 What are the requirements for the public address system?

(a) For a manned deepwater port, each pumping platform complex must have a public address system operable from two locations on the complex.

(b) For an unmanned deepwater port, the vessel master must provide a working public address system on a vessel while it is moored or otherwise connected to the port.

Medical Treatment Rooms

§ 149.680 What are the requirements for medical treatment rooms?

Each deepwater port with sleeping spaces for 12 or more persons, including persons in accommodation modules, must have a medical treatment room that has:

(a) A sign at the entrance designating it as a medical treatment room;

(b) An entrance that is wide enough and arranged to readily admit a person on a stretcher;

(c) A single berth or examination table that is accessible from both sides; and

(d) A washbasin located in the room.

§ 149.685 May a medical treatment room be used for other purposes?

A medical treatment room may be used as a sleeping space if the room meets the requirements of this subpart for both medical treatment rooms and sleeping spaces. It may also be used as an office. However, when used for medical purposes, the room may not be used as a sleeping space or office.

Miscellaneous

§ 149.690 What are the requirements for means of escape, personnel landings, guardrails, similar devices, and for noise limits?

Each deepwater port must comply with the requirements for means of escape, personnel landings, guardrails and similar devices, and noise limits as outlined in §§ 149.691 through 149.699.

Means of Escape

§ 149.691 What means of escape are required?

(a) Each deepwater port must have both primary and secondary means of escape. Each of these means must either:

(1) Comply with 46 CFR 108.151; or

(2) Be designed and installed in compliance with a national consensus standard, as that term is defined in 29 CFR 1910.2, for use in evacuating the port.

(b) A primary means of escape consists of a fixed stairway or a fixed ladder, constructed of steel.

(c) A secondary means of escape consists of either:

(1) A fixed stairway or a fixed ladder, constructed of steel; or

(2) A marine evacuation system, a portable flexible ladder, a knotted manrope, or a similar device determined by the Officer in Charge of Marine Inspection (OCMI) to provide an equivalent or better means of escape.

§ 149.692 Where must they be located?

(a) Each means of escape must be easily accessible to personnel for rapidly evacuating the deepwater port.

(b) When two or more means of escape are installed, at least two must be located as nearly diagonally opposite each other as practicable.

(c) When the floor area of any of the following spaces contains 300 square feet or more, the space must have at least two exits as widely separated from each other as possible:

(1) Each accommodation space; and

(2) Each space that is used on a regular basis, such as a control room, machinery room, storeroom, or other space where personnel could be trapped in an emergency.

(d) On a manned deepwater port, each structural appendage that is not occupied continuously, and that does not contain living quarters, workshops, offices, or other manned spaces must have at least one primary means of escape. The OCMI may also determine that one or more secondary means of escape is required.

(e) When personnel are on an unmanned deepwater port, the port must have, in addition to the one primary means of escape, either:

(1) Another primary means of escape; or

(2) One or more secondary means of escape in any work space that may be temporarily occupied by 10 persons or more.

(f) Structural appendages to an unmanned deepwater port do not require a primary or a secondary means of escape, unless the OCMI determines that one or more are necessary.

(g) Each means of escape must extend from the deepwater port's uppermost working level to each successively lower working level, and so on to the water surface.

Personnel Landings

§ 149.693 What are the requirements for personnel landings on manned deepwater ports?

(a) On manned deepwater ports, sufficient personnel landings must be provided to assure safe access and egress.

(b) The personnel landings must be provided with satisfactory illumination. The minimum is 1 foot candle of artificial illumination as measured at the landing floor and guards and rails.

Guardrails and Similar Devices

§ 149.694 What are the requirements for catwalks, floors, and openings?

(a) The configuration and installation of catwalks, floors, and openings must comply with § 143.110 of this chapter.

(b) This section does not apply to catwalks, floors, deck areas, or openings in areas not normally occupied by personnel or on helicopter landing decks.

§ 149.695 What are the requirements for stairways?

Stairways must have at least two courses of rails. The top course must serve as a handrail and be at least 34 inches above the tread.

§ 149.696 What are the requirements for a helicopter landing deck safety net?

A helicopter landing deck safety net must comply with 46 CFR 108.235.

Noise Limits

§ 149.697 What are the requirements for a noise level survey?

(a) A survey to determine the maximum noise level during normal operations must be conducted in each accommodation space, working space, or other space routinely used by personnel. The recognized methodology used to conduct the survey must be specified in the survey results. Survey results must be kept on the deepwater port or, for an unmanned deepwater port, in the owner's principal office.

(b) The noise level must be measured over 12 hours to derive a time weighted average (TWA) using a sound level meter and an A-weighted filter or equivalent device.

(c) If the noise level throughout a space is determined to exceed 85 db(A), based on the measurement criteria in paragraph (b) of this section, then signs must be posted with the legend: “Noise Hazard—Hearing Protectors Required.” Signs must be posted at eye level at each entrance to the space.

(d) If the noise level exceeds 85 db(A) only in a portion of a space, then the sign described in paragraph (c) of this section must be posted within that portion where visible from each direction of access.

(e) Working spaces and other areas routinely used by personnel, other than accommodation spaces, must be designed to limit the noise level in those areas so that personnel wearing hearing protectors may hear warning and emergency alarms. If this is not practicable and warning and emergency alarms cannot be heard, visual alarms in addition to the audible alarms must be installed.

Portable Lights

§ 149.700 What kind of portable lights may be used on a deepwater port?

Each portable light and its supply cord on a deepwater port must be designed for the environment where it is used.

PART 150—DEEPWATER PORTS: OPERATIONS

Subpart A—General

Sec.

150.1 What does this part do?

150.5 Definitions.

150.10 What are the general requirements for operations manuals?

150.15 What must the operations manual include?

150.20 How many copies of the operations manual must be given to the Coast Guard?

150.25 Amending the operations manual.

150.30 Proposing an amendment to the operations manual.

150.35 How may an adjacent coastal State request an amendment to the operations manual?

150.40 Deviating from the operations manual.

150.45 Emergency deviation from this subchapter or the operations manual.

150.50 What are the requirements for a facility spill response plan?

Subpart B—Inspections

150.100 What are the requirements for inspecting deepwater ports?

150.105 What are the requirements for annual self-inspection?

150.110 What are the notification requirements upon receipt of classification society certifications?

Subpart C—Personnel

150.200 Who must ensure that port personnel are qualified?

150.205 What are the language requirements for port personnel?

150.210 What are the restrictions on serving in more than one position?

150.225 What training and instruction are required?

Subpart D—Vessel Navigation

150.300 What does this subpart do?

150.305 How does this subpart apply to unmanned deepwater ports?

150.310 When is radar surveillance required?

150.320 What advisories are given to tankers?

150.325 What is the first notice required before a tanker enters the safety zone or area to be avoided?

150.330 What is the second notice required before a tanker enters the safety zone or area to be avoided?

150.340 What are the rules of navigation for tankers in the safety zone or area to be avoided?

150.345 How are support vessels cleared to move within the safety zone or area to be avoided?

150.350 What are the rules of navigation for support vessels in the safety zone or area to be avoided?

150.355 How are other vessels cleared to move within the safety zone?

150.380 Under what circumstances may vessels operate within the safety zone or area to be avoided?

150.385 What is required in an emergency?

Subpart E—Cargo Transfer Operations

150.400 What does this subpart do?

150.405 How must a Cargo Transfer System be tested and inspected?

150.420 What actions must be taken when cargo transfer equipment is defective?

150.425 What are the requirements for transferring cargo?

150.430 What are the requirements for a declaration of inspection?

150.435 When are cargo transfers not allowed?

150.440 How may the Captain of the Port order suspension of cargo transfers?

150.445 When is oil in a Single Point Mooring-Oil Transfer System displaced with water?

Subpart F—Emergency and Specialty Equipment

150.500 What does this subpart do?

Maintenance and Repair

150.501 How must emergency equipment be maintained and repaired?

Lifesaving Equipment (General)

150.502 What are the maintenance and repair requirements for lifesaving equipment?

Launching Appliances

150.503 What are the time interval requirements for maintenance on survival craft falls?

150.504 When must the operator service and examine lifeboat and rescue boat launching appliances?

150.505 When must the operator service and examine lifeboat and rescue boat release gear?

Inflatable Lifesaving Appliances

150.506 When must the operator service inflatable lifesaving appliances and marine evacuation systems?

150.507 How must the operator service inflatable lifesaving appliances?

150.508 What are the maintenance and repair requirements for inflatable rescue boats?

Operational Tests and Inspections (General)

150.509 How must emergency equipment be tested and inspected?

150.510 How must tested emergency equipment be operated?

150.511 What are the operational testing requirements for lifeboat and rescue boat release gear?

Frequency of Tests and Inspections

150.512 What occurs during the weekly tests and inspections?

150.513 What occurs during the monthly tests and inspections?

150.514 What are the annual tests and inspections?

Weight Testing

150.515 What are the requirements for weight testing of newly installed or relocated craft?

150.516 What are the periodic requirements for weight testing?

150.517 How are weight tests supervised?

Personal Safety Gear

150.518 What are the inspection requirements for work vests and immersion suits?

Emergency Lighting and Power Systems

150.519 What are the requirements for emergency lighting and power systems?

Fire Extinguishing Equipment

150.520 When must fire extinguishing equipment be tested and inspected?

150.521 What records are required?

Miscellaneous Operations

150.530 What may the fire main system be used for?

150.531 How many fire pumps must be kept ready for use at all times?

150.532 What are the requirements for connection and stowage of fire hoses?

150.540 What are the restrictions on fueling aircraft?

150.550 What are the requirements for the muster list?

150.555 How must cranes be maintained?

Subpart G—Workplace Safety and Health

150.600 What does this subpart do?

Safety and Health (General)

150.601 What are the safety and health requirements for the workplace on a deepwater port?

150.602 What occupational awareness training is required?

150.603 What emergency response training is required?

150.604 Who controls access to medical monitoring and exposure records?

150.605 What are the procedures for reporting a possible workplace safety or health violation at a deepwater port?

150.606 After learning of a possible violation, what does the Officer in Charge of Marine Inspection do?

General Workplace Conditions

150.607 What are the general safe working requirements?

Personal Protective Equipment

150.608 Who is responsible for ensuring that the personnel use or wear protective equipment and are trained in its use?

Eyes and Face

150.609 When is eye and face protection required?

150.610 Where must eyewash equipment be located?

Head

150.611 What head protection is required?

Feet

150.612 What footwear is required?

Noise and Hearing Protection

150.613 What are the requirements for a noise monitoring and hearing protection survey?

Clothing

150.614 When is protective clothing required?

Electrical

150.615 What safe practices are required?

Lockout/Tagout

150.616 What are the requirements for lockout?

150.617 What are the requirements for tagout?

Respiratory Protection

150.618 What are the requirements for respiratory protection?

Fall Arrest

150.619 What are the fall arrest system requirements?

Machine Guards

150.620 What are the requirements for protecting personnel from machinery?

Slings

150.621 What are the requirements for slings?

Warning Signs

150.622 What are the warning sign requirements?

Confined Space Safety

150.623 What are the requirements for protecting personnel from hazards associated with confined spaces?

Blood-Borne Pathogens

150.624 What are the requirements for protecting personnel from blood-borne pathogens?

Hazard Communication Program

150.625 What must the hazard communication program contain?

150.626 What is the hazard communication program used for?

150.627 Must material safety data sheets be available to all personnel?

150.628 How must the operator label, tag, and mark a container of hazardous material?

Subpart H—Aids to Navigation

150.700 What does this subpart do?

150.705 What are the requirements for maintaining and inspecting aids to navigation?

150.710 What are the requirements for supplying power to aids to navigation?

150.715 What are the requirements for lights used as aids to navigation?

150.720 What are the requirements for sound signals?

Subpart I—Reports and Records

150.800 What does this subpart do?

Reports

150.805 What reports must be sent both to a classification society and to the Coast Guard?

150.810 Reporting a problem with an aid to navigation.

150.812 What is the purpose of reporting casualties on deepwater ports?

150.815 How must casualties be reported?

150.820 When must a written report of casualty be submitted, and what must it contain?

150.825 Reporting a diving-related casualty.

150.830 Reporting a pollution incident.

150.835 Reporting sabotage or subversive activity.

Records

150.840 What records must be kept?

150.845 Personnel records.

150.850 How long must a declaration of inspection form be kept?

Subpart J—Safety Zones, No Anchoring Areas, and Areas to Be Avoided

150.900 What does this subpart do?

150.905 Why are safety zones, no anchoring areas, and areas to be avoided established?

150.910 What installations, structures, or activities are prohibited in a safety zone?

150.915 How are safety zones, no anchoring areas, and areas to be avoided established and modified?

150.920 How can I find notice of new or proposed safety zones?

150.925 How long may a safety zone, no anchoring area, or area to be avoided remain in place?

150.930 What datum is used for the geographic coordinates in this subpart?

150.940 Safety zones for specific deepwater ports.

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

Subpart A—General

§ 150.1 What does this part do?

This part provides requirements for the operation of deepwater ports.

§ 150.5 Definitions.

See § 148.5 of this chapter for the definition of certain terms used in this part.

§ 150.10 What are the general requirements for operations manuals?

(a) Each deepwater port must have an operations manual that addresses policies and procedures for normal and emergency operations conducted at the port. The operations manual must, at a minimum, include the requirements outlined in § 150.15.

(b) The operations manual is reviewed and approved by the Commandant (G-P), who may consult with the local Officer in Charge of Marine Inspection (OCMI), as meeting the requirements of the Act and this subchapter. The original manual is approved as part of the application process in part 148 of this chapter.

(c) The OCMI may approve subsequent changes to the operations manual, provided the Commandant (G-P) is notified and consulted regarding any significant modifications.

(d) The manual must be readily available on the deepwater port for use by personnel.

(e) The licensee must ensure that all personnel are trained and follow the procedures in the manual while at the deepwater port.

§ 150.15 What must the operations manual include?

The operations manual required by § 150.10 must identify the deepwater port and include the information required in this section.

(a) General information. A description of the geographic location of the deepwater port.

(b) A physical description of the port.

(c) Engineering and construction information, including all defined codes and standards used for the port structure and systems. The operator must include schematics of all applicable systems. Schematics must show the location of valves, gauges, system working pressure, relief settings, monitoring systems, and other pertinent information.

(d) Communications system. A description of a comprehensive communications plan, including:

(1) Dedicated frequencies;

(2) Communication alerts and notices between the deepwater port and arriving and departing vessels; and

(3) Mandatory time intervals or communication schedules for maintaining a live radio watch, and monitoring frequencies for communication with vessels and aircraft.

(e) Facility plan. A layout plan for the mooring areas, navigation aids, cargo transfer locations, and control stations.

(f) The hours of operation.

(g) The size, type, number, and simultaneous operations of tankers that the port can handle.

(h) Calculations, with supporting data or other documentation, to show that the charted water depth at each proposed mooring location is sufficient to provide at least a net under keel clearance of 5 feet, at the mean low water condition.

(i) Tanker navigation procedures. The procedures for tanker navigation, including the information required in paragraphs (i)(1) through (i)(9) of this section.

(1) The operating limits, maneuvering capability, draft, net under keel clearance, tonnage, length, and breadth of the tanker that will be accommodated at each designated mooring.

(2) The speed limits proposed for tankers in the safety zone and area to be avoided around the port.

(3) Any special navigation or communication equipment that may be required for operating in the safety zone and area to be avoided.

(4) The measures for routing vessels, including a description of the radar navigation system to be used in operation of the deepwater port:

(i) Type of radar;

(ii) Characteristics of the radar;

(iii) Antenna location;

(iv) Procedures for surveillance of vessels approaching, departing, navigating, and transiting the safety zone and area to be avoided;

(v) Advisories to each tanker underway in the safety zone regarding the vessel's position, port conditions, and status of adjacent vessel traffic;

(vi) Notices that must be made, as outlined in § 150.325, by the tanker master regarding the vessel's characteristics and status; and

(vii) Rules for navigating, mooring, and anchoring in a safety zone, area to be avoided, and anchorage area.

(5) Any mooring equipment needed to make up to the single point mooring (SPM).

(6) The procedures for clearing tankers, support vessels, and other vessels and aircraft during emergency and routine conditions.

(7) Weather limits for tankers, including a detailed description of how to forecast the wind, wave, and current conditions for:

(i) Shutdown of cargo transfer operations;

(ii) Departure of the tanker from the mooring;

(iii) Prohibition on mooring at the deep water port or SPM; and

(iv) Shutdown of all port operations and evacuation of the port.

(8) Any special illumination requirements for vessel arrival, discharge, and departure operations.

(9) Any special watchstanding requirements for vessel transiting, mooring, or anchoring.

(j) Personnel. The duties, title, qualifications, and training of all port personnel responsible for managing and carrying out the following port activities and functions:

(1) Vessel traffic management;

(2) Cargo transfer operations;

(3) Safety and fire protection;

(4) Maintenance and repair operations;

(5) Emergency procedures; and

(6) Port security.

(k) The personnel assigned to supervisory positions must be designated, in writing, by the licensee and have the appropriate experience and training to satisfactorily perform their duties. The Commandant (G-P) will review and approve the qualifications for all proposed supervisory positions.

(l) Cargo transfer procedures. The procedures for cargo transfer must comply with the applicable requirements of parts 154 and 156 for oil, and subpart B (Operations) to part 127 for natural gas, respectively, of this chapter, including the requirements specified in paragraphs (l)(1) through (l)(10) of this section.

(1) The requirements for oil transfers in accordance with subpart A to part 156 of this chapter regarding:

(i) Pre-transfer conference;

(ii) Inspection of transfer site and equipment such as hoses, connectors, closure devices, monitoring devices, and containment;

(iii) Connecting and disconnecting transfer equipment, including a floating hose string for a single point mooring (SPM);

(iv) Preparation of the Declaration of Inspection; and

(v) Supervision by a person in charge.

(2) The requirements for natural gas transfers in accordance with subpart B to part 127 of this chapter regarding:

(i) Pre-transfer conference;

(ii) Inspection of transfer site and equipment such as hoses, connectors, closure devices, leak monitoring devices, and containment;

(iii) Connecting and disconnecting of transfer equipment, including to a floating hose string for a SPM;

(iv) Line purging to test for leaks and to prepare for cool-down or heat-up phases as appropriate;

(v) Preparation of the Declaration of Inspection; and

(vi) Supervision by a port person in charge.

(3) The shipping name of, and Material Safety Data Sheet on, any product transferred.

(4) The duties, title, qualifications, and training of personnel of the port designated as the person in charge and responsible for managing cargo transfers, including ballasting operations if applicable to the port, in accordance with subpart D of part 154 for oil, and subpart B (Operations) of part 127 for natural gas, respectively, of this chapter.

(5) Minimum requirements for watch personnel on board the vessel during transfer operations, such as personnel necessary for checking mooring gear, monitoring communications, and maintaining propulsion and steering on standby.

(6) The start up and completion of pumping.

(7) Emergency shutdown.

(8) The maximum relief valve settings, the maximum available working pressure, and hydraulic shock to the system without relief valves, or both.

(9) Equipment necessary to discharge cargo to the port complex without harm to the environment or to persons involved in the cargo transfer, including piping, adapters, bolted flanges, and quick-disconnect coupling.

(10) A description of the method used to water and de-water the single point mooring hoses when required.

(m) Unusual arrangements that may be applicable, including:

(1) A list and description of any extraordinary equipment or assistance available to vessels with inadequate pumping capacity, small cargoes, small diameter piping, or inadequate crane capacity; and

(2) A description of special storage or delivery arrangements for unusual cargoes; for example, cool-down requirements for transfer system components prior to transfer of liquefied natural gas.

(n) Maintenance procedures. A maintenance program to document service and repair of key equipment such as:

(1) Cargo transfer equipment;

(2) Firefighting and fire protection equipment;

(3) Facility support services, such as generators, evaporators, etc.;

(4) Safety equipment; and

(5) Cranes.

(o) A waste management plan comparable to § 151.57.

(p) Occupational health and safety training procedures. Policy and procedures to address occupational health and safety requirements outlined in §§ 150.600 to 150.632 of this subpart, including:

(1) Employee training in safety and hazard awareness, and proper use of personnel protective equipment;

(2) Physical safety measures in the workplace, such as housekeeping and illumination of walking and working areas;

(3) Fall arrest;

(4) Personnel transfer nets;

(5) Hazard communication (right-to-know);

(6) Permissible exposure limits;

(7) Machine guarding;

(8) Electrical safety;

(9) Lockout/tagout;

(10) Crane safety;

(11) Sling usage;

(12) Hearing conservation;

(13) Hot work;

(14) Warning signs;

(15) Confined space safety; and

(16) Initial and periodic training and certification to be documented for each port employee and for visitors, where appropriate; for example, safety orientation training.

(q) Emergency notification procedures. Emergency internal and external notification procedures:

(1) Names and numbers of key port personnel;

(2) Names and numbers of law enforcement and response agencies;

(3) Names and numbers of persons in charge of any OCS facility that, due to close proximity, could be affected by an incident at the deepwater port.

(r) Quantity, type, location, and use of safety and fire protection equipment, including the fire plan.

(s) Aerial operations such as helicopter landing pad procedures.

(t) Port response procedures for:

(1) Fire;

(2) Reportable product spill;

(3) Personnel injury, including confined space rescue; and

(4) Terrorist activity, as described in the port security plan.

(u) Emergency evacuation procedures comparable to § 146.140(d) of this chapter.

(v) Designation of and assignment of port personnel to response teams for specific contingencies.

(w) Individual and team training for incident response, in accordance with 46 CFR 109.213, to cover:

(1) Care and use of equipment;

(2) Emergency drills and response, to include:

(i) Type;

(ii) Frequency, which must be at least annually; and

(iii) Documentation, including records, reports and dissemination of “lessons learned”.

(3) Documentation of the following minimum training requirements for response team members:

(i) Marine firefighting training;

(ii) First aid/CPR;

(iii) Water survival;

(iv) Spill response and clean up;

(v) Identification of at least one employee trained and certified at the basic level as an emergency medical technician; and

(vi) Identification of at least two employees trained and certified as offshore competent persons in prevention of inadvertent entry into hazardous confined spaces.

(x) Security procedures. Deepwater port operators must develop a deepwater port security plan comparable to those required by 33 CFR part 106. The plan must address at least:

(1) Access controls for goods and materials and access controls for personnel that require positive and verifiable identification;

(2) Monitoring and alerting of vessels that approach or enter the port's security zone;

(3) Risk identification and procedures for detecting and deterring terrorist or subversive activity, such as security lighting and remotely-alarmed restricted areas;

(4) Internal and external notification and response requirements in the event of a perceived threat or an attack on the port;

(5) Designation of the port security officer;

(6) Required security training and drills for all personnel; and

(7) The scalability of actions and procedures for the various levels of threat.

(y) Special operations procedures. Include procedures for any special operations, such as:

(1) Evacuation and re-manning;

(2) Refueling;

(3) Diving;

(4) Support vessel operations;

(5) Providing logistical services; and

(6) Contingency response for events that could affect nearby existing OCS oil and gas facilities, such as explosions, fires, or product spills.

(z) Recordkeeping of maintenance procedures, tests, and emergency drills outlined elsewhere in the operations manual.

(aa) Environmental procedures. A program for maintaining compliance with license conditions and applicable environmental laws, by periodic monitoring of the environmental effects of the port and its operations, including:

(1) Air and water monitoring in accordance with applicable Federal and State law;

(2) A routine re-examination, not less than once every five years, of the physical, chemical, and biological factors contained in the port's environmental impact analysis and baseline study submitted with the license application; and

(3) A risk management plan, addressing the potential for an uncontrolled release; or provision for more detailed studies following any uncontrolled release or other unusual event that adversely affects the environment.

§ 150.20 How many copies of the operations manual must be given to the Coast Guard?

The draft operations manual must be included with the application, and the number of copies is governed by § 148.115. At least five copies of the final operations manual, and of any subsequent amendment, must be submitted to the Commandant (G-P). Additional copies may be required to meet the needs of other agencies.

§ 150.25 Amending the operations manual.

(a) Whenever the cognizant Captain of the Port (COTP) finds that the operations manual does not meet the requirements of this part, the COTP notifies the licensee, in writing, of the inadequacies in the manual.

(b) Within 45 days after the notice under paragraph (a) of this section is sent, the licensee must submit written proposed amendments to eliminate the inadequacies.

(c) The cognizant COTP reviews the amendments and makes a determination as to the adequacy of the amendments and notifies the licensee of the determination.

(d) If the COTP decides that an amendment is necessary, the amendment goes into effect 60 days after the COTP notifies the licensee of the amendment.

(e) The licensee may petition the Commandant (G-P), via the appropriate district office, to review the decision of the COTP. In this case, the effective date of the amendment is delayed pending the Commandant's decision. Petitions must be made in writing and presented to the COTP to forward to the Commandant (G-P).

(f) If the COTP finds that a particular situation requires immediate action to prevent a spill or discharge, or to protect the safety of life and property, the COTP may issue an amendment effective on the date that the licensee receives it. The COTP must include a brief statement of the reasons for the immediate amendment. The licensee may petition the District Commander for review, but the petition does not delay the effective date of the amendment.

§ 150.30 Proposing an amendment to the operations manual.

(a) The licensee may propose an amendment to the operations manual:

(1) By submitting, in writing, the amendment and reasons for the amendments to the Captain of the Port (COTP) not less than 30 days before the requested effective date of the amendment; or

(2) If the amendment is needed immediately, by submitting the amendment, and reasons why the amendment is needed immediately, to the COTP in writing.

(b) The COTP must respond to a proposed amendment by notifying the licensee, in writing, before the requested date of the amendment whether the request is approved. If the request is disapproved, the COTP must include the reasons for disapproval in the notice. If the request is for an immediate amendment, the COTP must respond as soon as possible.

§ 150.35 How may an adjacent coastal State request an amendment to the operations manual?

(a) An adjacent coastal State connected by pipeline to the deepwater port may petition the cognizant Captain of the Port (COTP) to amend the operations manual. The petition must include sufficient information to allow the COTP to reach a decision concerning the proposed amendment.

(b) After the COTP receives a petition, the COTP requests comments from the licensee.

(c) After reviewing the petition and comments, and considering the costs and benefits involved, the COTP may approve the petition if the proposed amendment will provide equivalent or improved protection and safety. The adjacent coastal State may petition the Commandant (G-P) to review the decision of the COTP. Petitions must be made in writing and presented to the COTP for forwarding to the Commandant (G-P) via the District Commander.

§ 150.40 Deviating from the operations manual.

If, because of a particular situation, the licensee needs to deviate from the operations manual, the licensee must submit a written request to the Captain of the Port (COTP) explaining why the deviation is necessary and what alternative is proposed. If the COTP determines that the deviation would ensure equivalent or greater protection and safety, the COTP authorizes the deviation and notifies the licensee in writing.

§ 150.45 Emergency deviation from this subchapter or the operations manual.

In an emergency, any person may deviate from any requirement in this subchapter, or any procedure in the operations manual, to ensure the safety of life, property, or the environment. Each deviation must be reported to the Captain of the Port at the earliest possible time.

§ 150.50 What are the requirements for a facility spill response plan?

(a) Each deepwater port which meets the applicability requirements of part 154 subpart F of this chapter must have a facility response plan that is approved by the Captain of the Port (COTP).

(b) Each natural gas deepwater port must have a natural gas facility emergency plan that meets part 127, subpart B of this chapter.

(c) The response plan must be submitted to the COTP, in writing, not less than 60 days before the deepwater port begins operation.

Subpart B—Inspections

§ 150.100 What are the requirements for inspecting deepwater ports?

Under the direction of the Officer in Charge of Marine Inspection (OCMI), marine inspectors may inspect deepwater ports to determine whether the requirements of this subchapter are met. A marine inspector may conduct an inspection, with or without advance notice, at any time the OCMI deems necessary.

§ 150.105 What are the requirements for annual self-inspection?

(a) The owner or operator of each manned deepwater port must ensure that the port is regularly inspected to determine whether the facility is in compliance with the requirements of this subchapter. The inspection must be at intervals of no more than 12 months. The inspection may be conducted up to 2 months after its due date, but will be valid for only the 12 months following that due date.

(b) The owner or operator must record and submit the results of the annual self-inspection to the Captain of the Port (COTP) within 30 days of completing the inspection. The report must include a description of any failure, and the scope of repairs made to components or equipment, in accordance with the requirements in subpart I of this part, other than primary lifesaving, firefighting, or transfer equipment, which are inspected and repaired in accordance with subpart F.

(c) Prior to the initiation of a self-inspection plan, and before commencement of operations, the owner or operator must submit a proposal describing the self-inspection plan to the COTP for acceptance. The plan must address all applicable requirements outlined in parts 149 and 150 of this subchapter.

§ 150.110 What are the notification requirements upon receipt of classification society certifications?

The licensee must notify the Captain of the Port, in writing, upon receipt of a classification society certification, interim class certificate, or single point mooring classification certificate.

Subpart C—Personnel

§ 150.200 Who must ensure that port personnel are qualified?

The licensee must ensure that the individual filling a position meets the qualifications for that position as outlined in the operations manual.

§ 150.205 What are the language requirements for port personnel?

Only persons who read, write, and speak English may occupy the essential management positions outlined in the operations manual.

§ 150.210 What are the restrictions on serving in more than one position?

No person may serve in more than one of the essential management positions outlined in the operations manual at any one time.

§ 150.225 What training and instruction are required?

Personnel must receive training and instruction commensurate with the position they hold. Procedures for documenting employee training must be outlined in the operations manual.

Subpart D—Vessel Navigation

§ 150.300 What does this subpart do?

This subpart supplements the International Regulations for Prevention of Collisions at Sea, 1972 (72 COLREGS) described in subchapter D of this chapter, and prescribes requirements that:

(a) Apply to the navigation of all vessels at or near a deepwater port; and

(b) Apply to all vessels while in a safety zone, area to be avoided, or no anchoring area.

§ 150.305 How does this subpart apply to unmanned deepwater ports?

The master of any tanker calling at an unmanned deepwater port is responsible for the safe navigation of the vessel to and from the port, and for the required notifications in § 150.325. Once the tanker is connected to the unmanned deepwater port, the master must maintain radar surveillance in compliance with the requirements of § 150.310.

§ 150.310 When is radar surveillance required?

A manned deepwater port's person in charge of vessel operations must maintain radar surveillance of the safety zone or area to be avoided when:

(a) A tanker is proceeding to the safety zone after submitting the report required in § 150.325;

(b) A tanker or support vessel is underway in the safety zone or area to be avoided;

(c) A vessel other than a tanker or support vessel is about to enter or is underway in the safety zone or area to be avoided; or

(d) As described in the port security plan.

§ 150.320 What advisories are given to tankers?

A manned deepwater port's person in charge of vessel operations must advise the master of each tanker underway in the safety zone or area to be avoided of the following:

(a) At intervals not exceeding 10 minutes, the vessel's position by range and bearing from the pumping platform complex; and

(b) The position and the estimated course and speed, if moving, of all other vessels that may interfere with the movement of the tanker within the safety zone or area to be avoided.

§ 150.325 What is the first notice required before a tanker enters the safety zone or area to be avoided?

(a) The owner, master, agent, or person in charge of a tanker bound for a manned deepwater port must comply with the notice of arrival requirements in subpart C of part 160 of this chapter.

(b) The owner, master, agent, or person in charge of a tanker bound for a manned deepwater port must report the pertinent information required in § 150.15(i)(4)(vi) for the vessel, including:

(1) The name, gross tonnage, and draft of the tanker;

(2) The type and amount of cargo in the tanker;

(3) The location of the tanker at the time of the report;

(4) Any conditions on the tanker that may impair its navigation, such as fire, or malfunctioning propulsion, steering, navigational, or radiotelephone equipment. The testing requirements in § 164.25 of this chapter are applicable to vessels arriving at a deepwater port;

(5) Any leaks, structural damage, or machinery malfunctions that may impair cargo transfer operations or cause a product discharge; and

(6) The operational condition of the equipment listed under § 164.35 of this chapter on the tanker.

(c) If the estimated time of arrival changes by more than 6 hours from the last reported time, the National Vessel Movement Center (NVMC) and the port's person in charge of vessel operations must be notified of the correction as soon as the change is known.

(d) If the information reported in paragraphs (b)(4) or (b)(5) of this section changes at any time before the tanker enters the safety zone or area to be avoided at the deepwater port, or while the tanker is in the safety zone or area to be avoided, the master of the tanker must report the changes to the NVMC and port's person in charge of vessel operations as soon as possible.

§ 150.330 What is the second notice required before a tanker enters the safety zone or area to be avoided?

When a tanker bound for a manned deepwater port is 20 miles from entering the port's safety zone or area to be avoided, the master of the tanker must notify the port's person in charge of vessel operations of the tanker's name and location.

§ 150.340 What are the rules of navigation for tankers in the safety zone or area to be avoided?

(a) A tanker must enter or depart the port's safety zone or area to be avoided in accordance with the navigation procedures in the port's approved operations manual as described in § 150.15(i).

(b) A tanker must not anchor in the safety zone or area to be avoided, except in a designated anchorage area.

(c) A tanker may not enter a safety zone or area to be avoided in which another tanker is present, unless it has been cleared by the person in charge of the port and no other tankers are underway.

(d) A tanker must not operate, anchor, or moor in any area of the safety zone or area to be avoided in which the net under keel clearance would be less than 5 feet.

§ 150.345 How are support vessels cleared to move within the safety zone or area to be avoided?

All movements of support vessels within a manned deepwater port's safety zone or area to be avoided must be cleared in advance by the port's person in charge of vessel operations.

§ 150.350 What are the rules of navigation for support vessels in the safety zone or area to be avoided?

A support vessel must not anchor in the safety zone or area to be avoided, except:

(a) In an anchorage area; or

(b) For vessel maintenance, which, in the case of a manned deepwater port, must be cleared by the port's person in charge of vessel operations.

§ 150.355 How are other vessels cleared to move within the safety zone?

(a) Clearance by a manned deepwater port's person in charge of vessel operations is required before a vessel, other than a tanker or support vessel, enters the safety zone.

(b) The port's person in charge of vessel operations may clear a vessel under paragraph (a) of this section only if its entry into the safety zone would not:

(1) Interfere with the purpose of the deepwater port;

(2) Endanger the safety of life, property, or environment; or

(3) Be prohibited by regulation.

(c) At an unmanned deepwater port, such as a submerged turret landing (STL) system, paragraphs (a) and (b) of this section apply once a tanker connects to the STL buoy.

§ 150.380 Under what circumstances may vessels operate within the safety zone or area to be avoided?

(a) Table 150.380(a) of this section lists both the areas within a safety zone where a vessel may operate and the clearance needed for that location.

Table 150.380(a).—Regulated Activities of Vessels at Deepwater Ports
Regulated activities | Safety zone | Areas to be avoided around each deepwater port component ¹ | Anchorage areas | Other areas within and adjacent to the safety zone (e.g., no anchoring area)
Tankers calling at port | C | C | C | C
Support vessel movements | C | C | C | C
Transit by vessels other than tankers or support vessels | F | D | P | P
Mooring to surface components (for example an SPM) by vessels other than tankers or support vessels | N | N | N | N
Anchoring by vessels other than tankers or support vessels | N | F | C | F
Fishing, including bottom trawl (shrimping) | N | D | P | N
Mobile drilling operations or erection of structures.² | N | R | N | N
Lightering/transshipment | N | N | N | N
¹ Areas to be avoided are in subpart J of this part.
² Not part of Port Installation.
Key to regulated activities for Table 150.380(a):
C—Movement of the vessel is permitted when cleared by the person in charge of vessel operations.
D—Movement is not restricted, but recommended transit speed not to exceed 10 knots. Communication with the person in charge of vessel operations.
F—Only in an emergency. Anchoring will be avoided in a no anchoring area except in the case of immediate danger to the ship or persons on board.
N—Not permitted.
P—Transit is permitted when the vessel is not in the immediate area of a tanker, and when cleared by the vessel traffic supervisor.
R—Permitted only if determined that operation does not create unacceptable risk to personnel safety and security and operation. For transiting foreign-flag vessels, the requirement for clearance to enter the area to be avoided and no anchoring area is advisory in nature, but mandatory for an anchorage area established within 12 nautical miles.

(b) If the activity is not listed in table 150.380(a) of this section, nor otherwise provided for in this subpart, the Captain of the Port's permission is required before operating in the safety zone or regulated navigation area.

§ 150.385 What is required in an emergency?

In an emergency, for the protection of life or property, a vessel may deviate from a vessel movement requirement in this subpart without clearance from a manned deepwater port's person in charge of vessel operations if the master advises the port person in charge of the reasons for the deviation at the earliest possible moment.

Subpart E—Cargo Transfer Operations

§ 150.400 What does this subpart do?

This subpart prescribes rules that apply to the transfer of oil or natural gas at a deepwater port.

§ 150.405 How must a cargo transfer system be tested and inspected?

(a) No person may transfer oil or natural gas through a cargo transfer system (CTS) at a deepwater port unless it has been inspected and tested according to this section.

(b) The single point mooring (SPM)-CTS must be maintained as required by the design standards used to comply with § 149.650 of this chapter.

(c) If the manufacturer's maximum pressure rating for any cargo transfer hose in a SPM-CTS has been exceeded, unless it was exceeded for testing required by this section, the hose must be:

(1) Removed;

(2) Hydrostatically tested to 1.5 times its maximum working pressure for oil, or 1.1 times its maximum working pressure for natural gas; and

(3) Visually examined externally and internally for evidence of:

(i) Leakage;

(ii) Loose covers;

(iii) Kinks;

(iv) Bulges;

(v) Soft spots; and

(vi) Gouges, cuts, or slashes that penetrate the hose reinforcement.

(d) Each submarine hose used in cargo transfer operations in an SPM-CTS must have been removed from its coupling, surfaced, and examined as described in paragraphs (c)(2) and (c)(3) of this section, within the preceding 2 years for oil, or 15 months for natural gas; and

(e) Before resuming cargo transfer operations, each submarine hose in an SPM-CTS must be visually examined in place as described in paragraph (c)(3) of this section after cargo transfer operations are shut down due to sea conditions at the deepwater port.

§ 150.420 What actions must be taken when cargo transfer equipment is defective?

When any piece of equipment involved in oil or natural gas transfer equipment is defective:

(a) The piece of equipment must be replaced or repaired before making any further cargo transfers; and

(b) The repaired or replaced piece must meet or exceed its original specifications. Repairs must be conducted in accordance with the port's maintenance program outlined in the operations manual, and that program must provide for the repair of natural gas transfer hoses in accordance with § 127.405 of this chapter.

§ 150.425 What are the requirements for transferring cargo?

Cargo transfer procedures must be outlined in the port operations manual and must provide:

(a) Oil transfer procedures that accord with § 156.120 of this chapter; and

(b) Natural gas transfer procedures that accord with §§ 127.315, 127.317 and 127.319 of this chapter.

§ 150.430 What are the requirements for a declaration of inspection?

(a) No person may transfer cargo from a tanker to a manned deepwater port unless a declaration of inspection complying with § 156.150(c) for oil, or § 127.317 for natural gas, of this chapter has been filled out and signed by the vessel's officer in charge of cargo transfer and the person in charge (PIC) of cargo transfer for the deepwater port.

(b) Before signing a declaration of inspection, the vessel's officer in charge of cargo transfer must inspect the tanker, and the PIC of cargo transfer for the deepwater port must inspect the deepwater port. They must indicate, by initialing each item on the declaration of inspection form, that the tanker and deepwater port comply with § 156.150 for oil, or § 127.317 for natural gas, of this chapter.

§ 150.435 When are cargo transfers not allowed?

No person may transfer cargo at a deepwater port:

(a) When the person in charge (PIC) of cargo transfer is not on duty at the port;

(b) During an electrical storm in the port's vicinity;

(c) During a fire at the port, at the onshore receiving terminal, or aboard a vessel berthed at the port, unless the PIC of cargo transfer determines that a cargo transfer should be resumed as a safety measure;

(d) When a leak develops so that a sufficient quantity of product accumulates in the cargo containment underneath the manifold or piping;

(e) When there are not enough personnel nor equipment at the port dedicated to contain and remove the discharge or perform the emergency response functions as required in the port's response plan under part 154 for oil, or emergency plan under part 127 for natural gas, of this chapter;

(f) Whenever the emergency shutdown system should have activated but failed to;

(g) By lighterage, except in bunkering operations, unless otherwise authorized by the Captain of the Port;

(h) When the weather at the port does not meet the minimum operating conditions for cargo transfers as defined in the port's operations manual; or

(i) When prescribed by the port security plan under heightened security conditions at the port or its adjacent areas, or on vessels calling on or serving the port.

§ 150.440 How may the Captain of the Port order suspension of cargo transfers?

(a) In case of emergency, the COTP may order the suspension of cargo transfers at a port to prevent the discharge, or threat of discharge, of oil or natural gas, or to protect the safety of life and property.

(b) An order of suspension may be made effective immediately.

(c) The order of suspension must state the reasons for the suspension.

(d) The licensee may petition the District Commander to reconsider the order of suspension. The petition must be in writing, unless the order of suspension takes effect immediately, in which case the petition may be made by any means, but the petition does not delay the effective date of the suspension. The decision of the District Commander is considered a final agency action.

§ 150.445 When is oil in a single point mooring-oil transfer system (SPM-OTS) displaced with water?

(a) The oil in an SPM-OTS must be displaced with water, and the valve at the pipeline end manifold must be closed whenever:

(1) A storm warning forecasts weather conditions that will exceed the design operating criteria listed in the operations manual for the SPM-OTS;

(2) A vessel is about to depart the SPM because of storm conditions; or

(3) The SPM is not scheduled for use in an oil transfer operation within the next 7 days.

(b) The requirement in paragraph (a) of this section is waived if port officials can demonstrate to the Officer in Charge of Marine Inspection that a satisfactory alternative means of safely securing all cargo transfer hoses can be implemented in the event of severe weather conditions.

Subpart F—Emergency and Specialty Equipment

§ 150.500 What does this subpart do?

This subpart concerns requirements for maintenance, repair, and operational testing of emergency and specialty equipment at a deepwater port.

Maintenance and Repair

§ 150.501 How must emergency equipment be maintained and repaired?

All lifesaving, firefighting, and other emergency equipment at a deepwater port, including additional equipment not required to be on board the deepwater port, must be maintained in good working order and repaired according to the port's planned maintenance program and the requirements outlined in this subpart.

Lifesaving Equipment (General)

§ 150.502 What are the maintenance and repair requirements for lifesaving equipment?

(a) Each deepwater port must have on board, or in the operator's principal office in the case of an unmanned port, the manufacturer's instructions for performing onboard maintenance and repair of the port's lifesaving equipment. The instructions must include the following for each item of equipment, as applicable:

(1) Instructions for maintenance and repair;

(2) A checklist for use when carrying out the monthly inspections required under § 150.513;

(3) A schedule of periodic maintenance;

(4) A diagram of lubrication points with the recommended lubricants;

(5) A list of replaceable parts;

(6) A list of spare parts sources; and

(7) A log for records of inspections and maintenance.

(b) In lieu of the manufacturer's instructions required under paragraph (a) of this section, the deepwater port may have its own onboard planned maintenance program for maintenance and repair that is equivalent to the procedures recommended by the equipment manufacturer.

(c) The deepwater port must designate a person in charge of ensuring that maintenance and repair is carried out in accordance with the instructions required in paragraph (a) of this section.

(d) If deficiencies in the maintenance or condition of lifesaving equipment are identified, the Officer in Charge of Marine Inspection (OCMI) may review the instructions under paragraph (a) of this section and require appropriate changes to the instructions or operations to provide for adequate maintenance and readiness of the equipment.

(e) When lifeboats, rescue boats, and liferafts are not fully operational because of ongoing maintenance or repairs, there must be a sufficient number of fully operational lifeboats and liferafts available for use to accommodate all persons on the deepwater port.

(f) Except in an emergency, repairs or alterations affecting the performance of lifesaving equipment must not be made without notifying the OCMI in advance. The person in charge must report emergency repairs or alterations to lifesaving equipment to the OCMI, as soon as practicable.

(g) The person in charge must ensure that spare parts and repair equipment are provided for each lifesaving appliance and component subject to excessive wear or consumption.

Launching Appliances

§ 150.503 What are the time interval requirements for maintenance on survival craft falls?

(a) Each fall used in a launching device for survival craft or rescue boats must be turned end-for-end at intervals of not more than 30 months.

(b) Each fall must be replaced by a new fall when deteriorated, or at intervals of not more than 5 years, whichever is earlier.

(c) A fall that cannot be turned end-for-end under paragraph (a) of this section must be carefully inspected between 24 and 30 months after its installation. If the inspection shows that the fall is faultless, the fall may be continued in service up to 4 years after its installation. It must be replaced by a new fall 4 years after installation.

§ 150.504 When must the operator service and examine lifeboat and rescue boat launching appliances?

(a) The operator must service launching appliances for lifeboats and rescue boats at intervals recommended in the manufacturer's instructions under § 150.502(a), or according to the deepwater port's planned maintenance program under § 150.502(b).

(b) The operator must thoroughly examine launching appliances for lifeboats and rescue boats at intervals of not more than 5 years. Upon completion of the examination, the operator must subject the winch brakes of the launching appliance to a dynamic test.

§ 150.505 When must the operator service and examine lifeboat and rescue boat release gear?

(a) The operator must service lifeboat and rescue boat release gear at intervals recommended in the manufacturer's instructions under § 150.502(a), or according to the deepwater port's planned maintenance program under § 150.502(b).

(b) The operator must subject lifeboat and rescue boat release gear to a thorough examination at each annual self-certification inspection by personnel trained in examining the gear.

Inflatable Lifesaving Appliances

§ 150.506 When must the operator service inflatable lifesaving appliances and marine evacuation systems?

(a) The operator must service each inflatable lifejacket, hybrid inflatable lifejacket, and marine evacuation system at 1-year intervals after its initial packing. The operator may delay the servicing for up to 5 months to meet the next scheduled inspection of the deepwater port.

(b) The operator must service each inflatable liferaft no later than the month and year on its servicing sticker under 46 CFR 160.151-57(m)(3)(ii), except that the operator may delay servicing by up to 5 months to meet the next scheduled inspection of the deepwater port. The operator must also service each inflatable liferaft:

(1) Whenever the container of the raft is damaged; or

(2) Whenever the container straps or seals are broken.

§ 150.507 How must the operator service inflatable lifesaving appliances?

(a) The operator must service each inflatable liferaft according to 46 CFR subpart 160.151.

(b) The operator must service each inflatable lifejacket according to 46 CFR subpart 160.176.

(c) The operator must service each hybrid inflatable lifejacket according to the owner's manual and the procedures in 46 CFR subpart 160.077.

§ 150.508 What are the maintenance and repair requirements for inflatable rescue boats?

The operator must perform the maintenance and repair of inflatable rescue boats according to the manufacturer's instructions.

Operational Tests and Inspections (General)

§ 150.509 How must emergency equipment be tested and inspected?

All lifesaving, firefighting, and other emergency equipment at a deepwater port must be tested and inspected under this subpart.

§ 150.510 How must tested emergency equipment be operated?

The equipment must be operated under the operating instructions of the equipment's manufacturer when tests or inspections include operational testing of emergency equipment.

§ 150.511 What are the operational testing requirements for lifeboat and rescue boat release gear?

(a) Lifeboat and rescue boat release gear must be operationally tested under a load of 1.1 times the total mass of the lifeboat or rescue boat when loaded with its full complement of persons and equipment.

(b) The test must be conducted whenever the lifeboat, rescue boat, or its release gear is overhauled, or at least once every 5 years.

(c) The Officer in Charge of Marine Inspection may consider alternate operational test procedures to those under paragraph (a) of this section.

Frequency of Tests and Inspections

§ 150.512 What occurs during the weekly tests and inspections?

The required weekly tests and inspections of lifesaving equipment are as follows:

(a) The operator must visually inspect each survival craft, rescue boat, and launching device to ensure its readiness for use;

(b) The operator must test the general alarm system; and

(c) The operator must test for readiness of the engine, starting device, and communications equipment of each lifeboat and rescue boat according to the manufacturer's instructions.

§ 150.513 What occurs during the monthly tests and inspections?

(a) The operator must inspect each item of lifesaving equipment under § 150.502(b) of this subpart monthly, to ensure that the equipment is complete and in good order. The operator must keep on the deepwater port, or in the operator's principal office in the case of an unmanned deepwater port, a report of the inspection that includes a statement as to the condition of the equipment, and make the report available for review by the Coast Guard.

(b) The operator must test, on a monthly basis, each emergency position indicating radio beacon (EPIRB) and each search and rescue transponder (SART), other than an EPIRB or SART in an inflatable liferaft. The operator must test the EPIRB using the integrated test circuit and output indicator to determine whether the EPIRB is operational.

§ 150.514 What are the annual tests and inspections?

At least annually, the operator must:

(a) Strip, clean, thoroughly inspect, and, if needed, repair each lifeboat, rescue boat, and liferaft. At that time, the operator must also empty, clean, and refill each fuel tank with fresh fuel;

(b) Thoroughly inspect and, if needed, repair each davit, winch, fall, and other launching device;

(c) Check all lifesaving equipment and replace any item that is marked with an expiration date that has passed;

(d) Check all lifesaving equipment batteries and replace any battery that is marked with an expiration date that has passed; and

(e) Replace any battery that is not marked with an expiration date if that battery is used in an item of lifesaving equipment, except for a storage battery used in a lifeboat or rescue boat.

(f) The requirements in this section do not relieve the person in charge of the requirement to keep the equipment ready for immediate use.

Weight Testing

§ 150.515 What are the requirements for weight testing of newly installed or relocated craft?

(a) The operator must perform installation weight testing, using the procedure outlined in 46 CFR 199.45(a)(1) on each new lifeboat, rescue boat, and davit-launched liferaft system.

(b) The operator must conduct installation weight tests, according to paragraph (a) of this section, when survival crafts are relocated to another deepwater port.

§ 150.516 What are the periodic requirements for weight testing?

The operator must weight test, using the procedure outlined in 46 CFR 199.45(a)(1), each lifeboat, davit-launched liferaft, and rescue boat every time a fall is replaced or turned end-for-end.

§ 150.517 How are weight tests supervised?

(a) The installation and periodic tests required by §§ 150.515 and 150.516 of this subpart must be supervised by a person familiar with lifeboats, davit-launched liferafts, rescue boats, and with the test procedures under those sections.

(b) The person supervising the tests must attest, in writing, that the tests have been performed according to Coast Guard regulations. The operator must keep a copy of the supervisor's attesting statement on board the deepwater port, or in the operator's principal office in the case of an unmanned deepwater port, and make it available to the Officer in Charge of Marine Inspection.

Personal Safety Gear

§ 150.518 What are the inspection requirements for work vests and immersion suits?

(a) All work vests and immersion suits must be inspected by the owner or operator pursuant to § 150.105 of this part to determine whether they are in serviceable condition.

(b) If a work vest or immersion suit is inspected and is in serviceable condition, then it may remain in service. If not, then it must be removed from the deepwater port.

Emergency Lighting and Power Systems

§ 150.519 What are the requirements for emergency lighting and power systems?

(a) The operator must test and inspect the emergency lighting and power systems at least once a week to determine if they are in proper operating condition. If they are not in proper operating condition, then the operator must repair or replace their defective parts.

(b) The operator must test, under load, each emergency generator driven by an internal combustion engine that is used for an emergency lighting and power system at least once per month for a minimum of 2 hours.

(c) The operator must test each storage battery for the emergency lighting and power systems at least once every 6 months to demonstrate the ability of the batteries to supply the emergency loads for an 8-hour period. The operator must follow the manufacturer's instructions in performing the battery test to ensure the batteries are not damaged during testing.

Fire Extinguishing Equipment

§ 150.520 When must fire extinguishing equipment be tested and inspected?

The operations manual must specify how and when the operator will test and inspect each portable fire extinguisher, semi-portable fire extinguisher, and fixed fire extinguishing system. These specifications must accord with 46 CFR 31.10-18.

§ 150.521 What records are required?

(a) The operator must maintain a record of each test and inspection under § 150.520 on the deepwater port, or in the operator's principal office in the case of an unmanned deepwater port, for at least 2 years.

(b) The record must show:

(1) The date of each test and inspection;

(2) The number or other identification of each fire extinguisher or system tested or inspected; and

(3) The name of the person who conducted the test or inspection and the name of the company that person represents.

Miscellaneous Operations

§ 150.530 What may the fire main system be used for?

The fire main system may be used only for firefighting and deck washing, unless it is capable of being isolated and can provide the applicable minimum pressures required in § 149.416 of this chapter.

§ 150.531 How many fire pumps must be kept ready for use at all times?

At least one of the fire pumps required by this subchapter must be kept ready for use at all times.

§ 150.532 What are the requirements for connection and stowage of fire hoses?

(a) At least one length of fire hose, with a combination nozzle, must be connected to each fire hydrant at all times. If it is exposed to the weather, the fire hose may be removed from the hydrant during freezing weather.

(b) When not in use, a fire hose connected to a fire hydrant must be stowed on a hose rack.

(c) The hydrant nearest the edge of a deck must have enough fire hose length connected to it to allow 10 feet of hose, when pressurized, to curve over the edge.

§ 150.540 What are the restrictions on fueling aircraft?

If the deepwater port is not equipped with a permanent fueling facility, the Captain of the Port's approval is necessary before aircraft may be fueled at the port.

§ 150.550 What are the requirements for the muster list?

(a) A muster list must be posted on each pumping platform complex.

(b) The muster list must:

(1) List the name and title of each person, in order of succession, who is the person in charge of the pumping platform complex for purposes of supervision during an emergency;

(2) List the special duties and duty stations for each person on the pumping platform complex, in the event of an emergency that requires the use of equipment covered by part 149 of this chapter; and

(3) Identify the signals for calling persons to their emergency stations and for abandoning the pumping platform complex.

§ 150.555 How must cranes be maintained?

Cranes must be operated, maintained, and tested in accordance with 46 CFR part 109, subpart F.

Subpart G—Workplace Safety and Health

§ 150.600 What does this subpart do?

This subpart sets safety and health requirements for the workplace on a deepwater port.

Safety and Health (General)

§ 150.601 What are the safety and health requirements for the workplace on a deepwater port?

(a) Each operator of a deepwater port must ensure that the port complies with the requirements of this subpart, and must ensure that all places of employment within the port are:

(1) Maintained in compliance with workplace safety and health regulations of this subpart; and

(2) Free from recognized hazardous conditions.

(b) Persons responsible for actual operations, including owners, operators, contractors, and subcontractors must ensure that those operations subject to their control are:

(1) Conducted in compliance with workplace safety and health regulations of this subpart; and

(2) Free from recognized hazardous conditions.

(c) The term “recognized hazardous conditions,” as used in this subpart, means conditions that are:

(1) Generally known among persons in the affected industry as causing, or likely to cause, death or serious physical harm to persons exposed to those conditions; and

(2) Routinely controlled in the affected industry.

§ 150.602 What occupational awareness training is required?

(a) Each deepwater port operator must ensure that all port personnel are provided with information and training on recognized hazardous conditions in their workplace, including, but not limited to, electrical, mechanical, and chemical hazards. Specific required training topics are outlined in § 150.15(w).

(b) As an alternative to compliance with the specific provisions of this subpart, an operator may provide, for workplace safety and health, the implementation of an approved, port-specific safety and environmental management program (SEMP). Operators should consult with the Commandant (G-P) in preparing an SEMP. Five copies of a proposed SEMP must be submitted to the Commandant for evaluation. The Commandant may consult with the local Officer in Charge of Marine Inspection, and will approve the SEMP if he or she finds that the SEMP provides at least as much protection of workplace safety and health as do the specific provisions of this subpart.

§ 150.603 What emergency response training is required?

The requirements for emergency response training must be outlined in the port operations manual.

§ 150.604 Who controls access to medical monitoring and exposure records?

If medical monitoring is performed or exposure records are maintained by an employer, the owner, operator, or person in charge must establish procedures for access to these records by personnel.

§ 150.605 What are the procedures for reporting a possible workplace safety or health violation at a deepwater port?

Any person may notify the Officer in Charge of Marine Inspection verbally or in writing of:

(a) A possible violation of a regulation in this part; or

(b) A hazardous or unsafe working condition on any deepwater port.

§ 150.606 After learning of a possible violation, what does the Officer in Charge of Marine Inspection do?

After reviewing the information received under § 150.605 of this part, and conducting any necessary investigation, the OCMI notifies the owner or operator of any deficiency or hazard and initiates enforcement measures as the circumstances warrant. The identity of any person making a report of a violation will remain confidential, except to the extent necessary for the performance of official duties or as agreed to by the person.

General Workplace Conditions

§ 150.607 What are the general safe working requirements?

(a) All equipment, including machinery, cranes, derricks, portable power tools, and, most importantly, safety gear must be used in a safe manner and in accordance with the manufacturer's recommended practice, unless otherwise stated in this subchapter.

(b) All machinery and equipment must be maintained in proper working order or removed.

Personal Protective Equipment

§ 150.608 Who is responsible for ensuring that the personnel use or wear protective equipment and are trained in its use?

(a) Each deepwater port operator must ensure that all personnel wear personal protective equipment when within designated work areas.

(b) Each deepwater port operator must ensure that:

(1) All personnel engaged in the operation are trained in the proper use, limitations, and maintenance of the personal protective equipment specified by this subpart;

(2) The equipment is maintained and used or worn as required by this subpart; and

(3) The equipment is made available and on hand for all personnel engaged in the operation.

Eyes and Face

§ 150.609 When is eye and face protection required?

The operator must provide eye and face protectors for the use of persons engaged in or observing activities where damage to the eye is possible, such as welding, grinding, machining, chipping, handling hazardous materials, or burning or cutting acetylene. These eye and face protectors must be:

(a) Properly marked and in compliance with the requirements of 29 CFR 1910.133; and

(b) Maintained in good condition or replaced when necessary.

§ 150.610 Where must eyewash equipment be located?

Portable or fixed eyewash equipment providing emergency relief must be immediately available near any area where there is a reasonable probability that eye injury may occur.

Head

§ 150.611 What head protection is required?

The deepwater port operator must ensure that where there is a reasonable probability of injury from falling objects or contact with electrical conductors, personnel working or visiting such an area wear head protectors designed to protect them against such injury and complying with 29 CFR 1910.135.

Feet

§ 150.612 What footwear is required?

The deepwater port operator must ensure that while personnel are working in an area, or engaged in activities, where there is a reasonable probability for foot injury to occur, they wear footwear that complies with 29 CFR 1910.136, except for when environmental conditions exist that present a hazard greater than that against which the footwear is designed to protect.

Noise and Hearing Protection

§ 150.613 What are the requirements for a noise monitoring and hearing protection survey?

(a) The deepwater port operator must measure noise and provide hearing protection in accordance with 29 CFR 1910.95.

(b) The initial noise survey for a deepwater port must be completed within one year of beginning operations.

Clothing

§ 150.614 When is protective clothing required?

The deepwater port operator must ensure that personnel exposed to flying particles, radiant energy, heavy dust, or hazardous materials wear clothing and gloves that protect against the hazard involved.

Electrical

§ 150.615 What safe practices are required?

(a) The deepwater port operator must ensure that before personnel begin work that might expose them to an electrical charge, they turn off the electricity, unless doing so is not feasible.

(b) The deepwater port operator must ensure that personnel turning off equipment pursuant to paragraph (a) of this section follow the lockout or tagging procedures specified in 29 CFR 1910.147, and in §§ 150.616 and 150.617.

(c) The deepwater port operator must ensure that, to prevent electrical shock, personnel receive training in electrical, safety-related work practices in the area of the work they perform, including the use of electrical personal protective equipment appropriate to protect against potential electrical hazards.

Lockout/Tagout

§ 150.616 What are the requirements for lockout?

The deepwater port operator must ensure that, if electrical, hydraulic, mechanical, or pneumatic equipment does not need to be powered during the work described in § 150.615(a), and has a lockout or other device to prevent the equipment from being turned on unintentionally, that the lockout or other device is activated.

§ 150.617 What are the requirements for tagout?

(a) The deepwater port operator must ensure that, before work takes place on equipment that is disconnected from the power source, a tag complying with this section is placed at the location where the power is disconnected. The operator must ensure that, if there is a control panel for the equipment in line between the equipment and the location where the power is disconnected, a tag complying with this section is also placed on the control panel.

(b) Each tag or sign must have words stating:

(1) That equipment is being worked on;

(2) That power must not be restored or the equipment activated; and

(3) The name of the person who placed the tag.

(c) Only the person who placed the tag, that person's immediate supervisor, or the relief person of either, is authorized to remove the tag.

Respiratory Protection

§ 150.618 What are the requirements for respiratory protection?

(a) The deepwater port operator must ensure that respiratory protection measures are taken in compliance with 29 CFR 1910.134 including establishment of a formal respiratory protection program.

(b) The deepwater port operator must ensure that measures for protection from exposure to asbestos are taken in compliance with 29 CFR 1910.1001.

(c) The deepwater port operator must ensure that measures for protection from exposure to inorganic lead are taken in compliance with 29 CFR 1910.1025.

Fall Arrest

§ 150.619 What are the fall arrest system requirements?

(a) The deepwater port operator must ensure that all personnel who are exposed to the risk of falling more than 6 feet, or who are at risk of falling any distance onto equipment with irregular surfaces, exposed moving components, electrically energized cables or connectors, or water, are protected against such a fall by guardrails or other measures that comply with 29 CFR 1910.23 or 1910.28, or by the use of suitable lifesaving equipment that complies with 46 CFR part 160.

(b) In addition, the operator must take measures to control the risk of falling, tripping, or slipping in work areas and walkways due to the presence of loose material or wet conditions, including spills.

Machine Guards

§ 150.620 What are the requirements for protecting personnel from machinery?

The deepwater port operator must ensure that all personnel are protected from the risks created by operating machinery through the use of guard devices or other measures that comply with 29 CFR 1910.212, or through the use of conspicuously posted warning signs that comply with § 150.626 of this part.

Slings

§ 150.621 What are the requirements for slings?

The use of slings for handling material must comply with the requirements of 29 CFR 1910.184.

Warning Signs

§ 150.622 What are the warning sign requirements?

The construction and use of warning signs must be in compliance with 29 CFR 1910.144 and 1910.145.

Confined Space Safety

§ 150.623 What are the requirements for protecting personnel from hazards associated with confined spaces?

(a) All personnel must be protected by suitable measures from inadvertently entering a confined space containing a hazardous atmosphere that can cause death or serious injury.

(b) Each deepwater port operator shall evaluate the specific hazards associated with entering the port's confined spaces, and develop a confined space safe entry program that complies with:

(1) 29 CFR 1910.146 for permit-required confined spaces, where applicable; and

(2) A national consensus standard, as that term is defined in 29 CFR 1910.2, or that is set by a nationally recognized testing laboratory as defined in 29 CFR 1910.7 and that provides levels of personnel protection at least equivalent to those provided for shipyard personnel by 29 CFR part 1915, subpart B.

(c) To implement the confined space safe entry program, the deepwater port operator must determine the education, training, and experience needed by the designated competent persons to safely conduct their duties, including:

(1) Identification, testing, and certification of confined spaces; and

(2) Training of personnel regarding dangers.

(d) These measures must be specified in the port operations manual, along with a list of all confined spaces on the port, describing the specific hazards associated with each such space.

Blood-Borne Pathogens

§ 150.624 What are the requirements for protecting personnel from blood-borne pathogens?

Measures for protection from the dangers of blood-borne pathogens must be taken in compliance with 29 CFR 1910.1030.

Hazard Communication Program

§ 150.625 What must the hazard communication program contain?

(a) Each deepwater port must have a hazard communication program available for the training of, and review by, all personnel on the deepwater port.

(b) The program must be in writing and describe or include:

(1) An inventory of each hazardous material on the deepwater port;

(2) The potential hazards of the material;

(3) The material's intended use on the deepwater port;

(4) The methods for handling and storing the material;

(5) The protective measures and equipment used to avoid hazardous exposure;

(6) The labeling, marking, or tagging of the material;

(7) The special precautions, such as lockout and tagout under §§ 150.616 and 150.617, that should be emphasized when working around the material;

(8) Information and training required for personnel on board the deepwater port; and

(9) A material safety data sheet for the material.

(c) The information on a material safety data sheet itself may be used by the employer as a tool for educating employees about the hazards posed by the material, provided the employees acknowledge and can demonstrate appropriate precautionary measures to minimize risk to health and safety.

(d) The program must be supplemented as necessary to address each hazardous material newly introduced on the deepwater port.

§ 150.626 What is the hazard communication program used for?

(a) The hazard communication program must ensure that all deepwater port employees, when required by their duties, work safely and responsibly with hazardous materials.

(b) The person in charge for safety must ensure that, before a person is allowed to work at the deepwater port:

(1) A copy of the hazard communication program is made available to the person; and

(2) The person is trained in the information contained in the program.

(c) The training must be supplemented to address each hazardous material newly introduced on the deepwater port.

§ 150.627 Must material safety data sheets be available to all personnel?

(a) The person in charge must ensure that a material safety data sheet (MSDS) for each hazardous material on the fixed or floating deepwater port is made available to all personnel on the port.

(b) Each MSDS must contain at least information on the use, proper storage, potential hazards, and appropriate protective and response measures to be taken when exposed to or handling the material.

§ 150.628 How must the operator label, tag, and mark a container of hazardous material?

The operator must label, tag, or mark each container of hazardous material with the identity of the hazardous material and the appropriate physical, health, reactive and other special condition hazard warnings. The only exception is for portable containers that transfer hazardous material from a labeled container to the work site for immediate use by the person who performs the transfer.

Subpart H—Aids to Navigation

§ 150.700 What does this subpart do?

This subpart provides requirements for the operation of aids to navigation at a deepwater port.

§ 150.705 What are the requirements for maintaining and inspecting aids to navigation?

(a) All aids to navigation must be maintained in proper operating condition at all times.

(b) The Coast Guard may inspect all aids to navigation at any time without notice.

§ 150.710 What are the requirements for supplying power to aids to navigation?

The power of all navigation aids must be maintained, at all times, at or above the level recommended by the equipment's manufacturer.

§ 150.715 What are the requirements for lights used as aids to navigation?

(a) Each light under part 149, subpart E of this chapter, used as a navigation aid on a deepwater port, must be lit continuously from sunset to sunrise.

(b) During construction, a platform or single point mooring, if positioned on the surface or within the net under keel depth for tankers transiting within the safety zone, must be marked with at least one of the following:

(1) The obstruction lights required for the structure in part 149, subpart E of this chapter;

(2) The fixed lights of a vessel attending the structure; or

(3) The general illumination lights on the structure, if they meet or exceed the intensity required for obstruction lights required for the structure.

(c) The focal plane of each obstruction light and lit rotating beacon must always coincide with the horizontal plane that passes through the light source.

§ 150.720 What are the requirements for sound signals?

The sound signal on each pumping platform complex must be operated whenever the visibility in any horizontal direction from the structure is less than 5 miles. If the platform is under construction, this requirement may be met by the use of a 2-second whistle blast, made every 20 seconds by a vessel moored at the platform.

Subpart I—Reports and Records

§ 150.800 What does this subpart do?

This subpart concerns reports and records that the licensee must keep and submit.

Reports

§ 150.805 What reports must be sent both to a classification society and to the Coast Guard?

The licensee must submit to the Officer in Charge of Marine Inspection a copy of each report submitted to an authorized classification society, as defined in 46 CFR 8.100, for maintenance of a single point mooring's class under the rules of that society.

§ 150.810 Reporting a problem with an aid to navigation.

(a) Any problem affecting the operation or characteristics of a navigation aid at the deepwater port must be reported to the District Commander by the fastest means available. The report must identify:

(1) The navigation aid affected;

(2) The aid's location;

(3) The nature of the problem; and

(4) The estimated repair time.

(b) When the problem is corrected, the District Commander must be notified.

§ 150.812 What is the purpose of reporting casualties on deepwater ports?

The Coast Guard, upon receipt of a reported marine casualty on a deepwater port, as outlined in § 150.815, will conduct an investigation to determine the cause of the incident and to take appropriate measures to promote safety of life and property. The Coast Guard investigator will follow the procedures outlined in 46 CFR subpart 4.07 in conducting the investigation.

§ 150.815 How must casualties be reported?

(a) Immediately after aiding the injured and stabilizing the situation, the owner, operator, or person in charge of a deepwater port must notify the nearest Sector, Marine Safety Unit, or other Coast Guard unit of each event on, or involving, the deepwater port that results in one or more of the following:

(1) Loss of life;

(2) An injury that requires professional medical treatment beyond first aid and, if the person is engaged or employed on the deepwater port, that renders the individual unfit to perform his or her routine duties;

(3) Impairment of the port's operations or primary lifesaving or fire-fighting equipment; or

(4) Property damage in excess of $100,000, including damage resulting from a vessel or aircraft striking the port. This amount includes the cost of labor and material to restore all affected items, including, but not limited to, restoring the port and the vessel or aircraft to their condition before the damage. This amount does not include the cost of salvage, cleaning, gas freeing, dry-docking, or demurrage of the port, vessel, or aircraft.

(b) The notice under paragraph (a) of this section must identify the following:

(1) The deepwater port involved;

(2) The owner, operator, or person in charge of the port;

(3) The nature and circumstances of the event; and

(4) The nature and extent of the injury and damage resulting from the event.

(c) The operator will ensure that the report contains the information pertinent to OCS operations as outlined in part 140 of this chapter when the deepwater port is co-located on a facility regulated by the Minerals Management Service.

§ 150.820 When must a written report of casualty be submitted, and what must it contain?

(a) In addition to the notice of casualty under § 150.815, the owner, operator, or person in charge of a deepwater port must submit a written report of the event to the nearest Officer in Charge of Marine Inspection (OCMI) within 5 days of the casualty notice. The report may be on Form 2692, Report of Marine Accident, Injury, or Death, or in narrative form if it contains all of the applicable information requested in Form 2692. Copies of Form 2692 are available from the OCMI.

(b) The written report must also include the information relating to alcohol and drug involvement specified by 46 CFR 4.05-12. The deepwater port operator will ensure compliance with the chemical testing procedures outlined in 46 CFR part 16.

(c) If filed immediately after the event, the written report required by paragraph (a) of this section serves as the notice required under § 150.815.

(d) The operator will ensure that the written report is provided to the nearest regional Minerals Management Service (MMS) office when the deepwater port is co-located with an MMS-regulated facility.

§ 150.825 Reporting a diving-related casualty.

Deaths and injuries related to diving within the safety zone of a deepwater port must be reported according to 46 CFR 197.484 and 197.486, rather than to §§ 150.815 and 150.820.

§ 150.830 Reporting a pollution incident.

Oil pollution incidents involving a deepwater port are reported according to §§ 135.305 and 135.307 of this chapter.

§ 150.835 Reporting sabotage or subversive activity.

The owner, operator, or person in charge of a deepwater port must immediately report to the Captain of the Port, by the fastest possible means, any evidence of sabotage or subversive activity against any vessel at the deepwater port or against the deepwater port itself.

Records

§ 150.840 What records must be kept?

(a) The licensee must keep copies at the deepwater port of the reports, records, test results, and operating data required by this part. In the case of unmanned deepwater ports, these copies must be kept at the operator's principal office rather than on the port.

(b) The copies must be readily available to Coast Guard inspectors.

(c) Except for personnel records under § 150.845, the copies must be kept for 3 years.

§ 150.845 Personnel records.

The licensee must keep documentation on the designation and qualification of the supervisory positions, outlined in the port operations manual, that are responsible for the management of the deepwater port. These records must be kept for the life of the deepwater port.

§ 150.850 How long must a declaration of inspection form be kept?

The licensee must keep signed copies of the declaration of inspection forms required by § 150.430 for one month from the date of signature.

Subpart J—Safety Zones, No Anchoring Areas, and Areas To Be Avoided

§ 150.900 What does this subpart do?

(a) This subpart provides requirements for the establishment, restrictions, and location of safety zones, no anchoring areas (NAAs), and areas to be avoided (ATBAs) around deepwater ports.

(b) Subpart D of this part, concerning vessel navigation and activities permitted and prohibited at deepwater ports, applies to safety zones, NAAs, ATBAs, and their adjacent waters; and supplements the International Regulations for Preventing Collisions at Sea.

(c) Recommended shipping safety fairways associated with deepwater ports are described in part 166 of this chapter.

§ 150.905 Why are safety zones, no anchoring areas, and areas to be avoided established?

(a) Safety zones, no anchoring areas (NAAs) and areas to be avoided (ATBAs) under this subchapter are established to promote safety of life and property, marine environmental protection, and navigational safety at deepwater ports and adjacent waters.

(b) Safety zones are the only federally regulated navigation areas. They accomplish these objectives by preventing or controlling specific activities, limiting access by vessels or persons, and by protecting the living resources of the sea from harmful agents.

(c) The NAAs and ATBAs are established via the International Maritime Organization (IMO). An NAA, specifically established to protect vessels in transit and sub-surface deepwater port components, will be mandatory. An ATBA will be a recommendatory routing measure.

(d) The sizes of restricted areas will be the minimum size needed to ensure safety, while at the same time considering potential impacts on other activities, including recreational boating, fishing, and OCS activity.

§ 150.910 What installations, structures, or activities are prohibited in a safety zone?

No installations, structures, or activities that are incompatible with or that present an unacceptable risk to safety of the deepwater port's operations or activity are allowed in the safety zone of a deepwater port.

§ 150.915 How are safety zones, no anchoring areas, and areas to be avoided established and modified?

(a) Safety zones are developed and designated during the application process for a deepwater port license, and may be established or modified through rulemaking. Rulemakings will afford prior public notice and comment, except when there is good cause not to do so, for example due to an imminent threat to the safety of life and property.

(b) Before a safety zone, no anchoring area (NAA), or area to be avoided (ATBA) is established, all factors detrimental to safety are considered, including but not limited to:

(1) The scope and degree of the risk or hazard involved;

(2) Vessel traffic characteristics and trends, including traffic volume, the sizes and types of vessels involved, potential interference with the flow of commercial traffic, the presence of any unusual cargoes, and other similar factors;

(3) Port and waterway configurations and variations in local conditions of geography, climate and other similar factors;

(4) The need for granting exemptions for the installation and use of equipment or devices for use with vessel traffic services for certain classes of small vessels, such as self-propelled fishing vessels and recreational vessels;

(5) The proximity of fishing grounds, oil and gas drilling and production operations, or other potential or actual conflicting activity;

(6) Environmental factors;

(7) Economic impact and effects;

(8) Existing vessel traffic services; and

(9) Local practices and customs, including voluntary arrangements and agreements within the maritime community.

(c) The Executive Branch, acting through the Secretary of State and Commandant (G-P) proposes NAAs and ATBAs for deepwater ports to the International Maritime Organization (IMO) for approval. The ATBAs will be implemented after IMO approval is granted and announced in an IMO Circular, and after publication of a notice in the Federal Register.

§ 150.920 How can I find notice of new or proposed safety zones?

In addition to documents published in the Federal Register under § 150.915, the District Commander may provide public notice of new or proposed safety zones by Broadcast Notices to Mariners, Notices to Mariners, Local Notices to Mariners, newspapers, broadcast stations, or other means.

§ 150.925 How long may a safety zone, no anchoring area, or area to be avoided remain in place?

A safety zone, no anchoring area, or area to be avoided may go into effect as early as initial delivery of construction equipment and materials to the deepwater port site, and may remain in place until the deepwater port is removed.

§ 150.930 What datum is used for the geographic coordinates in this subpart?

The geographic coordinates used in this subpart are not intended for plotting on charts or maps using coordinates based on the North American Datum of 1983 (NAD 83). If you use the geographic coordinates in this subpart to plot on a chart or map referencing NAD 83, you must make corrections as shown on the chart or map.

§ 150.940 Safety zones for specific deepwater ports.

(a) Louisiana Offshore Oil Port (LOOP):

(1) The location of the safety zone for LOOP is as described in Table 150.940(A):

Table 150.940(A).—Safety Zone for LOOP, Gulf of Mexico
Latitude N | Longitude W
(i) Starting at:
28°55′23″ | 90°00′37″
(ii) A rhumb line to:
28°53′50″ | 90°04′07″
(iii) Then an arc with a 4,465 meter (4,883 yard) radius centered at the port's pumping platform complex:
28°53′06″ | 90°01′30″
(iv) To a point:
28°51′07″ | 90°03′06″
(v) Then a rhumb line to:
28°50′09″ | 90°02′24″
(vi) Then a rhumb line to:
28°49′05″ | 89°55′54″
(vii) Then a rhumb line to:
28°48′36″ | 89°55′00″
(viii) Then a rhumb line to:
28°52′04″ | 89°52′42″
(ix) Then a rhumb line to:
28°53′10″ | 89°53′42″
(x) Then a rhumb line to:
28°54′52″ | 89°57′00″
(xi) Then a rhumb line to:
28°54′52″ | 89°59′36″
(xii) Then an arc with a 4,465 meter (4,883 yard) radius centered again at the port's pumping platform complex;
(xiii) To the point of starting:
28°55′23″ | 90°00′37″

(2) The areas to be avoided within the safety zone are:

(i) The area encompassed within a circle having a 600 meter radius around the port's pumping platform complex and centered at:

Latitude N | Longitude W
28°53′06″ | 90°−1′30″

(ii) The six areas encompassed within a circle having a 500 meter radius around each single point mooring (SPM) at the port and centered at:

Latitude N | Longitude W
28°54′12″ | 90°00′37″
28°53′16″ | 89°59′59″
28°52′15″ | 90°00′19″
28°51′45″ | 90°01′25″
28°52′08″ | 90°02′33″
28°53′07″ | 90°03′02″

(3) The anchorage area within the safety zone is an area enclosed by the rhumb lines joining points at:

Latitude N | Longitude W
28°52′21″ | 89°57′47″
28°54′05″ | 89°56′38″
28°52′04″ | 89°52′42″
28°50′20″ | 89°53′51″
28°52′21″ | 89°57′47″

(b) The Gulf Gateway Deepwater Port (GGDWP):

(1) Description. The GGDWP safety zone is centered at the following coordinates: 28°05′16″ N, 093°03′07″ W. This safety zone, encompassed within a circle having a 500 meter radius around the primary component of the Gulf Gateway Deepwater Port, the submerged loading turret (buoy) and the pipeline end manifold (STL/PLEM), is located approximately 116 miles off the Louisiana coast at West Cameron Area, South Addition Block 603 “A”.

(i) A mandatory no anchoring area contained within a circle of radius 1,500 meters centered on the following geographical position is designated as a mandatory no anchoring area:

Latitude N | Longitude W
28°05′27″ | 93°03′12″

(ii) An area to be avoided within a circle of radius 2,000 meters centered on the following geographical position is designated as an area to be avoided:

Latitude N | Longitude W
28°05′27″ | 93°03′12″

(2) Regulations. Deepwater port support vessels desiring to enter the safety zone must contact and obtain permission from the LNG Regasification Vessel (LNGRV) stationed at the deepwater port. The LNGRV can be contacted on VHF-FM Channel 13.

Dated: September 21, 2006.
C.E. Bone,
Rear Admiral, U.S. Coast Guard, Assistant Commandant for Prevention.

[FR Doc. 06-8274 Filed 9-25-06; 9:49 am]

BILLING CODE 4910-15-P